DEPARTMENT OF HOMELAND SECURITY

Coast Guard

46 CFR Parts 30, 150, and 153

[Docket No. USCG-2013-0423]

RIN 1625-AB94

2012 Liquid Chemical Categorization Updates

AGENCY: Coast Guard, DHS.

ACTION: Interim rule.

SUMMARY: The Coast Guard is updating and revising regulatory tables that list liquid hazardous materials, liquefied gases, and compressed gases that have been approved for maritime transportation in bulk, and that indicate how each substance's pollution potential has been categorized. The interim rule provides new information about approved substances and their categorizations, but would not make any changes in which substances are approved or how each substance is categorized. Updated information is of value to shippers and to the owners and operators of U.S.-flag tank and bulk cargo vessels in any waters and most foreign-flag tank and oceangoing bulk cargo vessels in U.S. waters. This interim rule promotes the Coast Guard's maritime safety and stewardship missions.

DATES: This interim rule is effective September 16, 2013. Comments and related material must either be submitted to our online docket via http://www.regulations.gov on or before November 14, 2013 or reach the Docket Management Facility by that date.

ADDRESSES: You may submit comments identified by docket number USCG-2013-0423 using any one of the following methods:

(1) Federal eRulemaking Portal: http://www.regulations.gov.

(2) Fax: 202-493-2251.

(3) Mail: Docket Management Facility (M-30), U.S. Department of Transportation, West Building Ground Floor, Room W12-140, 1200 New Jersey Avenue SE., Washington, DC 20590-0001.

(4) Hand delivery: Same as mail address above, between 9 a.m. and 5 p.m., Monday through Friday, except Federal holidays. The telephone number is 202-366-9329.

To avoid duplication, please use only one of these four methods. See the “Public Participation and Request for Comments” portion of the SUPPLEMENTARY INFORMATION section below for instructions on submitting comments.

FOR FURTHER INFORMATION CONTACT: If you have questions on this rule, email or call LCDR Marie Castillo-Bletso, Coast Guard; email: Marie.M.Castillo-Bletso@uscg.mil, telephone: 202-372-1023. If you have questions on viewing or submitting material to the docket, call Barbara Hairston, Program Manager, Docket Operations, telephone 202-366-9826.

SUPPLEMENTARY INFORMATION:

Table of Contents for Preamble

I. Public Participation and Request for Comments

A. Submitting Comments

B. Viewing Comments and Documents

C. Privacy Act

D. Public meeting

II. Abbreviations

III. Basis and Purpose

IV. Background

V. Discussion of the Interim Rule

VI. Regulatory Analyses

A. Regulatory Planning and Review

B. Small Entities

C. Assistance for Small Entities

D. Collection of Information

E. Federalism

F. Unfunded Mandates Reform Act

G. Taking of Private Property

H. Civil Justice Reform

I. Protection of Children

J. Indian Tribal Governments

K. Energy Effects

L. Technical Standards

M. Environment

I. Public Participation and Request for Comments

We encourage you to participate in this rulemaking by submitting comments and related materials. All comments received will be posted, without change, to http://www.regulations.gov and will include any personal information you have provided.

A. Submitting Comments

If you submit a comment, please include the docket number for this rulemaking (USCG-2013-0423), indicate the specific section of this document to which each comment applies, and provide a reason for each suggestion or recommendation. You may submit your comments and material online, or by fax, mail or hand delivery, but please use only one of these means. We recommend that you include your name and a mailing address, an email address, or a phone number in the body of your document so that we can contact you if we have questions regarding your submission.

To submit your comment online, go to http://www.regulations.gov and insert “USCG-2013-0423” in the “Search” box. Click on “Submit a Comment” in the “Actions” column. If you submit your comments by mail or hand delivery, submit them in an unbound format, no larger than 8½ by 11 inches, suitable for copying and electronic filing. If you submit comments by mail and would like to know that they reached the Facility, please enclose a stamped, self-addressed postcard or envelope. We will consider all comments and material received during the comment period and may change this interim rule based on your comments.

B. Viewing Comments and Documents

To view comments, as well as documents mentioned in this preamble as being available in the docket, go to http://www.regulations.gov and insert “USCG-2013-0423” in the “Search” box. Click “Search.” Click the “Open Docket Folder” in the “Actions” column. If you do not have access to the internet, you may view the docket online by visiting the Docket Management Facility in Room W12-140 on the ground floor of the Department of Transportation West Building, 1200 New Jersey Avenue SE., Washington, DC 20590, between 9 a.m. and 5 p.m., Monday through Friday, except Federal holidays. We have an agreement with the Department of Transportation to use the Docket Management Facility.

C. Privacy Act

Anyone can search the electronic form of comments received into any of our dockets by the name of the individual submitting the comment (or signing the comment, if submitted on behalf of an association, business, labor union, etc.). You may review a Privacy Act notice regarding our public dockets in the January 17, 2008, issue of the Federal Register (73 FR 3316).

D. Public Meeting

We do not now plan to hold a public meeting, but you may submit a request for one to the docket using one of the methods specified under ADDRESSES. In your request, explain explain why you believe a public meeting would be beneficial. If we determine that one would aid this rulemaking, we will hold one at a time and place announced by a later notice in the Federal Register.

II. Abbreviations

APA Administrative Procedure Act

DHS Department of Homeland Security

E.O. Executive Order

FR Federal Register

IBC Code International Code for the Construction and Equipment of Ships Carrying Dangerous Chemicals in Bulk

IMO International Maritime Organization

MARPOL International Convention for the Prevention of Pollution from Ships, 1973

MEPC Marine Environment Protection Committee

NLS Noxious liquid substance

OMB Office of Management and Budget

SOLAS International Convention for the Safety of Life at Sea

U.S.C. United States Code

III. Basis and Purpose

The basis of this interim rule is 46 U.S.C. 3703, which requires the Secretary of the department in which the Coast Guard is operating to prescribe regulations relating to the operation of vessels that carry liquid bulk dangerous cargoes, and to the types and grades of cargo those vessels carry. Additional regulatory authority is provided by 33 U.S.C. 1903 (regulations to implement the International Convention for the Prevention of Pollution from Ships, 1973 (MARPOL)), 46 U.S.C. 2103 (merchant marine regulatory authority), and 46 U.S.C. 3306 (regulations for the safety of individuals and property on inspected vessels). The Secretary's authority under these statutes is delegated to the Coast Guard in Department of Homeland Security Delegation No. 0170.1 (77) and (92).

The purpose of the interim rule is to update and revise regulatory tables that list liquid hazardous materials, liquefied gases, and compressed gases that have been approved for maritime transportation in bulk, and that indicate how each substance's pollution potential has been categorized.

The Administrative Procedure Act, 5 U.S.C. 551 et seq., generally requires agencies to give prior public notice before issuing new rules and to give interested persons an opportunity to participate in the rulemaking by submitting comments or additional information. We are issuing this interim rule without prior notice and comment under the exceptions to the general requirement contained in 5 U.S.C. 553(b)(B) and (d). Section 553(b)(B) provides an exception from prior notice and comment when an agency finds, for good cause, that notice and comment are “impracticable, unnecessary, or contrary to the public interest.” We find that it is unnecessary and contrary to the public interest to give prior notice and comment for this interim rule, because this interim rule simply updates and revises tables that list the names and pollution-potential categorizations of liquid chemical substances that have already been categorized and approved for maritime transportation in bulk. It makes no new decisions about whether any specific chemical substance should be approved for bulk maritime transportation, about how any specific substance should be categorized, or about carriage requirements that should apply to any specific substance. It simply updates and revises regulatory tables to list liquid hazardous materials, liquefied gases, and compressed gases that currently are approved for maritime transportation in bulk, and indicates how each substance's pollution potential currently is categorized under international agreements to which the United States is a party. Neither existing approvals nor existing categorizations can be changed as a result of taking public comment on this rulemaking.

Additionally, delaying the regulatory update to allow for notice and comment is contrary to the public interest because it delays the public's ready access to categorization information without which it is impossible to know which regulations apply to any specific substance.

IV. Background

Coast Guard regulations in 46 CFR subchapter O (parts 150 through 155) list hundreds of hazardous liquids, liquefied gases, and compressed gases that the Coast Guard has approved for bulk transportation by vessels. Subchapter O specifies requirements for safely transporting these substances.

If a substance is not already listed in subchapter O, a vessel owner or operator must request the Coast Guard's written permission to transport the substance. 46 CFR 150.140, 151.01-15, 153.900. If the owner or operator plans to ship the substance internationally, an additional procedure is necessary to satisfy the requirements of international treaties to which the United States is a party. Specifically, a “tripartite agreement” must be concluded between the owner or operator, the Coast Guard, and the flag administration of the country to which the substance will be shipped. The tripartite agreement categorizes the substance's potential for pollution and sets its minimum safe carriage requirements in accordance with the International Code for the Construction and Equipment of Ships Carrying Dangerous Chemicals in Bulk (IBC Code), which contains international standards for the safe maritime bulk transportation of dangerous and noxious liquid chemicals in accordance with MARPOL and the International Convention for the Safety of Life at Sea (SOLAS). A copy of the tripartite agreement is forwarded to the International Maritime Organization's (IMO's) Marine Environment Protection Committee (MEPC).

While this substance-specific approval procedure facilitates the commercial development and use of new substances and ensures the safety of a new substance's maritime transportation, public awareness of the new substance and its applicable safety requirements is maximized only by listing it in subchapter O, and in similar regulatory lists maintained by other countries. The IMO facilitates this public awareness. After each tripartite agreement is forwarded to the MEPC, the MEPC reviews the information the agreement contains, and either modifies or validates the information. Each December, the MEPC releases a circular listing the new substances for which it has completed this review. The circular lists the countries that have approved international maritime transportation of the substance, and provides information about the substance's pollution categorization and minimum transportation safety requirements. Thus, if the United States has approved a substance for bulk maritime transportation, eventually it will be listed in the MEPC circular.

Periodically, the IBC Code is revised, and substances listed in MEPC annual circulars since the last IBC Code revision are incorporated into the IBC Code. The IBC Code was last comprehensively revised in 2007, at which time the pollution categories for approved substances were changed from an A-B-C-D categorization scheme (with A representing the most severe pollution hazards and B, C, and D representing decreasing levels of risk) to an X-Y-Z-OS scheme (with X, Y, and Z representing decreasing hazard levels and OS representing “other substances” that present no significant pollution hazards). In March 2012, an Annex to the 2007 IBC Code appeared, listing additional substances with their pollution categorizations. The 2007 IBC Code and March 2012 Annex were most recently updated by the December 2012 MEPC Circular.

V. Discussion of the Interim Rule

This interim rule is up to date as of the December 2012 MEPC Circular. It updates and revises subchapter O tables listing liquid chemical substances that the Coast Guard has approved for bulk maritime transportation, which have not been updated in several years. As a result, vessel owners and operators have lacked current and comprehensive lists of approved substances. Moreover, the current subchapter O tables use the outmoded A-B-C-D pollution categories and do not convey information about the X, Y, Z, and OS categories in international use since the IBC Code's 2007 revision. By updating the lists and revising their pollution categorizations to match the 2007 IBC Code, this interim rule provides the regulated community with more current information, thereby achieving a modest reduction in regulatory burden. Our plan is to keep the table updated through annual rulemakings in the future.

The subchapter O tables amended by this interim rule are Table 30.25-1 (List of Flammable and Combustible Bulk Liquid Cargoes), Table I to Part 150 (Alphabetical List of Cargoes), Table II to Part 150 (Grouping of Cargoes), Appendix I to Part 150 (Exceptions to the Chart), and Table 2 to Part 153 (Cargoes Not Regulated Under Subchapters D or O of this Chapter When Carried in Bulk on Non-oceangoing Barges). We are amending each of these tables to update the lists through December 2012 and to revise pollution categorizations. Also, we are revising the 46 CFR 30.25-1 regulatory text that serves as the introduction to Table 30.25-1 to explain the pollution categorizations included in that table.

VI. Regulatory Analyses

A. Regulatory Planning and Review

Executive Orders (E.O.s) 12866 (“Regulatory Planning and Review”) and 13563 (“Improving Regulation and Regulatory Review”) direct agencies to assess the costs and benefits of available regulatory alternatives and, if regulation is necessary, to select regulatory approaches that maximize net benefits (including potential economic, environmental, public health and safety effects, distributive impacts, and equity). Executive Order 13563 emphasizes the importance of quantifying both costs and benefits, of reducing costs, of harmonizing rules, and of promoting flexibility. This interim rule has not been designated a “significant regulatory action” under section 3(f) of E.O. 12866. Accordingly, the interim rule has not been reviewed by the Office of Management and Budget. A draft regulatory assessment is included herein.

Affected Population

This interim rule updates tables that list the names and pollution-potential categorizations of liquid chemical substances that have already been categorized and approved for maritime transportation in bulk, either permanently or on a provisional basis. This interim rule makes no new decisions about whether any specific chemical substance should be approved for bulk maritime transportation, about how any specific substance should be categorized, or about carriage requirements that should apply to any specific substance. It simply provides updated information about the substances that are currently approved and how they are currently categorized. As such, this interim rule does not directly affect any particular vessel population. However, this interim rule indirectly applies to the following vessel populations carrying these cargoes from 46 CFR parts 30, 150, 151, 153, and 154 as described:

• Part 30: U.S-flag tank vessels, as further specified in 46 CFR 30.01-5.

• Part 150: U.S.-flag and foreign-flag tank (when in U.S. waters; except foreign-flag tank vessels in innocent passage through U.S. waters) vessels, with exceptions described in 46 U.S.C. 3702.

• Part 151: Non-self-propelled bulk-cargo carrying oceangoing/non-oceangoing U.S.-flag and oceangoing foreign-flag (when in U.S. waters) vessels, as further specified in 46 CFR 151.01-1.

• Part 153: Self-propelled bulk cargo carrying oceangoing/non-oceangoing U.S.-flag and oceangoing foreign-flag (when in U.S. waters) vessels, as further specified in 46 CFR 153.1.

• Part 154: U.S.-flag and foreign-flag (when in U.S. waters) vessels with bulk liquefied gas cargo/cargo residue or vapor, as further specified in 46 CFR 154.5.

Costs

This interim rule updates tables that list the names and pollution-potential categorizations of liquid chemical substances that have already been categorized and approved by the United States and the IMO for maritime transportation in bulk, either permanently or on a provisional basis. Since this interim rule simply updates tables and a table preface to reflect decisions already made under international law about which liquid chemical substances are approved for bulk maritime transportation, and about how those substances should be categorized with respect to their pollution potential, it does not change established shipping requirements and there are no private sector costs expected from this interim rule. This interim rule incorporates chemical substances and categorizations listed by the IMO through its December 2012 MEPC Circular.

Benefits

The primary benefit of this interim rule is to conform regulatory language to practices currently allowed by the Coast Guard through either individual letters of approval or the IBC Code as discussed above, which we expect will result in the benefit of improved service to the public through improved clarity and transparency.

B. Small Entities

Under the Regulatory Flexibility Act (5 U.S.C. 601-612) (RFA), we have considered whether this interim rule would have a significant economic impact on a substantial number of small entities. The term “small entities” comprises small businesses, not-for-profit organizations that are independently owned and operated and are not dominant in their fields, and governmental jurisdictions with populations of less than 50,000. We recognize that an Initial Regulatory Flexibility Analysis is not required when an interim rule is promglated without prior notice and comment. Although no impacts on small entities are anticipated, Coast Guard included a threshold analysis of the Interim Rule requirements in order to follow the spirit of the Regulatory Flexibility Act. As this rule does not impose any additional direct costs on small entities as defined by the RFA, this rule is not expected to have a significant economic impact on a substancial number of small entities.

C. Assistance for Small Entities

Under section 213(a) of the Small Business Regulatory Enforcement Fairness Act of 1996 (Pub. L. 104-121), we want to assist small entities in understanding this rule so that they can better evaluate its effects on them and participate in the rulemaking. If this interim rule would affect your small business, organization, or governmental jurisdiction and you have questions concerning its provisions or options for compliance, please consult LCDR Marie Castillo-Bletso, at Marie.M.Castillo-Bletso@uscg.mil. The Coast Guard will not retaliate against small entities that question or complain about this interim rule or any policy or action of the Coast Guard.

D. Collection of Information

This interim rule would call for no new collection of information under the Paperwork Reduction Act of 1995 (44 U.S.C. 3501-3520). This interim rule simply updates and revises tables that list substances that have been approved and categorized for bulk maritime transportation, which does not involve information collection.

E. Federalism

A rule has implications for federalism under E.O. 13132 (“Federalism”) if it has a substantial direct effect on the States, on the relationship between the national government and the States, or on the distribution of power and responsibilities among the various levels of government. We have analyzed this interim rule under that E.O. and have determined that it is consistent with the fundamental federalism principles and preemption requirements described in the E.O. Our analysis follows.

It is well-settled that States may not regulate in categories reserved for regulation by the Coast Guard. It is also well-settled, now, that all of the categories covered in 46 U.S.C. 3306, 3703, 7101, and 8101 (design, construction, alteration, repair, maintenance, operation, equipping, personnel qualification, and manning of vessels), as well as the reporting of casualties and any other category in which Congress intended the Coast Guard to be the sole source of a vessel's obligations, are within fields foreclosed from regulation by the States. (See the decision of the Supreme Court in the consolidated cases of United States v. Locke and Intertanko v. Locke, 529 U.S. 89, 120 S.Ct. 1135 (March 6, 2000).) This interim rule amends existing regulations for tank vessels and the maritime transportation of certain bulk dangerous cargoes, which, under the principles discussed in Locke, fall within the categories enumerated in 46 U.S.C. 3306 and 3703 and are within fields in which the states are foreclosed from regulating. Therefore, because the States may not regulate within these categories, this rule is consistent with the fundamental federalism principles and preemption requirements described in E.O. 13132.

F. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this rule will not result in such an expenditure, we do discuss the effects of this rule elsewhere in this preamble.

G. Taking of Private Property

This interim rule will not cause a taking of private property or otherwise have taking implications under E.O. 12630 (“Governmental Actions and Interference with Constitutionally Protected Property Rights”).

H. Civil Justice Reform

This interim rule meets applicable standards in sections 3(a) and 3(b)(2) of E.O. 12988 (“Civil Justice Reform”) to minimize litigation, eliminate ambiguity, and reduce burden.

I. Protection of Children

We have analyzed this interim rule under E.O. 13045 (“Protection of Children from Environmental Health Risks and Safety Risks”). This interim rule is not an economically significant rule and does not create an environmental risk to health or risk to safety that may disproportionately affect children.

J. Indian Tribal Governments

This interim rule does not have tribal implications under E.O. 13175 (“Consultation and Coordination with Indian Tribal Governments”) because it does not have a substantial direct effect on one or more Indian tribes, on the relationship between the Federal Government and Indian tribes, or on the distribution of power and responsibilities between the Federal Government and Indian tribes.

K. Energy Effects

We have analyzed this interim rule under E.O. 13211 (“Actions Concerning Regulations That Significantly Affect Energy Supply, Distribution, or Use”). We have determined that it is not a “significant energy action” under that E.O. because it is not a “significant regulatory action” under E.O. 12866 and is not likely to have a significant adverse effect on the supply, distribution, or use of energy. The Administrator of the Office of Information and Regulatory Affairs has not designated it as a significant energy action. Therefore, it does not require a Statement of Energy Effects under E.O. 13211.

L. Technical Standards

The National Technology Transfer and Advancement Act (15 U.S.C. 272 note) directs agencies to use voluntary consensus standards in their regulatory activities unless the agency provides Congress, through the OMB, with an explanation of why using these standards would be inconsistent with applicable law or otherwise impractical. Voluntary consensus standards are technical standards (e.g., specifications of materials, performance, design, or operation; test methods; sampling procedures; and related management systems practices) that are developed or adopted by voluntary consensus standards bodies. This interim rule does not use technical standards. Therefore, we did not consider the use of voluntary consensus standards.

M. Environment

We have analyzed this interim rule under Department of Homeland Security Management Directive 023-01 and Commandant Instruction M16475.lD, which guide the Coast Guard in complying with the National Environmental Policy Act of 1969 (NEPA) (42 U.S.C. 4321-4370f), and have made a preliminary determination that this action is one of a category of actions that do not individually or cumulatively have a significant effect on the human environment. A preliminary environmental analysis checklist supporting this determination is available in the docket where indicated under the “Public Participation and Request for Comments” section of this preamble. This interim rule involves administrative updates of existing chemical transport regulations and updates provisions relating to the chemical properties of liquid chemical substances approved for maritime transportation in bulk. The update incorporates changes in how approved substances are categorized by their chemical properties. This interim rule promotes the Coast Guard's maritime safety and stewardship missions. It is therefore included in the Coast Guard's Commandant Instruction (COMDTINST) M16475.1D, Figure 2-1, which includes categorical exclusions (CEs) under categories (34)(a), “regulations which are editorial or procedural, such as those updating addresses or establishing application procedures,” and 34 (d), “regulations concerning manning, documentation, admeasurement, inspection, and equipping of vessels,” as well as in the “Appendix to National Environmental Policy Act: Coast Guard Procedures for Categorical Exclusions, Notice of Final Agency Policy” (see 67 FR 48243) under paragraph 6 (a), “regulations concerning vessel operation safety standards . . . equipment approval, and/or equipment carriage requirements . . . and visual distress signals.” We seek any comments or information that may lead to the discovery of a significant environmental impact from this interim rule.

List of Subjects

46 CFR Part 30

Cargo vessels, Foreign relations, Hazardous materials transportation, Penalties, Reporting and recordkeeping requirements, Seamen.

46 CFR Part 150

Hazardous materials transportation, Marine safety, Occupational safety and health, Reporting and recordkeeping requirements.

46 CFR Part 151

Cargo vessels, Hazardous materials transportation, Marine safety, Reporting and recordkeeping requirements, Water pollution control.

46 CFR Part 153

Administrative practice and procedure, Cargo vessels, Hazardous materials transportation, Marine safety, Reporting and recordkeeping requirements, Water pollution control.

For the reasons set out in the preamble, the Coast Guard amends 46 CFR parts 30, 150, 151, and 153 as follows:

PART 30—GENERAL PROVISIONS

1. The authority citation for part 30 continues to read as follows:

Authority: 46 U.S.C. 2103, 3306, 3703; Pub. L. 103-206, 107 Stat. 2439; 49 U.S.C. 5103, 5106; Department of Homeland Security Delegation No. 0170.1; Section 30.01-2 also issued under the authority of 44 U.S.C. 3507; Section 30.01-05 also issued under the authority of Sec. 4109, Pub. L. 101-380, 104 Stat. 515.

2. Revise § 30.25-1 to read as follows:

§ 30.25-1 Cargoes carried in vessels certificated under the rules of this subchapter.

(a) Table 30.25-1 lists flammable or combustible cargoes that, when transported in bulk, must be in vessels certificated under this subchapter D.

(b) A mixture or blend of two or more cargoes appearing in Table 30.25-1 may be transported under this subchapter D.

(c) A mixture or blend of one or more cargoes appearing in Table 30.25-1 and one or more cargoes appearing in Table 2, 46 CFR part 153, may be carried under this subchapter D if the mixture is flammable or combustible.

(d) Any mixture containing one or more substance categorized by the International Maritime Organization (IMO) and listed in Table 30.25-1 as a category X, Y, or Z noxious liquid substance (NLS) may be carried in bulk—

(1) Under this subchapter D if the vessel is not regulated under 46 CFR part 153;

(2) Under part 153 if the vessel is regulated under that part; or alternatively under 33 CFR part 151 in the case of a category Y oil-like NLS; or

(3) Under 33 CFR part 151 if the cargo is a category Z NLS or a mixture of non-NLS and category Z NLS cargoes.

Table 30.25-1—List of Flammable and Combustible Bulk Liquid Cargoes
[See NOTES at the end of the Table for explanation of symbols and terms used. See Table 2, 46 CFR part 153, for additional cargoes that may be carried by tank barge.]
Cargo name | IMO Annex II pollution category
Acetochlor * | X
Acetone | Z
Acetophenone | #
Acrylonitrile-Styrene copolymer dispersion in polyether polyol | Y
Alcohol(C6-C17)(secondary) poly(3-6)ethoxylates | Y
Alcohol(C6-C17)(secondary) poly(7-12)ethoxylates | Y
Alcohol(C9-C11) poly(2.5-9)ethoxylate | Y
Alcohol(C12-C15) poly( . . . )ethoxylates, see Alcohol(C12-C16) poly( . . . ) ethoxylates | Y
Alcohol(C12-C16) poly(1-6)ethoxylates | Y
Alcohol(C12-C16) poly(7-19)ethoxylates | Y
Alcohol(C12-C16) poly(20+)ethoxylates | Y
Alcohols (C13+) | Y
Alcoholic beverages, n.o.s. | Z
Aliphatic oil | I
Alkanes (C6-C9) | X
Iso- and cyclo-alkanes (C10-C11) | Y
Iso- and cyclo-alkanes (C12+) | Y
n-Alkanes (C10+) | Y
Alkaryl polyethers (C9-C20) | Y
Alkenyl(C11+) amide * | X
Alkenyl(C8+) amine, Alkenyl(C12+) acid ester mixture | #
Alkyl acrylate-Vinylpyridine copolymer in toluene * | Y
Alkylbenzene, alkylindane, alkylindene mixture (each C12-C17) * | Z
Alkyl(C3-C4) benzenes* | Y
Alkyl(C5-C8) benzenes* | X
Alkyl(C8-C9) phenylamine in aromatic solvents* | Y
Alkyl(C9+) benzenes | Y
Alkyl(C11-C17) benzene sulfonic acid * | Y
Alkylbenzene sulfonic acid (4% or less) | #
Alkyl dithiocarbamate (C19-C35) * | Y
Alkyl dithiothiadiazole (C6-C24) | Y
Alkyl ester copolymer (C4-C20) | Y
Alkyl(C7-C11)phenol poly(4-12) ethoxylate | Y
Alkyl phenol sulfide (C8-C40), see Alkyl(C8-C40) phenol sulfide |
Alkyl(C8-C40) phenol sulfide | Z
Alkyl(C8-C9) phenylamine in aromatic solvents * | Y
Alkyl(C9-C15) phenyl propoxylate | Z
Alkyl(C8-C10) polyglucoside solution (65% or less) * | Y
Alkyl(C12-C14) polyglucoside solution (55% or less) * | Y
Alkyl(C8-C10)/(C12-C14):(40% or less/60% or more) polyglucoside solution (55% or less) * | Y
Alkyl(C8-C10)/(C12-C14):(60% or more/40% or less) polyglucoside solution (55% or less) | Y
Alkyl(C8-C10)/(C12-C14):(50%/50%) polyglucoside solution (55% or less)* | Y
Alkyl(C10-C20, saturated and unsaturated) phosphate * | Y
n-Alkyl phthalates, see individual phthalates |
Alkyl sulfonic acid ester of phenol | Y
Aminoethyldiethanolamine/Aminoethylethanolamine solution | Z
2-Amino-2-methyl-1-propanol * | Z
Amyl acetate (all isomers) | Y
Amyl alcohol (iso-, n-, sec-, primary, tert-) | Z
tert-Amyl ethyl ether * | Z
tert-Amyl methyl ether | X
Amyl methyl ketone, see Methyl amyl ketone |
Amylene, see Pentene (all isomers) |
Animal acid oil | #
Animal and Fish acid oils and distillates, n.o.s. | #
Animal and Fish oils, n.o.s. | #
Animal oil | #
Aromatic oil | I
Aryl polyolefins (C11-C50) | Y
Asphalt | I
Asphalt blending stocks:
Roofers flux | I
Straight run residue | I
Aviation alkylates (C8 paraffins and iso-paraffins BPT 95-120°C) * | X
Barium long-chain alkyl (C8-C14) phenate sulfide | #
Beechnut oil | #
Behenyl alcohol, see Alcohols (C13+) |
Benzene tricarboxylic acid, trioctyl ester | Y
Benzyl acetate* | Y
Benzyl alcohol | Y
Brake fluid base mix: Poly(2-8)alkylene(C2-C3) glycols/Polyalkylene(C2-C10) glycols monoalkyl(C1-C4) ethers and their borate esters | Z
Butene, see Butylene |
Butene oligomer | X
Butyl acetate (all isomers) | Y
Butyl alcohol (iso-, n-, sec-, tert-), see Butyl alcohol (all isomers) |
Butyl alcohol (all isomers) | Z
Butylbenzene (all isomers) * | X
Butyl benzyl phthalate | X
Butyl butyrate (all isomers) * | Y
Butylene glycol | Z
1,3-Butylene glycol, see Butylene glycol |
iso-Butyl formate | #
n-Butyl formate | #
Butyl heptyl ketone | #
Butyl methyl ketone, see Methyl butyl ketone |
n-Butyl propionate | Y
Butyl stearate | #
Butyl toluene | #
gamma-Butyrolactone | Y
Calcium alkyl(C9)phenol sulfide, polyolefin phosphorosulfide mixture | #
Calcium alkyl salicylate, see Calcium long-chain alkyl salicylate (C13+) |
Calcium long-chain alkaryl sulfonate (C11-C50) | #
Calcium long-chain alkyl phenate (C8-C40), see Calcium long-chain alkyl(C5-C10) phenate or Calcium long-chain alkyl(C11-C40) phenate |
Calcium long-chain alkyl(C5-C10) phenate | Y
Calcium long-chain alkyl(C11-C40) phenate | Y
Calcium long-chain alkyl phenolic amine (C8-C40) | #
Calcium long-chain alkyl salicylate (C13+) | Y
Candelilla wax, see Waxes |
Caprolactam solutions, see epsilon-Caprolactam (molten or aqueous solutions) |
epsilon-Caprolactam (molten or aqueous solutions) * | Z
Carnauba wax, see Waxes |
Cetyl alcohol, see Alcohols (C13+) |
Cetyl- stearyl alcohol, see Alcohols (C13+) |
Chlorinated paraffins (C10-C13) * | X
1-(4-Chlorophenyl)-4,4-dimethyl-pentan-3-one * | Y
Citric acid (70% or less) * | Z
Clarified oil | I
Coal oil | #
Coconut oil fatty acid methyl ester * | Y
Cod liver oil | #
Copper salt of long-chain (C17+) alkanoic acid | Y
Corn acid oil | #
Cotton seed acid oil | #
Cotton seed, fatty acid, see Cotton seed oil, fatty acid |
Cotton seed oil, fatty acid | #
Crude Isononylaldehyde | #
Crude Isopropanol | @Z
† Crude oil | I
Cumene , see Propylbenzene (all isomers) |
Cycloheptane * | X
Cyclohexane | Y
Cyclohexanol | Y
Cyclohexyl acetate * | Y
1,3-Cyclopentadiene dimer (molten) | Y*
Cyclopentane * | Y
Cyclopentene * | Y
p-Cymene | Y
Dark mixed acid oil | #
Decahydronaphthalene | Y
iso-Decaldehyde | #
n-Decaldehyde | #
Decane, see n-Alkanes (C10+) |
Decanoic acid * | X
Decene | X
Decyl acetate | #
Decyl alcohol (all isomers) | Y
n-Decylbenzene, see Alkyl(C9+)benzenes |
Detergent alkylate, see Alkyl(C9+)benzenes |
Diacetone alcohol | Z
Dialkyl(C10-C14) benzenes, see Alkyl(C9+) benzenes |
Dialkyl(C8-C9) diphenylamines | Z
Dialkyl(C7-C13) phthalates | X
Including:
Diisodecyl phthalate
Diisononyl phthalate
Dinonyl phthalate
Ditridecyl phthalate
Diundecyl phthalate
Dibutyl carbinol, see Nonyl alcohol (all isomers) |
Dibutyl hydrogen phosphonate * | Y
2,6-Di-tert-butylphenol * | X
Dibutyl phthalate * | X
ortho-Dibutyl phthalate, see Dibutyl phthalate |
Dibutyl terephthalate * | Y
Dicyclopentadiene, see 1,3-Cyclopentadiene dimer (molten) |
Diesel oil | I
Diethylbenzene | Y
Diethylene glycol | Z
Diethylene glycol butyl ether, see Poly(2-8)alkylene glycol monoalkyl(C1-C6) ether |
Diethylene glycol butyl ether acetate, see Poly(2-8)alkylene glycol monoalkyl(C1-C6) ether acetate |
Diethylene glycol diethyl ether | Z
Diethylene glycol ethyl ether, see Poly(2-8)alkylene glycol monoalkyl(C1-C6) ether |
Diethylene glycol ethyl ether acetate, see Poly(2-8)alkylene glycol monoalkyl(C1-C6) ether acetate |
Diethylene glycol n-hexyl ether, see Poly(2-8)alkylene glycol monoalkyl(C1-C6) ether |
Diethylene glycol methyl ether, see Poly(2-8)alkylene glycol monoalkyl(C1-C6) ether |
Diethylene glycol methyl ether acetate, see Poly(2-8)alkylene glycol monoalkyl(C1-C6) ether acetate |
Diethylene glycol phenyl ether | #
Diethylene glycol phthalate | Y
Diethylene glycol propyl ether, see Poly(2-8)alkylene glycol monoalkyl(C1-C6) ether |
Di-(2-ethylhexyl)adipate | Y
Di-(2-ethylhexyl)phthalate, see Dioctyl phthalate |
Diethyl phthalate | Y
Diglycidyl ether of bisphenol A | X
Diglycidyl ether of bisphenol F * | Y
Diheptyl phthalate | Y
Di-n-hexyl adipate * | X
Dihexyl phthalate | Y
Diisobutyl carbinol, see Nonyl alcohol (all isomers) |
Diisobutylene | Y
Diisobutyl ketone | Y
Diisobutyl phthalate | X
Diisodecyl phthalate, see Dialkyl(C7-C13) phthalates |
Diisononyl adipate | Y
Diisononyl phthalate, see Dialkyl(C7-C13) phthalates |
Diisooctyl phthalate | Y
Diisopropylbenzene (all isomers) | X
Diisopropylnaphthalene | Y
Dimethyl adipate | X
Dimethylbenzene, see Xylenes |
Dimethyl glutarate | Y
Dimethyl octanoic acid * | Y
Dimethyl phthalate | Y
Dimethylpolysiloxane | Y
2,2-Dimethylpropane-1,3-diol (molten or solution) | Z
Dimethyl succinate | Y
Dinonyl phthalate | Y
Dioctyl phthalate | X
Dipentene | Y
Diphenyl | X
Diphenylamine (molten) * | Y
Diphenylamines, alkylated * | Y
Diphenyl/Diphenyl ether mixtures | X
Diphenyl ether | X
Diphenyl ether/Diphenyl phenyl ether mixture | X
Diphenylol propane-epichlorohydrin resins * | X
Dipropylene glycol | Z
Dipropylene glycol butyl ether, see Poly(2-8)alkylene glycol monoalkyl(C1-C6) ether |
Dipropylene glycol dibenzoate | #
Dipropylene glycol methyl ether, see Poly(2-8)alkylene glycol monoalkyl(C1-C6) ether |
Dithiocarbamate ester (C7-C35)* | X
Distillates:
Flashed feed stocks | I
Straight run | I
Diundecyl phthalate | Y
Dodecane (all isomers) | Y
Dodecanol, see Dodecyl alcohol |
Dodecene (all isomers) | X
Dodecyl alcohol | Y
Dodecyl benzene, see Alkyl (C9+) benzenes |
Dodecyl hydroxypropyl sulfide | X
Dodecyl phenol | X
Dodecyl xylene | Y
Drilling brines (containing zinc salts) (if flammable or combustible) * | X
Drilling brines, including: Calcium bromide solution, calcium chloride solution and sodium chloride solution (if flammable or combustible) * | Z
Drilling mud (low toxicity) (if flammable or combustible) | #
ETBE, see Ethyl tert-butyl ether |
2-Ethoxyethyl acetate | Y
Ethoxylated alkyloxy alkyl amine, see Ethoxylated long-chain (C16+) alkyloxyalkylamine |
Ethoxy triglycol (crude) | #
Ethyl acetate | Z
Ethyl acetoacetate | Z
Ethyl alcohol | Z
Ethyl amyl ketone | Y
Ethylbenzene | Y
Ethyl butanol | #
Ethyl tert-butyl ether | Y
Ethyl butyrate | Y
Ethyl cyclohexane | Y
S-Ethyl dipropylthiocarbamate * | Y
Ethylene carbonate | Z
Ethylene glycol | Y
Ethylene glycol acetate | Y
Ethylene glycol butyl ether acetate | Y
Ethylene glycol diacetate | Y
Ethylene glycol dibutyl ether | #
Ethylene glycol ethyl ether acetate, see 2-Ethoxyethyl acetate |
Ethylene glycol methyl butyl ether | #
Ethylene glycol methyl ether acetate | Y
Ethylene glycol phenyl ether | Z
Ethylene glycol phenyl ether/Diethylene glycol phenyl ether mixture | Z
Ethyl-3-ethoxypropionate | Y
2-Ethylhexaldehyde, see Octyl aldehydes |
2-Ethylhexanoic acid | Y
Ethylhexoic acid, see 2-Ethylhexanoic acid |
2-Ethylhexanol, see Octanol (all isomers) |
Ethyl hexyl phthalate | #
2-Ethyl-2-(hydroxymethyl) propane-1,3-diol, (C8-C10) ester | Y
Ethyl propionate | Y
Ethyl toluene | Y
Fatty acid (saturated, C13+) | Y
Fatty acids, (C16+) * | Y
Fatty acids, essentially linear (C6-C18) 2-ethylhexyl ester * | Y
Fish acid oil | #
Formamide | Y
Furfuryl alcohol | Y
† Gas oil, cracked | I
Gas oil, high pour | I
Gas oil, low pour | I
Gas oil, low sulfur | I
Gasoline blending stocks:
Alkylates | I
† Reformates | I
Gasolines:
† Automotive (containing not over 4.23 grams lead per gallon) | I
† Aviation (containing not over 4.86 grams lead per gallon) | I
Casinghead (natural) | I
Polymer | I
† Straight run | I
Gasoline (Natural gas condensate) | I
Glycerine | Z
Glycerine (83%), Dioxanedimethanol (17%) mixture | #
Glycerol, see Glycerine |
Glycerol ethoxylated * | OS
Glycerol monooleate | Y
Glycerol polyalkoxylate | #
Glycerol, propoxylated and ethoxylated * | Z
Glycerol/sucrose blend propoxylated and ethoxylated * | Z
Glyceryl triacetate | Z
Glycidyl ester of tridecyl acetic acid, see Glycidyl ester of C10 trialkylacetic acid |
Glycidyl ester of versatic acid, see Glycidyl ester of C10 trialkylacetic acid |
Glycidyl ester of C10 trialkylacetic acid | Y
Glycol diacetate, see Ethylene glycol diacetate |
Glycol triacetate, see Glyceryl triacetate |
Glyoxal solution (40% or less) | Y
Glyphosate solution (not containing surfactant) | Y
Groundnut acid oil | #
Groundnut oil * | Y
Hazelnut oil | #
Heartcut distillate | I
Heptadecane, see n-Alkanes (C10+) |
Heptane (all isomers) | X
Heptanoic acid, see n-Heptanoic acid |
n-Heptanoic acid * | Z
Heptanol (all isomers) | Y
Heptene (all isomers) | Y
Heptyl acetate | Y
Herbicide (C15H22NO2Cl), see N-(2-Methoxy-1-methyl ethyl)-2-ethyl-6-methylchloroacetanilide |
Hexadecanol, see Alcohol (C 13+) |
1-Hexadecylnaphthalene/1,4-Bis(hexadecyl)naphthalene mixture | Y
Hexaethylene glycol, see Polyethylene glycol |
Hexamethylene glycol | Z
Hexamethylenetetramine solutions | Z
Hexane (all isomers) | Y
1,6-Hexanediol, distillation overheads * | Y
Hexanoic acid | Y
Hexanol | Y
Hexene (all isomers) | Y
Hexyl acetate | Y
Hexylene glycol | Z
Hydrogenated starch hydrolysate * | OS
2-Hydroxy-4-(methylthio)butanoic acid | Z
Hydroxy terminated polybutadiene, see Polybutadiene, hydroxy terminated |
Illipe oil * | Y
Isoamyl alcohol * | Z
Isobutyl alcohol * | Z
Isobutyl formate * | Z
Isobutyl methacrylate * | Z
Isopropyl acetate * | Z
Isopropyl alcohol* | Z
Isopropylcyclohexane* | Y
Jatropha oil* | Y
Jet fuels:
† JP-4 | I
JP-5 (kerosene, heavy) | I
JP-8 | I
Kerosene | I
Lactic acid | Z
Lanolin oil | #
Lard acid oil | #
Latex: Carboxylated styrene-Butadiene copolymer; Styrene-Butadiene rubber* | Z
Lauric acid* | X
Lecithin | OS
Long-chain alkaryl polyether (C11-C20) | Y
Long-chain alkaryl sulfonic acid (C16-C60) | Y
Long-chain alkylphenate/Phenol sulfide mixture | Y
Lubricating oil | I
L-Lysine solution (60% or less) * | Z
Magnesium long-chain alkaryl sulfonate (C11-C50) | Y
Magnesium long-chain alkyl phenate sulfide (C8-C20) | #
Magnesium long-chain alkyl salicylate (C11+) | Y
Magnesium nonyl phenol sulfide, see Magnesium long-chain alkyl phenate sulfide (C8-C20) |
Mango kernel oil * | Y
2-Mercaptobenzothiazol (in liquid mixtures) | #
3-Methoxy-1-butanol | Z
3-Methoxybutyl acetate | Y
1-Methoxy-2-propyl acetate | #
N-(2-Methoxy-1-methyl ethyl)-2-ethyl-6-methylchloroacetanilide * | X
Methoxy triglycol, see Poly(2-8)alkylene glycol monoalkyl(C1-C6) ether |
Methyl acetate | Z
Methyl acetoacetate | Z
Methyl alcohol | Y
Methylamyl acetate | Y
Methylamyl alcohol | Z
Methyl amyl ketone | Z
Methyl butanol, see the amyl alcohols |
Methylbutenol | Y
Methyl tert-butyl ether | Z
Methyl butyl ketone | Y
Methylbutynol * | Z
Methyl butyrate | Y
Methylcyclohexane * | Y
Methylcyclopentadiene dimmer * | Y
Methyl 3-(3,5 di-tert-butyl-4-hydroxyphenyl)propionate crude melt * | [Y]
Methyl ethyl ketone | Z
N-Methylglucamine solution (70% or less) | Z
Methyl heptyl ketone | #
Methyl isobutyl carbinol, see Methyl amyl alcohol |
Methyl isobutyl ketone | Z
3-Methyl-3-methoxybutanol | Z
3-Methyl-3-methoxybutyl acetate | #
Methyl pentene, see Hexene (all isomers) |
Methyl tert-pentyl ether, see tert-Amyl methyl ether |
2-Methyl-1,3-propanediol | Z
Methyl propyl ketone | Z
N-Methyl-2-pyrrolidone | Y
Methyl salicylate * | Y
Metolachlor, see N-(2-Methoxy-1-methylethyl)-2-ethyl-6-methylchloroacetanilide |
Mineral oil | I
Mineral seal oil | I
Mineral spirits | I
Mixed acid oil | #
Mixed general acid oil | #
Mixed hard acid oil | #
Mixed soft acid oil | #
Motor oil | I
MTBE, see Methyl tert-butyl ether |
Myrcene | X
Naphtha:
† Aromatic (having less than 10% Benzene) | I
Heavy | I
Paraffinic | I
† Petroleum | I
† Solvent | I
Stoddard Solvent | I
† Varnish makers' and painters' (75%) | I
Naphthenic acid | #
Neatsfoot oil | #
Neodecanoic acid * | Y
Nitrilotriacetic acid, trisodium salt solution * | Y
Nonane (all isomers) | X
Nonanoic acid (all isomers) | Y
Nonanoic, Tridecanoic acid mixture | #
Nonene (all isomers) | Y
Nonyl acetate | #
Nonyl alcohol (all isomers) | Y
Nonyl methacrylate monomer | Y
Nonylphenol | X
Nonylphenol poly(4+)ethoxylate | Y
Nonyl phenol sulfide (90% or less), see Alkyl (C8-C40) phenol sulfide |
Noxious liquid, F, (2) n.o.s. (“trade name” contains “principle components”) ST 1, Cat X | X
Noxious liquid, F, (4) n.o.s. (“trade name” contains “principle components”) ST 2, Cat X | X
Noxious liquid, F, (6) n.o.s. (“trade name” contains “principle components”) ST 2, Cat Y | Y
Noxious liquid, F, (8) n.o.s. (“trade name” contains “principle components”) ST 3, Cat Y | Y
Noxious liquid, F, (10) n.o.s. (“trade name” contains “principle components”) ST 3, Cat Z | Z
Noxious liquid, (11) n.o.s. (“trade name” contains “principle components”) Cat Z (if flammable or combustible) | Z
Non noxious liquid, (12) n.o.s. (“trade name” contains “principle components”) Cat OS (if flammable or combustible) | OS
Nutmeg butter oil | #
Octadecanol, see Alcohols (C13+) |
Octadecene, see the olefin or alpha-olefin entries |
Octadeceneamide solution | #
Octamethylcyclotetrasiloxane* | Y
Octane (all isomers) | X
Octanoic acid (all isomers) | Y
Octanol (all isomers) | Y
Octene (all isomers) | Y
Octyl acetate, see n-Octyl acetate |
n-Octyl acetate * | Y
Octyl alcohol (iso-, n-), see Octanol (all isomers) |
Octyl aldehydes | Y
Octyl decyl adipate | Y
Octyl phthalate, see Dioctyl phthalate |
Oil, edible: Poppy seed | I
Oil, fuel:
No. 1 (kerosene) | I
No. 1-D | I
No. 2 | I
No. 2-D | I
No. 4 | I
No. 5 | I
No. 6 | I
Oiticica oil | #
alpha-Olefins (C6-C18) mixtures | X
alpha-Olefins (C13-C18) mixtures, see alpha-Olefins (C6-C18) |
Olefins (C13+, all isomers) | Y
Olefin-Alkyl ester copolymer (molecular weight 2000+) | Y
Olefin mixtures (C5-C7) | Y
Olefin mixtures (C5-C15) | X
Oleic acid | Y
Oleyl alcohol, see Alcohols (C13+) |
Orange juice (concentrated) * | OS
Palm kernel acid oil, methyl ester | #
Palm kernel olein * | Y
Palm kernel stearin * | Y
Palm mid-fraction * | Y
Palm oil fatty acid methyl ester * | Y
Palm olein * | Y
Palm stearin * | Y
Paraffin wax | Y
n-Paraffins (C10-C20), see n-Alkanes (C10+) |
Peanut oil, see Groundnut oil |
Peel oil (oranges and lemons) | #
Penetrating oil | I
Pentadecanol, see Alcohols (C13+) |
Pentaethylene glycol, see Polyethylene glycols |
Pentane (all isomers) | Y
Pentanoic acid | Y
Pentene (all isomers) | Y
n-Pentyl propionate | Y
Perilla oil | #
Petrolatum | Y
1-Phenyl-1-xylyl ethane | Y
Phosphate esters, alkyl (C12-C14) amine | Y
Phosphosulfurized bicyclic terpene | #
Pilchard oil | #
Pinene, see the alpha- or beta- isomers |
alpha-Pinene | X
beta-Pinene | X
Pine oil * | X
Polyalkyl(C18-C22) acrylate in xylene * | Y
Polyalkylene glycols, polyalkylene glycol monoalkyl ethers mixtures | #
Polyalkylalkenaminesuccinimide, molybdenum oxysulfide * | Y
Polyalkylene glycol butyl ether, see Poly(2-8)alkylene glycol monoalkyl(C1-C6) ether |
Poly(2-8)alkylene glycol monoalkyl (C1-C6) ether | Z
Including:
Diethylene glycol butyl ether
Diethylene glycol ethyl ether
Diethylene glycol n-hexyl ether
Diethylene glycol methyl ether
Diethylene glycol n-propyl ether
Dipropylene glycol butyl ether
Dipropylene glycol methyl ether
Polypropylene glycol methyl ether
Triethylene glycol butyl ether
Triethylene glycol ethyl ether
Triethylene glycol methyl ether
Tripropylene glycol methyl ether
Poly(2-8)alkylene glycol monoalkyl (C1-C6) ether acetate | Y
Including:
Diethylene glycol butyl ether acetate
Diethylene glycol ethyl ether acetate
Diethylene glycol methyl ether acetate
Polyalkylene oxide polyol | #
Polyalkyl(C10-C20) methacrylate | Y
Polyalkyl(C10-C18) methacrylate/ethylene-propylene copolymer mixture * | Y
Polybutadiene, hydroxy terminated | #
Polybutene | Y
Polybutenyl succinimide | Y
Poly(2+)cyclic aromatics * | X
Polydimethylsiloxane, see Dimethylpolysiloxane |
Polyether (molecular weight 1350+) | Y
Polyether polyols | #
Polyethylene glycol | Z
Polyethylene glycol dimethyl ether | Z
Poly(ethylene glycol) methylbutenyl ether (MW>1000) * | Z
Polyethylene glycol monoalkyl ether, see Poly(2-8)alkylene glycol monoalkyl(C1-C6) ether |
Polyglycerine, sodium salt solution (containing less than 3% sodium hydroxide) | Z
Polyglycerol | #
Polyisobutenamine in aliphatic (C10-C14) solvent * | Y
Polyisobutenyl anhydride adduct | Z
Poly(4+)isobutylene | Y
Polymerized esters | #
Polyolefin amide alkeneamine (C17+) | Y
Polyolefin amide alkeneamine (C28+), see Polyolefin amide alkeneamine (C17+) |
Polyolefin amide alkeneamine borate (C28-C250) | Y
Polyolefin amide alkeneamine/Molybdenum oxysulfide mixture | #
Polyolefin amide alkeneamine polyol | Y
Polyolefinamine (C28-C250) * | Y
Polyolefinamine in alkyl (C2-C4) benzenes * | Y
Polyolefinamine in aromatic solvent * | Y
Polyolefin aminoester salts (molecular weight 2000+) * | Y
Polyolefin anhydride | Y
Polyolefin ester (C28-C250) | Y
Polyolefin phenolic amine (C28-C250) | Y
Polyolefin phosphorosulfide, barium derivative (C28-C250) | Y
Poly(20)oxyethylene sorbitan monooleate | Y
Poly(5+)propylene | Y
Polypropylene glycol methyl ether, see Poly(2-8)alkylene glycol monoalkyl(C1-C6) ether |
Polysiloxane | Y
Poppy oil | #
Potassium oleate | Y
Potassium salt of polyolefin acid | #
n-Propoxypropanol, see Propylene glycol monoalkyl ether |
n-Propyl acetate | Y
n-Propyl alcohol | Y
iso-Propylbenzene, see Propylbenzene (all isomers) |
n-Propylbenzene, see Propylbenzene (all isomers) |
Propylbenzene (all isomers) | Y
Propylene-Butylene copolymer | #
Propylene carbonate | Z
Propylene dimer | #
Propylene glycol | Z
Propylene glycol n-butyl ether, see Propylene glycol monoalkyl ether |
Propylene glycol ethyl ether, see Propylene glycol monoalkyl ether |
Propylene glycol methyl ether, see Propylene glycol monoalkyl ether |
Propylene glycol methyl ether acetate | Z
Propylene glycol monoalkyl ether | Z
Including:
n-Propoxypropanol
Propylene glycol n-butyl ether
Propylene glycol ethyl ether
Propylene glycol methyl ether
Propylene glycol propyl ether
Propylene glycol phenyl ether | Z
Propylene glycol propyl ether, see Propylene glycol monoalkyl ether |
Propylene polymer (in liquid mixtures) | #
Propylene tetramer | X
Propylene trimer | Y
Pseudocumene, see Trimethylbenzenes |
Raisin seed oil | #
Rapeseed acid oil | #
Rape seed oil fatty acid methyl esters* | Y
Residual oil | I
Road oil | I
Rosin * | Y
Rosin oil | #
Rum, see Alcoholic beverages, n.o.s |
Safflower acid oil | #
Salad oil | #
Seal oil | I
Sesame oil | #
Soapstock oil | #
Sodium acetate, Glycol, Water mixture (containing 1% or less, Sodium hydroxide) (if flammable or combustible) | #
Sodium benzoate | Z
Sodium long-chain alkyl salicylate (C13+) | #
Sodium thiocyanate solution (56% or less) * | Y
Soya acid oil | #
Soyabean fatty acid methyl ester | #
Soyabean oil (epoxidized) | #
Spindle oil | I
Stearic acid, see Fatty acid (saturated, C13+) |
Stearyl alcohol, see Alcohols (C13+) |
Sulfohydrocarbon (C3-C88) | Y
Sulfohydrocarbon, long-chain (C18+) alkylamine | #
Sulfolane | Y
Sulfurized fat (C14-C20) | Z
Sulfurized polyolefinamide alkene(C28-C250) amine | Z
Sunflower oil, see Sunflower seed acid oil |
Sunflower seed acid oil | #
Tall oil, distilled * | Y
Tall oil, fatty acid | #
Tallow | Y
Tallow alcohol, see Alcohols (C13+) |
Tallow alkyl nitrile | #
Tallow fatty acid | Y
TAME, see tert-Amyl methyl ether |
Tetradecanol, see Alcohols (C13+) |
Tetradecene, see alpha-Olefins (C6-C18) mixtures, Olefin mixtures (C5-C15), or Olefins (C13+, all isomers) |
Tetradecylbenzene, see Alkyl(C9+)benzenes |
Tetraethylene glycol | Z
Tetraethyl silicate monomer/oligomer (20% in ethanol) * | Z
Tetrahydronaphthalene | Y
Tetramethylbenzene (all isomers) * | X
Tetrapropylbenzene, see Alkyl(C9+)benzenes |
Toluene | Y
Transformer oil | I
Triarylphosphate, see Triisopropylated phenyl phosphates |
Tributyl phosphate | Y
Tridecane | Y
Tridecanoic acid | Y
Tridecanol, see Alcohols (C13+) |
Tridecene, see Olefins (C13+, all isomers) |
Tridecyl acetate | Y
Tridecylbenzene, see Alkyl(C9+)benzenes |
Triethylbenzene | X
Triethylene glycol | Z
Triethylene glycol butyl ether, see Poly(2-8)alkylene glycol monoalkyl(C1-C6) ether |
Triethylene glycol butyl ether mixture | #
Triethylene glycol di-(2-ethylbutyrate) | #
Triethylene glycol ether mixture | #
Triethylene glycol ethyl ether, see Poly(2-8)alkylene glycol monoalkyl(C1-C6) ether |
Triethylene glycol methyl ether, see Poly(2-8)alkylene glycol monoalkyl(C1-C6) ether |
Triethyl phosphate | Z
Triisooctyl trimellitate | #
Triisopropanolamine | Z
Triisopropylated phenyl phosphates | X
Trimethylbenzene (all isomers) | X
2,2,4-Trimethyl-1,3-pentanediol diisobutyrate | Y
2,2,4-Trimethyl-1,3-pentanediol-1-isobutyrate * | Y
2,2,4-Trimethyl-3-pentanol-1-isobutyrate | #
Tripropylene, see Propylene trimer |
Tripropylene glycol | Z
Tripropylene glycol methyl ether, see Poly(2-8)alkylene glycol monoalkyl(C1-C6) ether |
Trixylenyl phosphate, see Trixylyl phosphate |
Trixylyl phosphate | X
Tucum oil | #
Turbine oil | I
Turpentine | X
† Turpentine substitute, see White spirit (low (15-20%) aromatic) |
Undecanoic acid | Y
1-Undecanol, see Undecyl alcohol |
Undecene, see 1-Undecene |
1-Undecene | X
1-Undecyl alcohol, see Undecyl alcohol |
Undecyl alcohol | X
Undecylbenzene, see Alkyl(C9+)benzenes |
Vegetable oils, n.o.s | #
Vegetable protein solution (hydrolyzed) (if flammable or combustible) * | OS
Walnut oil | #
Waxes | Y
† White spirit, see White spirit (low (15-20%) aromatic) |
† White spirit, low (15-20%) aromatic | Y
Wine, see Alcoholic beverages, n.o.s |
Xylenes | Y
Xylenes/Ethylbenzene (10% or more) mixture * | Y
Zinc alkaryl dithiophosphate (C7-C16) | Y
Zinc alkenyl carboxamide | Y
Zinc alkyl dithiophosphate (C3-C14) | Y
NOTES:
“#” = NLS status is undetermined—see 46 CFR 153.900(c) for shipping on an oceangoing vessel.
“†” = Marine occupational safety and health regulations for benzene, 46 CFR part 197, subpart C, may apply to this cargo.
“[ ]” = Provisional categorization to which the United States is party.
“@” = The NLS category has been assigned by the U.S. Coast Guard, in absence of one assigned by the IMO. The category is based upon a GESAMP Hazard Profile or by analogy to a closely related product having an NLS assigned.
“*” From the March 2012 Annex to the 2007 edition of the IBC Code.
“Cat” = Pollution category.
“F” = Flammable (flash point less than or equal to 60 degrees C (140 degrees F) NLS.
“I” = An “oil” under MARPOL Annex I.
Italicized words are not part of the cargo name but may be used in addition to the cargo name.
“n.o.s.” = Not otherwise specified.
“OS” = An “other substance” considered at present to present no harm to marine resources, human health, amenities, or other legitimate uses of the sea when discharged into the sea from tank cleaning or deballasting operations.
“see” = A redirection to the preferred, alternative cargo name—for example in “Diethyl ether, see Ethyl ether,” the pollution category for “diethyl ether” will be found under the preferred, alternative cargo name “ethyl ether.”
“ST” = Ship type.
“X,” “Y,” and “Z” = NLS categories under MARPOL Annex II.

PART 150—COMPATIBILITY OF CARGOES

3. The authority citation for part 150 continues to read as follows:

Authority: 46 U.S.C. 3306, 3703; Department of Homeland Security Delegation No. 0170.1. Section 150.105 issued under 44 U.S.C. 3507; Department of Homeland Security Delegation No. 0170.1.

4. Revise Table I to Part 150 to read as follows:

Table I to Part 150—Alphabetical List of Cargoes
Chemical name | Group No. | Footnote | CHRIS Code | Related CHRIS Codes
Acetaldehyde | 19 |  | AAD
Acetic acid | 4 | 2 | AAC
Acetic anhydride | 11 | 2 | ACA
Acetochlor | 10 |  | ACG
Acetone | 18 | 2 | ACT
Acetone cyanohydrin | 0 | 1, 2 | ACY
Acetonitrile | 37 |  | ATN
Acetonitrile (low purity grade) * | 37 | 3 | AIL
Acetophenone | 18 |  | ACP
Acid oil mixture from soybean, corn (maize) and sunflower oil refining, see Oil, misc: Acid mixture from soybean, corn (maize) and sunflower oil refining * | 34 | 3 |  | AOM.
Acrolein | 19 | 2 | ARL
Acrylamide solution (50% or less) * | 10 | 3 | AAM | AAO.
Acrylic acid | 4 | 2 | ACR
Acrylic acid/ethenesulfonic acid copolymer with phosphonate groups, sodium salt solution * | 30 | 3 | APG
Acrylonitrile | 15 | 2 | ACN
Acrylonitrile-Styrene copolymer dispersion in Polyether polyol | 20 |  | ALE
Adiponitrile | 37 |  | ADN
Alachlor technical (90% or more) * | 33 | 3 | ALH | ALI.
Alcohol (C12-C13, branched and linear) poly (4-8) propoxy sulfates, sodium salt 25-30% solution * | 41 | 3 | ABL
Alcohol (C9-C11) poly (2.5-9) ethoxylates * | 40 | 3 | AET | ALY/APV/APW.
Alcohol (C6-C17) (secondary) poly (3-6) ethoxylates * | 40 | 3 | AEA | AEB.
Alcohol (C6-C17) (secondary) poly (7-12) ethoxylates * | 40 | 3 | AEB | AEA.
Alcohol (C12-C16) poly (1-6) ethoxylates * | 40 | 3 | AED | AET/ALY/APW.
Alcohol (C12-C16) poly (7-19) ethoxylates * | 40 | 3 | APV | AET/ALY/APV.
Alcohol (C12-C16) poly (20+) ethoxylates * | 40 | 3 | APW | AET/ALY.
Alcoholic beverages, n.o.s.* | 20 | 3 | ABV
Alcohols (C13+) | 20 |  | ALY | ASY/AYK.
Including:
Oleyl alcohol (octadecenol)
Pentadecanol
Tallow alcohol
Tetradecanol
Tridecanol
Alcohol polyethoxylates | 20 |  |  | AEA/AEB/AED/AET/APV/APW.
Alcohol polyethoxylates, secondary | 20 |  |  | AEA/AEB.
Alcohol (C12-C15) poly (. . .) ethoxylate, see Alcohol (C12-C16) poly (. . .) ethoxylate | 20
Alcohols (C12+), primary, linear * | 20 | 3 | ASY | ALR/AYK/AYL.
Alcohols (C8-C11), primary, linear and essentially linear | 20 |  | ALR | AYK/AYL.
Alcohols (C12-C13), primary, linear and essentially linear * | 20 | 3 | AYK | ALR/ASY/AYL.
Alcohols (C14-C18), primary, linear and essentially linear * | 20 | 3 | AYL | ALR/ASY/AYK.
Alkanes (C6-C9) | 31 |  | ALK
Including:
Heptanes
Hexanes
Nonanes
Octanes
iso- & cyclo-Alkanes (C10-C11) | 31 |  | AKI
iso- & cyclo-Alkanes (C12+) | 31 |  | AKJ
Alkanes (C10-C26), linear and branched (flash point > 60 °C) * | 31 | 3 | ABD
n-Alkanes (C10+) (all isomers) | 31 |  | ALV | ALJ.
Including:
Decanes
Dodecanes
Heptadecanes
Tridecanes
Undecanes
Alkane (C14-C17) sulfonic acid, sodium salt solutions, see Sodium alkyl (C14-C17) sulfonates (60-65% solution) | 34 |  | AKA | SAA (AKE/SSU).
Alkaryl polyethers (C9-C20) | 41 |  | AKP
Alkenoic acid, polyhydroxy ester borated * | 0 | 1, 3 | AAY
Alkenyl(C11+)amide | 10 |  | AKM
Alkenyl (C8+) amine, Alkenyl (C12+) acid ester mixture
Alkenyl (C16-C20) succinic anhydride | 11 |  | AAH
Alkyl acrylate-Vinyl pyridine copolymer in Toluene | 32 |  | AAP
Alkyl amine (C17+) | 7 |  | AKY
Alkylaryl phosphate mixtures (more than 40% Diphenyl tolyl phosphate, less than 0.02% ortho-isomers) | 34 |  | ADP
Alkylated (C4-C9) hindered phenols * | 21 | 3 | AYO
Alkyl(C3-C4)benzenes | 32 |  | AKC
Including:
Butylbenzenes
Cumene
Propylbenzenes
Alkyl(C5-C8)benzenes | 32 |  | AKD.
Including:
Amylbenzenes
Heptylbenzenes
Hexylbenzenes
Octylbenzenes
Alkyl(C9+)benzenes | 32 |  | AKB
Including:
Decylbenzenes
Dodecylbenzenes
Nonylbenzenes
Tetradecylbenzenes
Tetrapropylbenzenes
Tridecylbenzenes
Undecylbenzenes
Alkylbenzene, Alkylindane, Alkylindene mixture (each C12-C17) | 32 |  | AIH
Alkyl benzene distillation bottoms * | 0 | 1, 3 | ABB
Alkylbenzene mixtures (containing at least 50% of Toluene) * | 32 | 3 | AZT
Alkyl (C11-C17) benzene sulfonic acid * | 0 | 1, 3 | ABN | ABS/ABQ.
Alkylbenzenesulfonic acid (less than 4%) | 0 | 1, 2 | ABQ | ABS/ABN.
Alkylbenzene sulfonic acid, sodium salt solution | 33 |  | ABT
Alkyl (C12+) dimethylamine * | 7 | 3 | ADM
Alkyl dithiocarbamate (C19-C35) * | 34 | 3 | ADB
Alkyl dithiothiadiazole (C6-C24) | 33 |  | ADT
Alkyl polyglucoside solution, see individual polyglucoside solution | 43 |  | AGD | AGL/AGM AGN/AGO/AGP.
Alkyl ester copolymer (C4-C20) | 34 |  | AES | AEQ.
Alkyl (C8-C10)/(C12-C14):(40% or less/60% or more) polyglucoside solution (55% or less) * | 43 | 3 | AGN | AGD/AGL AGM/AGO/AGP.
Alkyl (C8-C10)/(C12-C14):(50%/50%) polyglucoside solution (55% or less) * | 43 | 3 | AGO | AGD/AGL/AGN/AGP.
Alkyl (C8-C10)/(C12-C14):(60% or more/40% or less) polyglucoside solution (55% or less) * | 43 | 3 | AGP | AGD/AGL/AGM/AGN/AGO.
Alkyl(C7-C9) nitrates | 34 | 2 | AKN | ONE.
Alkyl (C4-C9) phenols | 21 |  | AYI | BLT/BTP/NNP/OPH.
Alkyl(C7-C11) phenol poly(4-12)ethoxylate | 40 |  | APN | NPE.
Alkyl (C8-C40) phenol sulfide | 34 |  | AKS
Alkyl phenol sulfide (C8-C40), see Alkyl (C8-C40) phenol sulfide | 34 |  |  | AKS.
Alkyl(C8-C9) phenylamine in aromatic solvents | 9 |  | ALP
Alkyl(C9-C15) phenyl propoxylate | 40 |  | AXL
Alkyl (C8-C10) polyglucoside solution (65% or less) * | 43 | 3 | AGL | AGD/AGM/AGN/AGO/AGP.
Alkyl (C12-C14) polyglucoside solution (55% or less) * | 43 | 3 | AGM | AGD/AGL/AGN/AGO/AGP.
Alkyl (C12-C16) propoxyamine ethoxylate * | 8 | 3 | AXE | LPE.
Alkyl ester copolymer in mineral oil | 34 |  | AEQ | AES.
Alkyl phthalates, see individual phthalates | 34 |  | AYS
Alkyl(C10-C20), saturated and unsaturated phosphite | 34 |  | AKL
Alkyl succinic anhydride | 11 |  | AUA
Alkyl sulfonic acid ester of phenol | 34 |  | AKH
Alkyl (C18+) toluenes * | 32 | 3 | AUS | AYL.
Alkyl toluene | 32 |  | AYL | AUS.
Alkyl (C18-C28) toluenesulfonic acid * | 0 | 1, 3 | AUU
Alkyl (C18-C28) toluenesulfonic acid, Calcium salts, borated * | 34 | 3 | AUB
Alkyl (C18-C28) toluenesulfonic acid, Calcium salts, low overbase * | 33 | 3 | AUL
Alkyl (C18-C28) toluenesulfonic acid, Calcium salts, high overbase * | 33 | 3 | AUC
Allyl alcohol | 15 | 2 | ALA
Allyl chloride | 15 |  | ALC
Aluminum chloride, Hydrochloric acid solution, see “Aluminum chloride/Hydrogen chloride solution” | 0 | 1 | AHS | AHG.
Aluminum chloride/Hydrogen chloride solution * | 0 | 1,3 | AHG | AHS.
Aluminum hydroxide, sodium hydroxide, sodium carbonate solution (40% or less) * | 43 | 3 | AHN
Aluminum sulfate solution | 43 | 2 | ASX | ALM.
Amine C-6, morpholine process residue | 9 |  | AOI
2-(2-Aminoethoxy)ethanol | 8 |  | AEX
Aminoethyldiethanolamine/Aminoethylethanolamine solution | 8 |  | ADY
Aminoethylethanolamine | 8 |  | AEE
N-Aminoethylpiperazine | 7 |  | AEP
2-Amino-2-hydroxymethyl-1,3-propanediol solution | 43 |  | AHL
2-Amino-2-methyl-1-propanol | 8 |  | APZ | APQ/APR.
Ammonia, anhydrous | 6 |  | AMA
Ammonia, aqueous (28% or less Ammonia), see Ammonium hydroxide | 6 |  |  | AMH.
Ammonium bisulfite solution (70% or less) | 43 | 2 | ABX | ASU.
Ammonium chloride solution (less than 25%) * | 43 | 3 | AIS | AMC.
Ammonium hydrogen phosphate solution | 0 | 1 | AMI
Ammonium hydroxide (28% or less Ammonia) | 6 |  | AMH
Ammonium lignosulfonate solution, see also Lignin liquor | 43 |  | ALG | LNL.
Ammonium nitrate solution (93% or less) | 0 | 1 | ANW | AMN/AND/ANR.
Ammonium nitrate solution (45% or less) | 0 | 1 | AND | AMN/ANR/ANW.
Ammonium nitrate/Urea solution (containing Ammonia), see Urea/Ammonium nitrate solution (containing more than 2% Ammonia) | 6 |  |  | UAS (ANU/UAT/UAU/UAV).
Ammonium nitrate/Urea solution (containing less than 2% free Ammonia), see Urea/Ammonium nitrate solution (containing less than 2% free Ammonia) | 6 |  |  | UAT (ANU/UAS/UAU/UAV).
Ammonium nitrate/Urea solution (not containing Ammonia), see Urea/Ammonium nitrate solution (containing less than 1% Ammonia) | 6 |  |  | UAU (ANU/UAS/UAT/UAV).
Ammonium phosphate/Urea solution, see Urea/Ammonium phosphate solution | 43 |  |  | UAP (APP/URE).
Ammonium polyphosphate solution | 43 |  | AMO |
Ammonium sulfate solution | 43 |  | ASW | AME/AMS.
Ammonium sulfate solution (20% or less) | 43 |  | AME | AMS/ASW.
Ammonium sulfide solution (45% or less *) | 5 | 3 | ASS | ASF.
Ammonium thiocyanate/Ammonium thiosulfate solution | 0 | 1 | ACV | ACS.
Ammonium thiosulfate solution (60% or less *) | 43 | 3 | ATV | ATF.
Amyl acetate (all isomers *) | 34 | 3 | AEC | IAT/AML/AAS/AYA.
Amyl acid phosphate | 34 |  | AIA |
n *-Amyl alcohol | 20 | 3 | AAN | AAI/AAL/APM/ASE/IAA.
Amyl alcohol, primary * | 20 | 3 | APM | AAI/AAL/ANN/APM/IAA.
sec-Amyl alcohol * | 20 | 3 | ASE | AAI/AAL/ANN/APM/IAA.
tert-Amyl alcohol * | 20 | 3 | AAL | AAI/APM/ASE/IAA.
Amylene, see Pentene (all isomers) | 30 |  | AMW | PTX (AMX/AMZ/PTE).
tert-Amylenes, see Pentene | 30 |  | AMZ | PTX (AMW).
tert-Amyl methyl ether | 41 |  | AYE
Amyl methyl ketone, see Methyl amyl ketone | 18 |  | AMJ | MAK (AMK).
Aniline | 9 |  | ANL
Animal and Fish oils, n.o.s. | 34 |  | AFN
Including:
Cod liver oil
Lanolin
Neatsfoot oil
Pilchard oil
Sperm oil
Animal and Fish acid oils and distillates, n.o.s. | 34 |  | AFA
Including:
Animal acid oil
Fish acid oil
Lard acid oil
Mixed acid oil
Mixed general acid oil
Mixed hard acid oil
Mixed soft acid oil
Anthracene oil (Coal tar fraction), see Coal tar | 33 |  | AHO | COR.
Apple juice | 43 |  | APJ
Argon, liquefied | 0 | 1 | ARG
Aryl polyolefins (C11-C50) | 32 |  | AYF
Asphalt | 33 |  | ASP | ACU.
Asphalt blending stocks, roofers flux | 33 |  | ARF
Asphalt blending stocks, straight run residue | 33 |  | ASR
Asphalt emulsion | 33 |  | ASQ
Asphalt, Kerosene, and other components | 33 |  | AKO
Aviation alkylates (C8 paraffins and iso-paraffins BPT 95-120 °C *) | 31 | 3 | AVA | GAK/GAV.
Barium long-chain (C11-C50) alkaryl sulfonate | 34 |  | BCA
Barium long- chain alkyl(C8-C14)phenate sulfide | 34 |  | BCH
Behenyl alcohol | 20 |  | BHY
Benzene | 32 | 2 | BNZ | BHA/BHB/PYG.
Benzene and mixtures having 10% Benzene or more | 32 |  | BHB | BHA/BNZ/PYG.
Benzene hydrocarbon mixtures (containing Acetylenes) (having 10% Benzene or more) | 32 |  | BHA | BHB/BNZ/PYG.
Benzene sulfonyl chloride | 0 | 1, 2 | BSC
Benzene/Toluene/Xylene mixtures (having 10% Benzene or more) | 32 |  | BTX | BHB/BNZ/PYG/TOL/XLX/XLM/XLO/XLP.
Benzenetricarboxylic acid, trioctyl ester | 34 |  | BCE
Benzyl acetate | 34 |  | BZE
Benzyl alcohol | 21 |  | BAL
Benzyl chloride | 36 |  | BCL
Bio-fuel blends of Diesel/gas oil and Alkanes (C10-C26), linear and branched with a flash point >60 °C (>25% but < 99% by volume) * | 33 | 3 | BIF | BIG/BIH/BII/BIJ/BIK.
Bio-fuel blends of Diesel/gas oil and Alkanes (C10-C26), linear and branched with a flash point >60 °C (>25% but <99% by volume) * | 33 | 3 | BIG | BIF/BIH/BII/BIJ/BIK.
Bio-fuel blends of Diesel/gas oil and FAME (>25% but <99% by volume) * | 34 | 3 | BIH | BIF/BIG/BII/BIJ/BIK.
Bio-fuel blends of Diesel/gas oil and vegetable oil (>25% but <99% by volume) * | 34 | 3 | BII | BIF/BIG/BIH/BIJ/BIK.
Bio-fuel blends of Gasoline and Ethyl alcohol (>25% but <99% by volume) * | 20 | 3 | BIJ | BIF/BIG/BIH/BII/BIK.
Boronated Calcium sulfonate | 34 |  | BCU
Brake fluid base mix: Poly(2-8)alkylene (C2-C3) glycols/Polyalkylene (C2-C10) glycols monoalkyl (C1-C4) ethers and their borate esters * | 20 | 3 | BFY
Brominated Epoxy Resin in Acetone | 41 |  | BER
Bromochloromethane | 36 |  | BCM
Butadiene (all isomers) | 30 |  | BDI
Butadiene/Butylene mixtures (containing Acetylenes) | 30 |  | BBM | BBX/BDI/BTN/IBL.
Butane (all isomers) | 31 |  | BMX | IBT/BUT.
Butane/Propane mixture | 31 |  | BUP | LPG
1,4-Butanediol, see Butylene glycol | 20 |  | BDO | BUG.
2-Butanone, see Methyl ethyl ketone | 18 |  |  | MEK.
Butene, see Butylene |  |  |  | BUT/IBL.
Butene oligomer | 30 |  | BOL
Butyl acetate (all isomers *) | 34 | 3 | BAX | BCN/BTA/BYA/IBA.
Butyl acrylate (all isomers *) | 14 | 3 | BAR | BAI/BTC.
Butyl alcohol (iso-, n-, sec-, tert-), see Butyl alcohol (all isomers) | 20 | 2 |  | BAN/BAS/BAT/BAY/IAL.
Butyl alcohol (all isomers *) | 20 | 2, 3 | BAY | BAN/BAS/BAT/IAL.
Butylamine (all isomers *) | 7 | 3 | BTY | BAM/BTL/BUA/IAM.
Butylbenzene (all isomers *), see Alkyl(C3-C4)benzenes | 32 | 3 | BBE | AKC.
Butyl benzyl phthalate | 34 |  | BPH
Butyl butyrate (all isomers *) | 34 | 3 | BBA | BIB/BUB.
Butyl/Decyl/Cetyl/Eicosyl methacrylate mixture * | 14 | 3 | DER | BMH/BMI/BMN/CEM.
Butylenes (all isomers) | 30 |  | BTN | IBL.
n *-Butyl ether | 41 |  | BTE
Butylene glycol | 20 | 2 | BUG | BDO.
1,2-Butylene oxide | 16 |  | BTO
n-Butyl ether | 41 | 3 | BTE
n-Butyl formate | 34 |  | BFN | BFI/BFO.
Butyl heptyl ketone | 18 |  | BHK
Butyl methacrylate | 14 |  | BMH | BMI/BMN.
Butyl methacrylate, Decyl methacrylate, Cetyl-Eicosyl methacrylate mixture, see Butyl/Decyl/Cetyl/Eicosyl methacrylate | 34 |  |  | DER (BMH/BMI/BMN/CEM).
Butyl methyl ketone, see Methyl butyl ketone | 18 |  |  | MBJ (MBK/MIK).
n-Butyl propionate | 34 |  | BPN
Butyl stearate | 34 |  | BST
Butyl toluene | 32 |  | BUE
Butyraldehyde (all isomers *) | 19 | 3 | BAE | BAD/BTR.
Butyric acid | 4 |  | BRA | IBR.
gamma-Butyrolactone | 0 | 1, 2 | BLA
Calcium alkaryl sulfonate (C11-C50), see Calcium long-chain alkaryl sulfonate (C11-C50) * | 34 | 3 | CAE | CAY.
Calcium alkyl(C9)phenol sulfide, polyolefin phosphorosulfide mixture | 34 |  | CPX
Calcium alkyl (C10-C28) salicylate * | 34 | 3 | CAJ
Calcium alkyl salicylate, see Calcium long-chain alkyl salicylate (C13+), Calcium long-chain alkyl (C18-C28) salicylate, or Calcium alkyl (C10-C28) salicylate | 34 |  |  | CAJ/CAK/CAZ.
Calcium bromide solution, see Drilling brines | 43 |  | CBI | DRS.
Calcium bromide/Zinc bromide solution, see Drilling brine (containing Zinc salts) | 43 |  |  | DZB.
Calcium carbonate slurry | 34 |  | CSR
Calcium chloride solution | 43 |  | CCS | CLC.
Calcium hydroxide slurry | 5 |  | COH | CAH.
Calcium hypochlorite solution (15% or less *) | 5 | 3 | CHU | CHY/CHZ.
Calcium hypochlorite solution (more than 15% *) | 5 | 3 | CHZ | CHU/CHY.
Calcium lignosulfonate solution, see also Lignin liquor | 43 |  | CLL | LNL.
Calcium long-chain alkaryl sulfonate (C11-C50) | 34 |  | CAY
Calcium long-chain alkyl (C5-C10 *) phenate | 34 | 3 | CAU | CAN/CAQ/CAV/CAW.
Calcium long-chain alkyl (C5-C20) phenate | 34 |  | CAV | CAN/CAQ/CAU/CAW.
Calcium long-chain alkyl (C11-C40) phenate * | 34 | 3 | CAW | CAN/CAQ/CAU/CAV.
Calcium long-chain alkyl (C8-C40) phenate, see Calcium long-chain alkyl (C5-C10) phenate or Calcium long-chain alkyl (C11-C40) phenate | 34 |  | CAQ | CAU/CAV (CAN/CAW).
Calcium long-chain alkyl phenate sulfide (C8-C40) | 34 |  | CPI
Calcium long-chain alkyl phenolic amine (C8-C40) | 9 |  | CPQ
Calcium long-chain alkyl salicylate (C13+) | 34 |  | CAK | CAJ/CAZ.
Calcium long-chain alkyl (C18-C28) salicylate * | 34 | 3 | CAJ
Calcium nitrate solutions (50% or less *) | 34 | 3 | CNU | CNT.
Calcium nitrate/Magnesium nitrate/Potassium chloride solution | 34 |  | CLM | CNT/CNU/MGN/MGO/PCS/PCU/PSD.
Calcium salts of fatty acids | 34 |  | CFF
Calcium stearate | 34 |  | CSE
Calcium sulfonate/Calcium carbonate/Hydrocarbon solvent mixture | 33 |  | CSH
Camelina oil * | 34 | 3 | CEL
Camphor oil (light) | 18 |  | CPO
Canola oil, see Oil, edible: Repeseed, (low erucic acid containing less than 4% free fatty acids) | 34 |  |  | ORO (ORP).
epsilon-Caprolactam (molten or aqueous solutions) * | 22 | 3 | CLU | CLS.
Caramel solution | 43 |  | CML
Carbolic oil | 21 |  | CBO
Carbon dioxide, liquefied | 0 | 1 | CDO | CDH/CDQ.
Carbon dioxide (high purity) | 0 | 1 | CDH | CDO/CDQ.
Carbon dioxide (reclaimed quality) | 0 | 1 | CDQ | CDH/CDO.
Carbon disulfide | 38 |  | CBB
Carbon tetrachloride | 36 | 2 | CBT | CBU.
Cashew nut shell oil (untreated), see Oil, misc: Cashew nut shell (untreated) | 4 |  |  | OCN.
Castor oil, see Oil, edible: Castor | 34 |  |  | OCA (VEO).
Catoxid feedstock | 36 | 2 | CXF
Caustic potash solution | 5 | 2 | CPS
Caustic soda solution | 5 | 2 | CSS
Cesium formate solution * | 34 | 3 | CSM
Cetyl alcohol, see Alcohols (C13+) | 20 |  |  | ALY (ASY/AYL).
Cetyl/Eicosyl methacrylate mixture | 14 | 1 | CEM
Cetyl/Stearyl alcohol, see Alcohols (C13+) | 20 |  |  | ALY (ASY/AYL).
Chlorinated paraffins (C10-C13) | 36 |  | CLH | CLG/CLJ/CLQ.
Chlorinated paraffins (C14-C17) (with 50% Chlorine or more, and less than 1% C13 or shorter chains *) | 36 | 3 | CLJ | CLG/CLH/CLQ.
Chlorinated paraffins (C14-C17) (with 52% Chlorine) | 36 |  | CLQ | CLG/CLH/CLJ.
Chlorinated paraffins (C18+) with any level of chlorine | 36 |  | CLG | CLH/CLJ.
Chlorine | 0 | 1 | CLX
Chloroacetic acid (80% or less *) | 4 | 3 | CHM | CHL/MCA.
Chlorobenzene | 36 |  | CRB
Chlorodifluoromethane (monochlorodifluoromethane) | 36 |  | MCF
2-Chloro-4-ethylamino-6-isopropylamino-5-triazine solution | 0 | 1 | CET
Chloroform | 36 |  | CRF
Chlorohydrins (crude *) | 17 | 3 | CHD
4-Chloro-2-methylphenoxyacetic acid, dimethylamine salt solution | 9 |  | CDM
o-Chloronitrobenzene | 42 |  | CNO | CNP.
1-(4-Chlorophenyl)-4,4-dimethyl pentan-3-one | 18 | 2 | CDP
2- or 3-Chloropropionic acid | 4 |  | CPM | CLA/CLP.
Chlorosulfonic acid | 0 | 1 | CSA
m-Chlorotoluene * | 36 | 3 | CTM | CHI/CRN/CTO.
o-Chlorotoluene * | 36 | 3 | CTO | CHI/CRN/CTM.
p-Chlorotoluene * | 36 | 3 | CRN | CHI/CTM/CTO.
Chlorotoluenes (mixed isomers) * | 36 | 3 | CHI | CRN/CTM/CTO.
Choline chloride solution | 20 |  | CCO
Citric acid (70% or less *) | 4 | 3 | CIS | CIT.
Clay slurry | 43 |  | CLY
Coal slurry | 43 |  | COG | COA.
Coal tar | 33 |  | COR | OCT.
Coal tar crude bases | 33 |  | CTB
Coal tar distillate, see Naphtha: Coal tar solvent | 33 |  | CDL | NCT (CTU).
Coal tar naphtha solvent, see Naphtha: Coal tar solvent | 33 |  |  | NCT (CDL/CTU).
Coal tar pitch (molten *) | 33 | 3 | CTP
Cocoa butter, see Oil, edible: Cocoa butter | 34 |  |  | OCB (VEO).
Coconut oil, see Oil, edible: Coconut | 34 |  |  | OCC (VEO).
Coconut oil, fatty acid, see Oil, misc: Coconut fatty acid | 34 | 2 |  | CFA.
Coconut oil, fatty acid methyl ester, see Oil, misc: Coconut fatty acid methyl ester * | 34 | 3 |  | OCM.
Copper salt of long-chain (C17+) alkanoic acid | 34 |  | CUS | CFT.
Copper salt of long-chain (C3-C16) fatty acid | 34 |  | CFT | CUS.
Corn oil, see Oil, edible: Corn | 34 |  |  | OCO (VEO).
Cotton seed oil, see Oil, edible: Cotton seed | 34 |  |  | OCS (VEO).
Cottonseed oil, fatty acid | 34 |  | CFY
Creosote | 21 | 2 | CCW | CCT/CWD.
Creosote (coal tar *) | 21 | 2, 3 | CCT | CCW.
Creosote (wood tar *) | 21 | 2, 3 | CWD | CCT/CCW.
Cresols (all isomers *) | 21 | 3 | CRS | CFO/CFP/CRL/CRO/CSC/CSO.
Cresols with less than 5% Phenol, see Cresols (all isomers) | 21 |  | CFO | CRS (CFP/CRL/CRO/CSO).
Cresols with 5% or more Phenol, see Phenol | 21 |  | CFP | PHN (CFO/CRL/CRO/CRS/CSO).
Cresylate spent caustic, see Cresylic acid, sodium salt solution | 5 |  | CSC | CYD.
Cresylic acid, dephenolized | 21 |  | CAD | CRY/CYN.
Cresylic acid, sodium salt solution | 5 |  | CYD | CSC.
Cresylic acid with 5% or more phenol | 21 |  | CYN | CAD/CRY.
Cresylic acid tar | 21 |  | CRX
Crotonaldehyde | 19 | 2 | CTA
Crude isononylaldehyde, see Isononyldehyde (crude) | 19 |  |  | INC.
Crude isopropanol, see Isoproyl alcohol, crude | 20 |  |  | IPB (IPA/PAL).
Crude piperazine, see Piperazine, crude | 7 |  |  | PZC (PPZ/PIZ).
Cumene, see Propylbenzene (all isomers) | 32 |  | CUM | AKD (PBY/PBZ).
1,5,9-Cyclododecatriene | 30 |  | CYT
Cycloheptane | 31 |  | CYE
Cyclohexane | 31 |  | CHX
Cyclohexanol | 20 |  | CHN
Cyclohexanone | 18 | 2 | CCH
Cyclohexanone/Cyclohexanol mixture | 18 | 2 | CYX
Cyclohexyl acetate | 34 |  | CYC
Cyclohexylamine | 7 |  | CHA
1,3-Cyclopentadiene dimer (molten *) | 30 | 3 | CPD | DPT/DPV.
Cyclopentadiene/Styrene/Benzene mixture | 30 |  | CSB
Cyclopentane | 31 |  | CYP
Cyclopentene | 30 |  | CPE
p *-Cymene | 32 |  | CMP
Decahydronaphthalene | 33 |  | DHN
Decaldehyde | 19 |  | DAY | IDA/DAL.
Decane (all isomers), see n-Alkanes (C10+) (all isomers) | 31 |  | DCC | ALV (ALJ).
Decanoic acid | 4 |  | DCO | NEA.
Decene | 30 |  | DCE
Decyl acetate | 34 |  | DYA
Decyl acrylate | 14 |  | DAT | IAI/DAR.
Decyl alcohol (all isomers *) | 20 | 2, 3 | DAX | ISA/DAN.
Decyl/Dodecyl/Tetradecyl alcohol mixture * | 20 | 3 | DYO | DAN/DAX/DDN/ISA.
Decylbenzene, see Alkyl(C9+) benzenes | 32 |  | DBZ | AKB.
Decyloxytetrahydrothiophene dioxide | 0 | 1 | DHT
Detergent alkylate | 32 |  | DKY | AKB/DBZ/DDB/TDB/TRB/UDB.
Dextrose solution, see Glucose solution | 43 |  | DTS | GLU.
Diacetone alcohol | 20 | 2 | DAA
Dialkyl(C10-C14) benzenes, see Alkyl(C9+) benzenes | 32 |  | DAB | AKB.
Dialkyl(C8-C9) diphenylamines | 9 |  | DAQ
Dialkyl(C7-C13) phthalates | 34 |  | DAH
Including:
Di-(2-ethylhexyl) phthalate
Diheptyl phthalate
Dihexyl phthalate
Diisooctyl phthalate
Diisodecyl phthalate
Diisononyl phthalate
Dinonyl phthalate
Dioctyl phthalate
Ditridecyl phthalate
Diundecyl phthalate
Dialkyl (C9-C10) phthalates, see Dialkyl (C7-C13) phthalates | 34 |  | DLK | DLH (DAP/DHL/DHP/DID/DIE/DIF/DIN/DIO/DIT/DOP/DPA/DTP/DUP).
Dialkyl thiophosphates sodium salts solution * | 34 | 3 | DYH
Dibromomethane | 36 |  | DBH
Dibutylamine | 7 |  | DBA
Dibutyl carbinol, see Nonyl alcohol (all isomers) | 20 |  |  | NNS (DBC/NNI/NNN).
Dibutyl hydrogen phosphonate | 34 |  | DHD
Dibutylphenols | 21 |  | DBT | DBV/DBW.
2,6-Di-tert-butylphenol * | 21 | 3 | DBW | DBF/DBT/DBV.
Dibutyl phthalate | 34 |  | DPA | DIT.
Dibutyl terephthalate * | 34 | 3 | DYE
Dichlorobenzene (all isomers *) | 36 | 3 | DBX | DBM/DBO/DBP.
3,4-Dichloro-1-butene | 36 |  | DCD | DCB.
Dichlorodifluoromethane | 36 |  | DCF
1,1-Dichloroethane | 36 | 2 | DCH
Dichloroethyl ether * | 41 | 3 | DYR | DEE.
1,6-Dichlorohexane | 36 |  | DHX
2,2′-Dichloroisopropyl ether | 41 |  | DCI
Dichloromethane | 36 | 2 | DCM
2,4-Dichlorophenol | 21 |  | DCP
2,4-Dichlorophenoxyacetic acid/Diethanolamine salt solution | 43 |  | DDE
2,4-Dichlorophenoxyacetic acid/Dimethylamine salt solution (70% or less) * | 0 | 1, 2, 3 | DDA | DAD/DSX.
2,4-Dichlorophenoxyacetic acid/Triisopropanolamine salt solution | 43 | 2 | DTI
1,1-Dichloropropane | 36 |  | DPB | DPC/DPL/DPP/DPX.
1,2-Dichloropropane * | 36 | 3 | DPP | DPB/DPC/DPL/DPX.
1,3-Dichlorpropane | 36 |  | DPC | DPB/DPL/DPP/DPX.
Dichloropropene (all isomers) | 15 |  | DCW | DPF/DPU.
1,3-Dichloropropene | 15 |  |  | DCW/DPF.
Dichloropropene/Dichloropropane mixtures | 15 |  | DMX | DCW/DPB/DPC/DPL/DPP/DPU/DPX.
2,2-Dichloropropionic acid | 4 |  | DCN
Dicyclopentadiene, see 1,3-Cyclopentadiene dimer (molten) | 30 |  | DPT | CPD (DPV).
Dicyclopentadiene, Resin Grade, 81-89% * | 30 | 3 | DPV | CPD/DPT.
Diethanolamine | 8 |  | DEA
Diethanolamine salt of 2,4-Dichlorophenoxyacetic acid solution, see 2,4-Dichlorophenoxyacetic acid, Diethanolamine salt solution | 43 |  | DZZ | DDE.
Diethylamine | 7 |  | DEN
Diethylaminoethanol | 8 |  | DAE
2,6-Diethylaniline | 9 |  | DMN | DIY.
Diethylbenzene | 32 |  | DEB
Diethylene glycol | 40 | 2 | DEG
Diethylene glycol butyl ether, see Poly(2-8) alkylene glycol monoalkyl(C1-C6) ether | 40 |  | DME | PAG.
Diethylene glycol butyl ether acetate, see Poly(2-8)alkylene glycol monoalkyl(C1-C6) ether acetate | 34 |  | DEM | PAF.
Diethylene glycol dibutyl ether | 40 |  | DIG
Diethylene glycol diethyl ether | 40 |  | DGS
Diethylene glycol ethyl ether, see Poly(2-8)alkylene glycol monoalkyl (C1-C6) ether | 40 |  | DGE | PAG.
Diethylene glycol ethyl ether acetate, see Poly(2-8)alkylene glycol monoalkyl(C1-C6) ether acetates | 34 |  | DGA | PAF.
Diethylene glycol n-hexyl ether, see Poly(2-8)alkylene glycol monoalkyl(C1-C6) ether | 40 |  | DHE | PAG.
Diethylene glycol methyl ether, see Poly(2-8)alkylene glycol monoalkyl(C1-C6) ether | 40 |  | DGM | PAG.
Diethylene glycol methyl ether acetate, see Poly(2-8)alkylene glycol monoalkyl(C1-C6) ether acetate | 34 |  | DGR | PAF.
Diethylene glycol phenyl ether | 40 |  | DGP
Diethylene glycol phthalate | 34 |  | DGL
Diethylene glycol propyl ether, see Poly(2-8)alkylene glycol monoalkyl(C1-C6) ether | 40 |  | DGO | PAG.
Diethylenetriamine | 7 | 2 | DET
Diethylenetriaminepentaacetic acid, pentasodium salt solution | 43 |  | DYS
Diethylethanolamine, see Diethylaminoethanol | 8 |  |  | DAE.
Diethyl ether | 8 |  | EET
Diethyl hexanol, see Decyl alcohol (all isomers) | 20 |  |  | DAX.
Di-(2-ethylhexyl) adipate | 34 |  | DEH
Di-(2-ethylhexyl) phosphoric acid | 1 |  | DEP
Di-(2-ethylhexyl) phthalate, see Dialkyl (C7-C13) phthalate | 34 |  | DIE | DAH.
Di-(2-ethylhexyl) terephthalate | 34 |  | DHH
Diethyl phthalate | 34 |  | DPH
Diethyl sulfate | 34 |  | DSU
Diglycidyl ether of Bisphenol A | 41 |  | BDE
Diglycidyl ether of Bisphenol F | 41 |  | DGF
Diheptyl phthalate, see Dialkyl (C7-C13) phthalate | 34 |  | DHP | DAH.
Di-n-hexyl adipate | 34 |  | DHA
Dihexyl phthalate | 34 |  | DHL
1,4-Dihydro-9,10-dihydroxy anthracene, disodium salt solution | 5 |  | DDH
Diisobutylamine | 7 |  | DBU
Diisobutyl carbinol, see Nonyl alcohol (all isomers) | 20 |  | DBC | NNS.
Diisobutylene | 30 |  | DBL
Diisobutyl ketone | 18 |  | DIK
Diisobutyl phthalate | 34 |  | DIT | DPA.
Diisodecyl phthalate, see Dialkyl (C7-C13) phthalates | 34 |  | DID | DAH.
Diisononyl adipate | 34 |  | DNY
Diisononyl phthalate, see Dialkyl (C7-C13) phthalates | 34 | 2 | DIN | DAH.
Diisooctyl phthalate, see Dialkyl (C7-C13) phthalate | 34 |  | DIO | DAH/(DIE/DOP).
Diisopropanolamine | 8 |  | DIP
Diisopropylamine | 7 |  | DIA | DNA.
Diisopropylbenzene (all isomers) | 32 |  | DIX
Diisopropylnaphthalene | 32 |  | DII
N,N-Dimethylacetamide | 10 |  | DAC | DLS.
N,N-Dimethylacetamide solution (40% or less *) | 10 | 3 | DLS | DAL.
Dimethyl adipate | 34 |  | DLA
Dimethylamine | 7 |  | DMA | DMC/DMG/DMY.
Dimethylamine solution (45% or less *) | 7 | 3 | DMG | DMA/DMC/DMY.
Dimethylamine solution (greater than 45% but not greater than 55%) * | 7 | 3 | DMY | DMA/DMC/DMG.
Dimethylamine solution (greater than 55% but not greater than 65%) * | 7 | 3 | DMC | DMA/DMG/DMY.
Dimethylamine salt of 4-Chloro-2-methylphenoxyacetic acid solution, see 4-Chloro-2-methylphenoxyacetic acid, Dimethylamine salt solution | 9 |  |  | CDM.
Dimethylamine salt of 2,4-Dichlorophenoxyacetic acid solution, see 2,4-Dichlorophenoxyacetic acid, Dimethylamine salt solution (70% or less) | 9 |  | DAD | DDA (DSX).
2,6-Dimethylaniline | 9 |  | DMM | DDL.
Dimethylbenzene, see Xylenes | 32 |  |  | XLX/XLM/XLO/XLP.
N,N-Dimethylcyclohexylamine | 7 |  | DXN
Dimethyl disulfide * | 0 | 1, 2, 3 | DSK
Dimethyldodecylamine, see N,N-Dimethyldodecylamine | 7 |  |  | DDY.
N,N-Dimethyldodecylamine | 7 |  | DDY
Dimethylethanolamine | 8 |  | DMB
Dimethyl ether | 41 |  | DIM
Dimethylformamide | 10 |  | DMF
Dimethyl glutarate | 34 |  | DGT
Dimethyl hydrogen phosphite | 34 | 2 | DPI
Dimethyl octanoic acid | 4 |  | DMO
Dimethyl phthalate | 34 |  | DTL
Dimethylpolysiloxane | 34 |  | DMP
2,2-Dimethylpropane-1,3-diol (molten or solution *) | 20 | 3 | DDI
Dimethyl succinate | 34 |  | DSE
Dinitrotoluene (molten *) | 42 | 3 | DNM | DNL/DNU/DTT.
Dinonyl phthalate, see Dialkyl (C7-C13) phthalates | 34 |  | DIF | DAH.
Dioctyl phthalate, see Dialkyl (C7-C13) phthalates | 34 |  | DOP | DAH (DIE/DIO).
1,4-Dioxane | 41 |  | DOX
Dipentene | 30 |  | DPN
Diphenyl | 32 |  | DIL
Diphenylamine (molten) | 9 |  | DAG | DAM.
Diphenylamine, reaction product with 2,2,4-trimethylpentene | 9 |  | DAK
Diphenylamines, alkylated | 9 |  | DAJ
Diphenyl/Diphenyl ether mixtures | 33 |  | DDO
Diphenyl ether | 41 |  | DPE
Diphenyl ether/Biphenyl ether mixture, see Diphenyl/Diphenyl ether mixture | 41 |  |  | DDO.
Diphenyl ether/Diphenyl phenyl ether mixture | 41 |  | DOB
Diphenylmethane diisocyanate | 12 |  | DPM
Diphenylol propane-Epichlorohydrin resins | 0 | 1 | DPR
Diphenyl oxide, see Diphenyl ether | 40 |  |  | DPE.
Di-n-propylamine | 7 |  | DNA | DIA.
Dipropylene glycol | 40 |  | DPG
Dipropylene glycol butyl ether, see Poly(2-8)alkylene glycol monoalkyl(C1-C6) ether | 40 |  | DBG | PAG.
Dipropylene glycol dibenzoate | 34 |  | DGY
Dipropylene glycol methyl ether, see Poly (2-8)alkylene glycol monoalkyl(C1-C6) ether | 40 |  | DPY | PAG.
Distillates, flashed feed stocks | 33 |  | DFF
Distillates, straight run | 33 |  | DSR
Di-tert-butyl phenol | 21 |  | DBF | DBT/DBV/DBW.
2,4-Di-tert-butyl phenol | 21 |  | DBV | DBF/DBT/DBW.
2,6-Di-tert-butyl phenol | 21 |  | DBW | DBF/DBT/DBV.
Dithiocarbamate ester (C7-C35) | 34 |  | DHO
Ditridecyl adipate | 34 |  | DTY
Ditridecyl phthalate, see Dialkyl (C7-C13) phthalate | 34 |  | DTP | DAH.
Diundecyl phthalate, see Dialkyl (C7-C13) phthalates | 34 |  | DUP | DAH.
Dodecane (all isomers), see Alkanes (C10+) (all isomers) | 31 |  | DOF | ALV (ALJ/DOC).
tert-Dodecanethiol | 0 | 1, 2 | DDL | LRM.
Dodecene (all isomers *) | 30 | 3 | DOZ | DDC/DOD.
Dodecanol (all isomers), see Dodecyl alcohol (all isomers) | 20 | 2 | DDN | LAL.
2-Dodecenylsuccinic acid, dipotassium salt solution | 34 |  | DSP
Dodecyl alcohol (all isomers) | 20 |  | DDN | ASK/ASY/LAL.
Dodecylamine/Tetradecylamine mixture | 7 |  | DTA
Dodecylbenzene, see Alkyl (C9+) benzenes | 32 |  | DDB | AKB.
Dodecyldimethylamine/Tetradecyldimethylamine mixture | 7 |  | DOT
Dodecyl diphenyl ether disulfonate solution | 43 |  | DTA
Dodecyl hydroxypropyl sulfide | 0 | 1 | DOH
Dodecyl methacrylate | 14 |  | DDM
Dodecyl/Octadecyl methacrylate mixture | 14 |  | DOM | DDM.
Dodecyl/Pentadecyl methacrylate mixture | 14 |  | DDP
Dodecyl phenol | 21 |  | DOL
Dodecyl xylene | 32 |  | DXY
Drilling brines (containing Calcium, Potassium or Sodium salts) | 43 |  | DRL | DRB/DRS.
Drilling brines (containing Zinc salts) | 43 |  | DZB | DRB.
Drilling brines, including: Calcium bromide solution, Calcium chloride solution and Sodium chloride solution * | 43 | 3 |  | DRS/DRL.
Drilling mud (low toxicity) (if flammable or combustible) | 33 |  | DRO | DRM/DRN/DRP.
Drilling mud (low toxicity) (if non-flammable or non-combustible) | 43 |  | DRP | DRM/DRN/DRO.
Epichlorohydrin | 17 |  | EPC
Epoxy resin | 18 |  | EPN
ETBE, see Ethyl tert-butyl ether | 40 |  |  | EBE.
Ethane | 31 |  | ETH
Ethanolamine | 8 |  | MEA
2-Ethoxyethanol, see Ethylene glycol monoalkyl ethers | 40 |  | EEO | EGC (EGE).
2-Ethoxyethyl acetate | 34 | 2 | EEA | EGA.
Ethoxylated alkyloxy alkyl amine | 8 |  | ELM
Ethoxylated alcohols, C11-C15, see the alcohol poylethoxylates | 40 |  |  | AEA/AEB/AED/AET/APV/APW/APX.
Ethoxylated long-chain (C16+) alkyloxyalkylamine | 8 |  | ELA
Ethoxylated tallow alkyl amine | 7 |  | TAY | TAG/TAR.
Ethoxylated tallow amine (>95%) * | 7 | 3 | TAR | TAG/TAY.
Ethoxylated tallow alkyl amine, glycol mixture | 7 |  | TAG | TAR/TAY.
Ethoxy triglycol, see Poly (2-8) alkylene glycol monoalkyl (C1-C6) ether | 40 |  | ETG | PAG (ETR/TGE).
Ethoxy triglycol (crude) | 40 |  | ETR
Ethyl acetate | 34 | 2 | ETA
Ethyl acetoacetate | 34 |  | EAA
Ethyl acrylate | 14 | 2 | EAC
Ethyl alcohol | 20 | 2 | EAL
Ethylamine | 7 | 2 | EAM | EAN/EAO.
Ethylamine solution (72% or less *) | 7 | 3 | EAN | EAM/EAO.
Ethyl amyl ketone | 18 |  | EAK | ELK.
Ethylbenzene | 32 |  | ETB
Ethyl butanol | 20 |  | EBT
N-Ethyl-butylamine | 7 |  | EBA
Ethyl tert-butyl ether | 41 | 2 | EBE
Ethyl butyrate | 34 |  | EBR
Ethyl chloride | 36 |  | ECL
Ethyl cyclohexane | 31 |  | ECY
N-Ethylcyclohexylamine | 7 |  | ECC
2-Ethyl-2-(2,4-dichlorophenoxy) acetate | 34 |  | EDY
2-Ethyl-2-(2,4-dichlorophenoxy) propionate | 34 |  | EDP
S-Ethyl dipropylthiocarbamate * | 34 | 3 | ECB
Ethylene | 30 |  | ETL
Ethylene carbonate | 34 |  | ECR
Ethylene chlorohydrin | 20 |  | ECH
Ethylene cyanohydrin | 20 | 2 | ETC
Ethylenediamine | 7 | 2 | EDA | EMX.
Ethylenediaminetetraacetic acid/tetrasodium salt solution | 43 |  | EDS
Ethylene dibromide | 36 |  | EDB
Ethylene dichloride | 36 | 2 | EDC
Ethylene glycol | 20 | 2 | EGL | EAG.
Ethylene glycol acetate | 34 |  | EGO
Ethylene glycol butyl ether, see Ethylene glycol monoalkyl ethers | 40 |  | EGM | EGC.
Ethylene glycol tert-butyl ether, see Ethylene glycol monoalkyl ethers | 40 |  | EGG | EGC.
Ethylene glycol butyl ether acetate | 34 |  | EMA
Ethylene glycol diacetate | 34 |  | EGY
Ethylene glycol dibutyl ether | 40 |  | EGB
Ethylene glycol ethyl ether, see Ethyl glycol monoalkyl ethers | 40 |  | EGE | EGC/EEO.
Ethylene glycol ethyl ether acetate, see 2-Ethoxyethyl acetate | 34 | 2 | EGA | EEA.
Ethylene glycol hexyl ether, see Ethylene glycol monoalkyl ethers | 40 |  | EGH | EGC.
Ethylene glycol isobutyl ether, see Ethylene glycol monoalkyl ethers | 40 |  |  | EGC (EGG/EGM).
Ethylene glycol isopropyl ether, see Ethylene glycol monoalkyl ethers | 40 |  | EGI | EGN/EGP.
Ethylene glycol methyl butyl ether, see Ethylene glycol monoalkyl ethers | 40 |  | EMB | EGC.
Ethylene glycol methyl ether, see Ethylene glycol monoalkyl ethers | 40 |  | EME | EGC.
Ethylene glycol methyl ether acetate | 34 |  | EGT
Ethylene glycol monoalkyl ethers | 40 | 2 | EGC
Including:
Ethylene glycol butyl ether
Ethylene glycol isobutyl ether
Ethylene glycol methyl butyl ether
Ethylene glycol tert-butyl ether
Ethylene glycol ethyl ether
Ethylene glycol hexyl ether
Ethylene glycol methyl ether
Ethylene glycol propyl ether
Ethylene glycol iso-propyl ether
Ethylene glycol phenyl ether | 40 |  | EPE
Ethylene glycol phenyl ether/Diethylene glycol phenyl ether mixture | 40 |  | EDX
Ethylene glycol propyl ether, see Ethylene glycol monoalkyl ethers | 40 |  | EGP | EGC/EGI/EGN.
Ethylene glycol iso-propyl ether, see Ethylene glycol monoalkyl ethers | 40 |  | EGI | EGC/EGN/EGP.
Ethylene glycol n-propyl ether, see Ethylene glycol monoalkyl ethers | 40 |  | EGN | EGC (EGI/EGP).
Ethylene oxide | 0 | 1 | EOX
Ethylene oxide/Propylene oxide mixture | 16 |  | EPF | EPM.
Ethylene oxide/Propylene oxide mixture with an Ethylene oxide content not more than 30% by mass * | 16 | 3 | EPM | EPF.
Ethylene-Propylene copolymer (in liquid mixtures) | 31 |  | EPY
Ethylene-Vinyl acetate copolymer (emulsion) | 43 |  | ECV
Ethyl ether, see Diethyl ether | 41 |  |  | EET.
Ethyl-3-ethoxypropionate | 34 |  | EEP
2-Ethylhexaldehyde, see Octyl aldehydes | 19 |  | EHA | OAL (OLX).
2-Ethylhexanoic acid, see Octanoic acid | 4 |  | EHO | OAY (OAA).
2-Ethylhexanol, see Octanol | 20 |  | EHX | OCA (OTA).
2-Ethylhexyl acrylate | 14 |  | EAI
2-Ethylhexylamine | 7 |  | EHM
Ethyl hexyl phthalate | 34 |  | EHE
Ethyl hexyl tallate | 34 |  | EHT
2-Ethyl-2-(hydroxymethyl) propane-1,3-diol, (C8-C10) ester | 34 |  | EHD
Ethyl lactate | 34 |  | ELT
Ethylidene norbornene | 30 | 2 | ENB
Ethyl methacrylate | 14 |  | ETM
N-Ethylmethylallylamine | 7 |  | EML
Ethyl propionate | 34 |  | EPR
2-Ethyl-3-propylacrolein | 19 | 2 | EPA
Ethyl toluene | 32 |  | ETE
Fatty acids (saturated, C13+) | 34 |  | FAB | FAD.
Fatty acids (saturated, C14+), see Fatty acids (saturated, C13+) | 34 |  | FAD | FAB.
Fatty acid methyl esters * | 4 | 3 | FME
Fatty acids, (C8-C10) * | 4 | 3 | FDS
Fatty acids, (C12+) * | 4 | 3 | FDT | FAB/FAD/FAI/FDI.
Fatty acids, (C16+) * | 4 | 3 | FDI
Fatty acids, essentially linear (C6-C18) 2-ethylhexyl ester * | 4 | 2, 3 | FAE
Ferric chloride solution | 1 |  | FCS | FCL.
Ferric hydroxyethylethylenediaminetriacetic acid, trisodium salt solution | 43 | 2 | FHX | STA.
Ferric nitrate/Nitric acid solution | 3 | 2 | FNN
Fish oil, see Oil, edible: Fish | 34 | 2 |  | OFS (AFN).
Fish solubles (water based fish meal extracts) | 43 |  | FSO
Fluorosilicic acid (20-30%) in water solution * | 1 | 3 | FSK | FSJ/FSL/HFS.
Fluorosilicic acid (30% or less) | 1 |  | FSJ | FSK/FSL/HFS.
Formaldehyde (50% or more), Methanol mixtures | 19 | 2 | MTM
Formaldehyde solutions (37%-50%) | 19 | 2 | FMS | FMG/FMR.
Formaldehyde solutions (45% or less *) | 19 | 2, 3 | FMR | FMG/FMS.
Formamide | 10 |  | FAM
Formic acid | 4 | 2 | FMA | FMB.
Formic acid (85% or less) | 19 | 2 | FMB | FMA.
Formic acid (over 85%) * | 4 | 2, 3 | FMD
Formic acid mixture (containing up to 18% Propionic acid and up to 25% Sodium formate) * | 4 | 2, 3 | FMC | FMA/FMB.
Fructose solution | 43 |  | FTS | FRT.
Fumaric adduct of Rosin, water dispersion | 43 |  | FAR
Furfural | 19 |  | FFA
Furfuryl alcohol | 20 | 2 | FAL
Gas oil, cracked, see Oil, misc: Gas, cracked | 33 |  |  | GOC.
Gasoline blending stock, alkylates | 33 |  | GAK
Gasoline blending stock, reformates | 33 |  | GRF
Gasolines:
Automotive (containing not over 4.23 grams lead per gal.) | 33 |  | GAT
Aviation (containing not over 4.86 grams lead per gal.) | 33 |  | GAV | AVA.
Casinghead (natural) | 33 |  | GCS
Polymer | 33 |  | GPL
Straight run | 33 |  | GSR
Gasolines: Pyrolysis (containing Benzene), see Pyrolysis gasoline (containing Benzene) | 33 |  | GPY | PYG.
Glucitol/Glycerol blend propoxylated (containing less than 10% amines) * | 40 | 3 | GGA
Glucose solution | 43 |  | GLS | DTS.
Glutaraldehyde solutions (50% or less) | 19 |  | GTA
Glycerine | 20 | 2 | GCR
Glycerine (83%)/Dioxanedimethanol (17%) mixture | 20 |  | GDN | GDM.
Glycerol, see Glycerine | 20 |  |  | GCR.
Glycerol ethoxylated | 40 |  | GXA
Glycerol monooleate | 20 |  | GMO
Glycerol polyalkoxylate | 40 |  | GPA
Glycerol propoxylated * | 40 | 3 | GXP
Glycerol, propoxylated and ethoxylated * | 40 | 3 | GXE
Glycerol/Sucrose blend propoxylated and ethoxylated * | 40 | 3 | GSB
Glyceryl triacetate | 34 |  | GCT
Glycidyl ester of tertiary carboxylic acid, see Glycidyl ester of C10 trialkyl acetic acid | 34 |  | GLT | GLU.
Gylcidyl ester of tridecyl acetic acid, see Glycidyl ester of C10 trialkyl acetic acid | 34 |  | GLT | GLU.
Glycidyl ester of C10 trialkyl acetic acid | 34 |  | GLU | GLT.
Glycidyl ester of Versatic acid, see Gylcidyl ester of C10 trialkyl acetic acid | 34 |  | GLT | GLU.
Glycine, sodium salt solution | 7 |  | GSS
Glycol mixture, crude | 20 |  | GMC
Glycol diacetate, see Ethylene glycol diacetate | 34 |  |  | EGY.
Glycolic acid solution (70% or less *) | 4 | 3 | GLC
Glycol triacetate, see Glyceryl triacetate | 34 |  |  | GCT.
Glyoxal solution (40% or less *) | 19 | 3 | GOS
Glyoxylic acid solution (50% or less *) | 4 | 3 | GAC
Glyphosate solution (not containing surfactant) | 7 |  | GIO | RUP.
Groundnut oil, see Oil, edible: Groundnut | 34 |  |  | OGN (VEO).
Heptadecane (all isomers), see Alkanes (C10+) (all isomers) | 31 |  |  | ALV (ALJ).
Heptane (all isomers), see Alkanes (C6-C9) | 31 |  | HMX | ALK(HPI/HPT).
n-Heptanoic acid | 4 |  | HEN | HEP.
Heptanol (all isomers *) | 20 | 3 | HTX | HTN.
Heptene (all isomers *) | 30 | 3 | HPX | THE.
Heptyl acetate | 34 |  | HPE
Heptylbenzenes, see Alkyl (C3-C4) benzenes | 32 |  |  | AKD.
Herbicide (C15-H22-NO2-Cl), see Metolachlor | 34 |  |  | MCO.
Hexadecanol, see Alcohols (C13+) | 20 |  |  | ALY (ASY/AYL).
1-Hexadecylnaphthalene/1,4-bis(Hexadecyl)naphthalene mixture | 32 |  | HNH | HNI.
1-n-Hexadecylnaphthalene (90%)/1,4-di-n-(Hexadecyl)naphthalene (10%) | 32 |  | HNI | HNH.
Hexaethylene glycol, see Polyethylene glycol | 20 |  | HMG | PEG.
Hexamethylenediamine adipate solution | 43 |  | HAN | HAM.
Hexamethylenediamine adipate (50% in water) | 43 |  | HAM | HAN.
Hexamethylenediamine (molten *) | 7 | 3 | HME | HMD/HMC.
Hexamethylenediamine solution | 7 |  | HMC | HMD/HME.
Hexamethylene diisocyanate | 12 |  | HMS | HDI.
Hexamethylene glycol | 20 |  | HMG | HXG.
Hexamethyleneimine | 7 |  | HMI
Hexamethylenetetramine solutions | 7 |  | HTS | HMT.
1,6-Hexanediol, distillation overheads * | 4 | 2, 3 | HDO
Hexanoic acid | 4 |  | HXO
Hexanol | 20 |  | HXM | HEW/HEZ/HXN.
Hexene (all isomers *) | 30 | 3 | HEX | HXE/HXT/HXU/HXV/MPN/MTN.
Hexyl acetate | 34 |  | HAE
Hexylbenzenes, see Alkyl (C3-C4) benzenes | 32 |  |  | AKD.
Hexylene glycol, see Hexamethylene glycol | 20 |  | HXG | HMG.
Hog grease, see Lard | 34 |  |  | LRD.
Hydrochloric acid | 1 |  | HCL
Hydrofluorosilicic acid (25% or less), see Fluorosilicic acid (30% or less) | 1 |  |  | FSJ(FSK/FSL/HFS).
Hydrogenated starch hydrolysate * | 0 | 1, 3 | HSH
bis(Hydrogenated tallow alkyl)methyl amines | 7 |  | HTA
Hydrogen peroxide solutions (over 8% but not over 60% by mass) * | 0 | 1,3 | HPN | HPO/HPS.
Hydrogen peroxide solutions (over 60% but not over 70% by mass *) | 0 | 1, 3 | HPS | HPN/HPO.
alpha-Hydro-omega-hydroxytetradeca(oxytetramethylene) | 40 |  | HTO | PYS/PYT.
2-Hydroxyethyl acrylate | 14 | 2 | HAI
N-(Hydroxyethyl)ethylenediamine triacetic acid, trisodium salt solution | 43 |  | HET
2-Hydroxy-4-(methylthio)butanoic acid | 4 |  | HBA
Hydroxy terminated polybutadiene, see Polybutadiene, hydroxy terminated | 31 |  |  | PHT.
Illipe oil, see Oil, edible: Illipe | 34 |  |  | ILO (VEO).
Isoamyl alcohol * | 20 | 3 | IAA | AAI/AAL/AAN/APM/ASE.
Isobutyl alcohol * | 20 | 2, 3 | IAL | BAN/BAS/BAT/BAY.
Isobutyl formate * | 34 | 3 | BFI | BFN/BFO.
Isobutyl methacrylate * | 14 | 3 | BMI | BMH/BMN.
Isononylaldehyde (crude) | 19 |  | INC
Isophorone | 18 | 2 | IPH
Isophoronediamine | 7 |  | IPI
Isophorone diisocyanate | 12 |  | IPD
Isoprene (all isomers) | 30 |  | IPR
Isoprene (part refined) | 30 |  | IPS | IPR/ISC.
Isoprene concentrate (Shell) | 30 |  | ISC
Isopropanolamine * | 8 | 3 | MPA | IPF/PAX/PLA.
Isopropanolamine solution * | 8 | 3 | PAI | MPA/PAY/PLA/PRG.
Isopropyl acetate * | 34 | 3 | IAC | PAT.
Isopropyl alcohol * | 20 | 2, 3 | IPA | IPB/PAL.
Isopropylamine * | 7 | 3 | IPP | IPO/IPQ/PRA.
Isopropylamine (70% or less) solution * | 7 | 3 | IPQ | IPO/IPP/PRA.
Isopropylbenzenes, see Alkyl (C3-C4) benzenes | 32 |  |  | AKC(CUM/PBY/PBZ).
Isopropylcyclohexane * | 31 | 3 | IPX
Isopropyl ether * | 41 | 3 | IPE | PRL/PRN.
Jatropha oil, see Oil, misc: Jatropha | 34 |  |  | JTO.
Jet fuels:
JP-4 | 33 |  | JPF
JP-5 | 33 |  | JPV
JP-8 | 33 |  | JPE
Kaolin clay solution | 43 |  | KLC | KLS.
Kaolin slurry | 43 |  | KLS | KLC.
Kerosene | 33 |  | KRS
Kraft black liquor | 5 |  | KBL | KPL.
Kraft pulping liquors (free alkali content 3% or more) (Black, Green, or White) | 5 |  | KPL | KBL.
Lactic acid | 0 | 1 | LTA
Lactonitrile solution (80% or less *) | 37 | 3 | LNI
Lard | 34 |  | LRD | OLD.
Latex, ammonia (1% or less *)-inhibited | 30 | 3 | LTX
Latex: Carboxylated Styrene-Butadiene copolymer; Styrene-Butadiene rubber * | 43 | 3 | LCC | LCB/LSB.
Latex, liquid synthetic | 43 |  | LLS | LCB/LCC/LSB.
Lauric acid | 34 |  | LRA
Lauric acid methyl ester/Myristic acid methyl ester mixture | 34 |  | LMM
Lauryl polyglucose, see Alkyl(C12-C14) polyglucoside solution (55% or less) | 43 |  |  | AGM/LAP.
Lauryl polyglucose (50% or less), see Alkyl (C12-C14) polyglucoside solution (55% or less) | 43 |  | LAP | AMG.
Lecithin | 34 |  | LEC
Lignin liquor | 43 |  | LNL | ALG/CLL/LGA/LGM/LSL/SHC/SHP/SHQ/SLP.
Ligninsulfonic acid, magnesium salt solution * | 43 | 3 | LGM | LGA/LNL/LSL.
Ligninsulfonic acid, sodium salt solution, see Lignin liquor or Sodium lignosulfonate solution | 43 |  | LGA | LNL or SLG.
d-Limonene, see Dipentene | 30 |  |  | DPN.
Linear alkyl (C12-C16) propoxyamine ethoxylate | 8 |  | LPE
Linseed oil, see Oil, misc: Linseed | 34 |  |  | OLS.
Liquefied Natural Gas, see Methane | 34 |  | LNG | MTH.
Liquid chemical wastes * | 0 | 1, 3 | LCW
Long-chain alkaryl polyether (C11-C20) | 41 |  | LCP
Long-chain alkaryl sulfonic acid (C16-C60) | 0 | 1 | LCS
Long-chain alkyl amine | 7 |  | LAA
Long-chain alkylphenate/Phenol sulfide mixture | 21 |  | LPS
Long-chain alkyl (C13+) salicylic acid | 4 |  | LAS
L-Lysine solution (60% or less *) | 43 | 3 | LYS
Magnesium chloride solution | 0 | 1, 2 | MGL
Magnesium hydroxide slurry | 5 |  | MHS
Magnesium long-chain alkaryl sulfonate (C11-C50) | 34 |  | MAS | MSE.
Magnesium long-chain alkyl phenate sulfide (C8-C20) | 34 |  | MPS
Magnesium long-chain alkyl salicylate (C11+) | 34 |  | MLS
Magnesium nitrate solution (66.7%) | 43 |  | MGP | MGN/MGO.
Magnesium nonyl phenol sulfide, see Magnesium long-chain alkyl phenate sulfide (C8-C20) | 34 |  |  | MPS.
Magnesium sulfonate, see Magnesium long-chain alkaryl sulfonate (C11-C50) | 34 |  | MSE | MAS.
Maleic anhydride | 11 |  | MLA
Maltitol solution * | 0 | 1, 3 | MTI |
Mango kernel oil, see Oil, edible: Mango kernel | 34 |  |  | MKO (VEO).
2-Mercaptobenzothiazol (in liquid mixture) | 5 |  | BTM | SMD.
Mercaptobenzothiazol, sodium salt solution | 5 |  | SMB | MBT.
Mesityl oxide | 18 | 2 | MSO
Metam sodium solution | 7 |  | MSS | SMD.
Methacrylic acid | 4 |  | MAD
Methacrylic acid—Alkoxypoly(alkylene oxide) methacrylate copolymer, sodium salt aqueous solution (45% or less) * | 20 | 3 | MAQ
Methacrylic resin in ethylene dichloride | 14 |  | MRD
Methacrylonitrile | 15 | 2 | MET
Methane | 31 |  | MTH | LNG.
3-Methoxy-1-butanol | 20 |  | MTX
3-Methoxybutyl acetate | 34 |  | MOA
N-(2-Methoxy-1-methyl ethyl)-2-ethyl-6-methyl chloroacetanilide, see Metolachlor | 34 |  |  | MCO.
1-Methoxy-2-propyl acetate | 34 |  | MXP
Methoxy triglycol, see Poly (2-8) alkylene glycol monoalkyl (C1-C6) ether | 40 |  | MTG | PAG (TGY).
Methyl acetate | 34 |  | MTT
Methyl acetoacetate | 34 |  | MAE
Methyl acetylene/Propadiene mixture | 30 |  | MAP
Methyl acrylate | 14 |  | MAM
Methyl alcohol | 20 | 2 | MAL
Methylamine solutions (42% or less *) | 7 | 3 | MSZ
Methylamyl acetate | 34 |  | MAC
Methylamyl alcohol | 20 |  | MAA | MIC.
Methyl amyl ketone | 18 |  | MAK
N-Methylaniline * | 9 | 3 | MAN
alpha-Methylbenzyl alcohol with Acetophenone (15% or less) * | 20 | 3 | MBA
Methyl bromide | 36 |  | MTB
Methyl butanol, see the amyl alcohols | 20 |  |  | AAI/AAL/AAN/APM/ASE/IAA.
Methyl butenol | 20 |  | MBL
Methyl butenes, see Pentene | 30 |  |  | PTX (AMW/AMZ/PTE).
Methyl tert-butyl ether | 41 | 2 | MBE
Methyl butyl ketone | 18 | 2 | MBB | MBK/MIK.
Methyl 3-(3,5 di-tert-butyl-4-hydroxyphenyl) propionate crude melt | 20 |  | MYP
Methylbutynol | 20 |  | MBY | MHB.
Methyl butyrate | 34 |  | MBU
Methyl chloride | 36 |  | MTC
Methylcyclohexane | 31 |  | MCY
Methylcyclohexanemethanol (crude) | 20 |  | MYH
Methylcyclopentadiene dimer | 30 |  | MCK
Methylcyclopentadienyl manganese tricarbonyl * | 0 | 1, 3 | MCT | MCW.
Methylcyclopentadienyl manganese tricarbonyl (60-70%) in mineral oil | 0 | 1 | MCW | MCT.
Methyl diethanolamine | 8 |  | MDE | MAB.
Methylene bridged isobtylenated phenols | 21 |  | MBP
Methylene chloride, see Dichloromethane | 21 |  |  | DCM.
2-Methyl-6-ethyl aniline | 9 |  | MEN
Methyl ethyl ketone | 18 | 2 | MEK
2-Methyl-5-ethyl pyridine | 9 |  | MEP
Methyl formate | 34 |  | MFM
N-Methylglucamine solution (70% or less *) | 43 | 3 | MGC
2-Methylglutaronitrile | 37 |  | MLN | MGN.
2-Methylglutaronitrile with 2-Ethylsuccinonitrile (12% or less) * | 37 | 3 | MGE | MLN.
Methyl heptyl ketone | 18 |  | MHK
2-Methyl-2-hydroxy-3-butyne | 20 |  | MHB | MBY.
Methyl isoamyl ketone, see Methyl amyl ketone | 18 |  | MAJ | MAK.
Methyl isobutyl carbinol, see Methyl amyl alcohol | 20 |  | MIC | MAA.
Methyl isobutyl ketone | 18 |  | MIK | MBB/MBK.
Methyl methacrylate | 14 |  | MMM
3-Methyl-3-methoxybutanol | 20 |  | MXB
3-Methyl-3-methoxybutyl acetate | 34 |  | MMB
Methyl naphthalene (molten *) | 32 | 3 | MNA
Methylolurea | 19 |  | MUT
2-Methyl pentane, see Hexane (all isomers) | 31 |  |  | HXS (ALK/HXA/IHA/NHX).
2-Methyl-1,5-pentanediamine | 7 |  | MPM
2-Methyl-1-pentene, see Hexene (all isomers) | 30 |  | MPN | HEX (HXE/HXT/HXU/HXV/MTN).
4-Methyl-1-pentene, see Hexene (all isomers) | 30 |  | MTN | HEX (HXE/HXT/HXU/HXV/MPN).
Methyl tert-pentyl ether, see tert-Amyl methyl ether | 41 |  |  | AYE.
2-Methyl-1,3-propanediol | 20 |  | MDL
Methyl propyl ketone | 18 |  | MKE
Methylpyridine, see the Methylpyridines | 9 |  | MPQ | MPE/MPF/MPR.
2-Methylpyridine * | 9 | 3 | MPR | MPE/MPF/MPQ.
3-Methylpyridine * | 9 | 3 | MPE | MPF/MPQ/MPR.
4-Methylpyridine * | 9 | 3 | MPF | MPE/MPQ/MPR.
N-Methyl-2-pyrrolidone | 9 | 2 | MPY
Methyl salicylate | 34 |  | MES
alpha-Methylstyrene | 30 |  | MSR
3-(Methylthio)propionaldehyde | 19 |  | MTP
Metolachlor | 34 |  | MCO
Microsillica slurry | 4 |  | MOS
Milk | 43 |  | MLK
Mineral spirits | 33 |  | MNS
Mixed C4 Cargoes | 30 |  | MIX
Molasses | 20 |  | MOL | MON.
Molasses residue (from fermentation) | 0 | 1 | MON | MOL.
Molybdenum polysulfide long-chain alkyl dithiocarbamide complex * | 0 | 1, 3 | MOP
Monochlorodifluoromethane | 36 |  | MCF
Monoethanolamine, see Ethanolamine | 8 |  | MEA
Monoisopropanolamine, see Isopropanolamine | 8 |  |  | MPA (PLA/PLX).
Monoethylamine, see Methylamine | 7 |  |  | EAM (EAN/EAO).
Morpholine | 7 | 2 | MPL
Motor fuel anti-knock compound (containing lead alkyls) | 0 | 1 | MFA
MTBE, see Methyl tert-butyl ether | 41 |  |  | MBE.
Myrcene | 30 |  | MRE
Naphtha:
Aromatic | 33 |  | NAR
Coal tar solvent | 33 |  | NCT
Heavy | 33 |  | NAG
Paraffinic | 33 |  | NPF
Petroleum | 33 |  | PTN
Solvent | 33 |  | NSV
Stoddard solvent | 33 |  | NSS
Varnish Makers' and Painters' | 33 |  | NVM
Naphthalene (molten *) | 32 | 3 | NTM
Naphthalene sulfonic acid-Formaldehyde copolymer, sodium salt solution | 0 | 1 | NFS
Naphthalene sulfonic acid, sodium salt solution | 34 |  | NSB | NSA.
Naphthenic acid | 4 |  | NTI
Naphthenic acid, sodium salt solution | 43 |  | NTS
Neodecanoic acid | 4 |  | NEA | DCO/NAT.
Nitrating acid (mixture of Sulfuric and Nitric acids) | 0 | 1 | NIA
Nitric acid (70% and over) * | 3 | 2, 3 | NCE | NAC/NCD.
Nitric acid (less than 70%) | 3 | 2 | NCD | NAC/NCE.
Nitrilotriacetic acid, trisodium salt solution * | 34 | 3 | NCA
Nitrobenzene | 42 |  | NTB
o-Nitrochlorobenzene, see o-Chloronitrobenzene | 42 |  |  | CNO (CNP).
Nitroethane | 42 |  | NTE
Nitroethane(80%)/Nitropropane (20%) * | 42 | 2, 3 | NNL | NNM/NNO/NPM/NPN/NPP/NTE.
Nitroethane/1-Nitropropane (each 15% or more) mixture | 42 | 2 | NNO | NNL/NNM/NPM/NPN/NPP/NTE.
Nitrogen | 0 | 1 | NXX
Nitrophenol (mixed isomers) | 42 |  | NPX | NIP/NPH/NPX.
o-Nitrophenol (molten) | 0 | 1, 2 | NTP | NIP/NPH/NPX.
1-or 2-Nitropropane | 42 |  | NPM | NPN/NPP.
Nitropropane (60%)/Nitroethane (40%) mixture | 42 |  | NNM | NNL/NNO/NPM/NPN/NPP/NTE.
o- or p-Nitrotoluenes * | 42 | 3 | NIT | NIE/NTR/NTT.
Nonane (all isomers), see Alkanes (C6-C9) | 31 |  | NAX | ALK (NAN).
Nonanoic acid (all isomers) | 4 |  | NNA | NAI/NIN.
Nonanoic/Tridecanoic acid mixture | 4 |  | NAT | NAI/NIN/NNA.
Non-edible industrial grade palm oil, see Oil, misc: Palm, non-edible industrial grade | 34 |  |  | OPB.
Nonene (all isomers) | 30 |  | NOO | NNE/NON/OAM/OFX/OFY.
Nonyl acetate | 34 |  | NAE
Non-noxious Liquid Substance, (12) n.o.s. Cat OS | 0 | 1 | NOL
Nonyl alcohol (all isomers) | 20 | 2 | NNS | ALR/DBC/NNI/NNN.
Nonylbenzene, see Alkyl(C9+)benzenes | 32 |  |  | AKB.
Nonyl methacrylate monomer | 14 |  | NMA
Nonyl phenol | 21 |  | NNP
Nonylphenol (48-62%)/Phenol (42-48%)/Dinonylphenol (1-10%) mixture | 21 |  | NYL
Nonyl phenol poly(4+)ethoxylate, see Alkyl (C7-C11) phenol poly (4-12) ethoxylate | 40 |  | NPE | APN.
Nonyl phenol sulfide (90% or less) solution, see Alkyl phenol sulfide (C8-C40) | 34 |  |  | AKS (NPS).
Noxious Liquid Substance, n.o.s. (NLS') | 0 | 1 |
1-Octadecanol, see Stearyl alcohol | 20 |  |  | SYL (ALY/ASY).
1-Octadecene, see the olefin or alpha-olefin entries | 30 |  |  | OAM/OFZ.
Octadecenoamide solution | 10 |  | ODD
Octadecenol, see Alcohols (C13+) | 20 |  |  | ALY (AYL/ASY/OYL).
Octamethylcyclotetrasiloxane * | 34 | 3 | OSA
Octane (all isomers), see Alkanes (C6-C9) | 31 |  | OAX | ALK (IOO/OAN).
Octanoic acid (all isomers) | 4 |  | OAY | EHO/OAA.
Octanol (all isomers) | 20 | 2 | OCX | EHX/OPA/OTA.
Octene (all isomers) | 30 | 2 | OTX | OAM/OFC/OFY/OFW/OTE.
n-Octyl acetate | 34 |  | OAF | OAE.
Octyl alcohol, see Octanol (all isomers) | 20 | 2 |  | OCX (EHX/IOA/OTA).
Octyl aldehydes | 19 |  | OAL | EHA/IOC//OLX.
Octylbenzenes, see Alkyl (C3-C4) benzenes | 32 |  |  | AKD.
Octyl decyl adipate | 34 |  | ODA
n-Octyl Mercaptan | 34 |  | OME
Octyl nitrates (all isomers), see Alkyl(C7-C9) nitrates | 34 | 2 | ONE | AKN.
Octyl phenol | 21 |  | OPH
Octyl phthalate, see Dialkyl (C7-C13) phthalates | 34 |  |  | DAH (DIE/DIO/DLK/DOP).
Oil, edible:
Beechnut | 34 |  | OBN | VEO.
Castor | 34 |  | OCA | VEO.
Cocoa butter | 34 |  | OCB | VEO.
Coconut | 34 | 2 | OCC | VEO.
Cod liver | 34 |  | OCL | AFN.
Corn | 34 |  | OCO | VEO.
Cotton seed | 34 |  | OCS | VEO.
Fish | 34 | 2 | OFS | AFN.
Groundnut | 34 |  | OGN | VEO.
Hazelnut | 34 |  | OHN | VEO.
Illipe | 34 |  | ILO | VEO.
Lard | 34 |  | OLD | AFN.
Maize, see Oil, edible: Corn | 34 |  |  | OCO (VEO).
Mango kernel * | 34 | 3 | MKO |
Nutmeg butter | 34 |  | ONB | VEO.
Olive | 34 |  | OOL | VEO.
Palm | 34 | 2 | OPM | VEO.
Palm kernel | 34 |  | OPO | VEO.
Palm kernel olein | 34 |  | PKO | VEO.
Palm kernel stearin | 34 |  | PKS | VEO.
Palm mid fraction | 34 |  | PFM | VEO.
Palm olein | 34 |  | PON | VEO.
Palm stearin | 34 |  | PMS | VEO.
Peanut | 34 |  | OPN | VEO.
Poppy | 34 |  | OPY | VEO.
Poppy seed | 34 |  | OPS | VEO.
Raisin seed | 34 |  | ORA | VEO.
Rapeseed (low erucic acid containing less than 4% free fatty acids) | 34 |  | ORO | ORP/VEO.
Rice bran | 34 |  | ORB | VEO.
Safflower | 34 |  | OSF | VEO.
Salad | 34 |  | OSL | VEO.
Sesame | 34 |  | OSS | VEO.
Shea butter | 34 |  | OSH | VEO.
Soya bean | 34 |  | OSB | VEO.
Sunflower, see Oil, edible Sunflower seed | 34 |  |  | OSN (VEO).
Sunflower seed | 34 |  | OSN | VEO.
Tucum | 34 |  | OTC | VEO.
Vegetable | 34 |  | OVG | VEO.
Walnut | 34 |  | OWN | VEO.
Oil, fuel:
No. 1 | 33 |  | OON
No. 1-D | 33 |  | OOD
No. 2 | 33 |  | OTW
No. 2-D | 33 |  | OTD
No. 4 | 33 |  | OFR
No. 5 | 33 |  | OFV
No. 6 | 33 |  | OSX
Oil, misc:
Acid mixture from soybean, corn (maize) and sunflower oil refining | 34 |  | AOM
Aliphatic | 33 |  | OML
Animal | 34 |  | OMA | AFN.
Aromatic | 33 |  | OMR
Camelina | 34 |  | OCI
Cashew nut shell (untreated) | 4 |  | OCN
Clarified | 33 |  | OCF
Coal | 33 |  | OMC
Coconut fatty acid | 34 | 2 | CFA
Coconut oil, fatty acid methyl ester | 34 |  | OCM
Cotton seed oil, fatty acid | 34 |  | CFY
Crude | 33 |  | OFA
Diesel | 33 |  | ODS
Disulfide | 0 | 1 | ODI
Gas, cracked | 33 |  | GOC
Gas, high pour | 33 |  | OGP
Gas, low pour | 33 |  | OGL
Gas, low sulfur | 33 |  | OGS
Heartcut distillate | 33 |  | OHD
Jatropha | 34 |  | JTO
Lanolin | 34 |  | OLL | AFN.
Linseed | 33 |  | OLS
Lubricating | 33 |  | OLB
Mineral | 33 |  | OMN
Mineral seal | 33 |  | OMS
Motor | 33 |  | OMT
Neatsfoot | 33 |  | ONF | AFN.
Oiticica | 34 |  | OOI
Palm acid | 34 |  | PLM
Palm fatty acid distillate | 34 |  | PFD
Palm oil fatty acid methyl ester | 34 |  | OPE
Palm kernel acid | 34 |  | OPK
Palm kernel fatty acid distillate | 34 |  | PNG
Palm, non-edible industrial grade | 34 |  | OPB
Penetrating | 33 |  | OPT
Perilla | 34 |  | OPR
Pilchard | 34 |  | OPL | AFN.
Pine | 33 |  | OPI | PNL.
Rape seed fatty acid methyl esters * | 34 | 3 | ORP
Residual | 33 |  | ORL
Resin, distilled | 34 |  | ORR
Road | 33 |  | ORD
Rosin | 33 |  | ORN
Seal | 34 |  | OSE
Soapstock | 34 |  | OIS
Soyabean (epoxidized) | 34 |  | OSC
Soyabean fatty acid methyl ester | 34 |  |  | OST.
Spindle | 33 |  | OSD
Tall | 34 |  | OTL | OTI/OTJ.
Tall, crude | 34 | 2 | OTI | OTJ/OTL.
Tall, distilled | 34 | 2 | OTJ | OTI/OTL.
Tall, fatty acid | 34 | 2 | OTT
Tall fatty acid (resin acids less than 20%) | 34 | 2 | OTK | OTT.
Tall pitch | 34 |  | OTP
Transformer | 33 |  | OTF
Tung | 34 |  | OTG
Turbine | 33 |  | OTB
Vacuum gas oil | 32 |  | OVC
Oleamide solution, see Octadecenoamide solution | 10 |  |  | ODD.
Olefin-Alkyl ester copolymer (molecular weight 2000+) | 34 |  | OCP
Olefin mixture (C7-C9) C8 rich, stabilized * | 30 | 3 | OFC | OFW/OFY/OFX.
Olefin mixtures (C5-C7) * | 30 | 3 | OFX | OAM/OFC/OFW/OFX/OFZ.
Olefin mixtures (C5-C15) * | 30 | 3 | OFY | OAM/OFC/OFW/OFX/OFZ.
Olefins (C13+, all isomers) | 30 |  | OFZ | OAM/OFW.
alpha-Olefins (C6-C18) mixtures | 30 |  | OAM | OFC/OFW/OFX/OFY/OFZ.
Oleic acid | 34 |  | OLA
Oleum | 0 | 1, 2 | OLM | SAC/SFX.
Oleyl alcohol, see Alcohols (C13+) | 20 |  | OYL | ALY (ASY).
Oleylamine | 7 |  | OLY
Olive oil, see Oil, edible: Olive | 34 |  |  | OOL (VEO).
Orange juice (concentrated) * | 0 | 1, 3 | OJC | OJN.
Orange juice (not concentrated) * | 0 | 1, 3 | OJN | OJC.
Organomolybdenum amide | 10 |  | OGA
ORIMULSION, see Asphalt emulsion | 33 |  |  | ASQ.
Oxyalkylated alkyl phenol formaldehyde | 33 |  | OPF
Oxygenated aliphatic hydrocarbon mixture * | 0 | 1, 3 | OAH
Palm acid oil, see Oil, misc: Palm acid * | 34 | 3 |  | PLM.
Palm fatty acid distillate, see Oil, misc: Palm fatty acid distillate * | 34 | 3 |  | PFD.
Palm kernel acid oil, see Oil, misc: Palm kernel acid | 34 |  |  | PNO.
Palm kernel acid oil, methyl ester, see Oil, misc: Palm kernel acid, methyl ester | 34 |  |  | PNF.
Palm kernel oil fatty acid distillate, see Oil, misc: Palm kernel fatty acid distillate | 34 |  |  | PNG.
Palm kernel oil, see Oil, edible: Palm kernel | 34 |  |  | OPO (VEO).
Palm kernel olein, see Oil, edible: Palm kernel olein * | 34 | 3 |  | PKO (VEO).
Palm kernel stearin, see Oil, edible: Palm kernel stearin * | 34 | 3 |  | PKS (VEO).
Palm mid fraction, see Oil, edible: Palm mid fraction * | 34 | 3 |  | PFM (VEO).
Palm oil, see Oil, edible: Palm * | 34 | 3 |  | OPM (VEO).
Palm oil fatty acid methyl ester, see Oil, misc: Palm fatty acid methyl ester * | 34 | 3 |  | OPE.
Palm olein, see Oil, edible: Palm Olein * | 34 | 3 |  | PON (VEO).
Palm stearin, see Oil, edible: Palm stearin | 34 |  |  | PMS (VEO).
Parachlorobenzotrifluoride | 32 |  | PBF |
n-Paraffins (C10-C20), see n-Alkanes (C10+) | 31 |  | PFN | ALJ.
Paraffin wax, see Waxes: Paraffin * | 31 | 3 |  | WPF.
Paraldehyde | 19 |  | PDH
Paraldehyde-Ammonia reaction product | 9 |  | PRB
Pentachloroethane | 36 |  | PCE
Pentadecanol, see Alcohols (C13+) | 20 |  | PDC | ALY.
1,3-Pentadiene | 30 |  | PDE | PDN.
1,3-Pentadiene (greater than 50%), Cyclopentene and isomers, mixtures * | 30 | 3 | PMM
Pentaethylene glycol, see Polyethylene glycols | 20 |  |  | PEG.
Pentaethylene glycol methyl ether, see Poly(2-8)alkylene glycol monoalkyl (C1-C6) ether | 40 |  |  | PAG.
Pentaethylenehexamine | 7 |  | PEN |
Pentaethylenehexamine/Tetraethylenepentamine mixture | 7 |  | PEP
Pentane (all isomers) | 31 |  | PTY | IPT/PTA.
Pentanoic acid | 4 |  | POC.
n-Pentanoic acid (64%)/2-Methyl butryic acid (36%) mixture | 4 |  | POJ | POC.
Pentasodium salt of Diethylenetriamine pentaacetic acid solution, see Diethylenetriamine pentaacetic acid, pentasodium salt solution | 43 |  |  | DYS.
Pentene (all isomers) | 30 |  | PTX | PTE.
n-Pentyl propionate | 34 |  | PPE
Perchloroethylene | 36 | 2 | PER | TTE.
Petrolatum | 33 |  | PTL
Phenol | 21 | 2 | PHN | PNS.
Phenol solutions (2% or less) | 43 |  | PNS | PHN.
1-Phenyl-1-xylyl ethane | 32 |  | PXE
Phosphate esters | 34 |  | PZE
Phosphate esters, alkyl (C12-C14) amine | 7 |  | PEA
Phosphoric acid | 1 |  | PAC
Phosphorus, yellow or white | 0 | 1 | PPW | PPB/PPR.
Phosphosulfurized bicycle terpene | 0 | 1 | PBT
Phthalate based polyester polyol | 0 | 1, 2 | PBE
Phthalic anhydride (molten) | 11 |  | PAN
alpha-Pinene | 30 |  | PIO | PIB/PIN.
beta-Pinene | 30 |  | PIP | PIN/PIO.
Pine oil, see Oil, misc: Pine | 33 |  | PNL | OPI.
Piperazine (crude) | 34 |  | PZC | PPZ/PIZ.
Piperazine (70% or less) | 30 |  | PIZ | PPB/PPZ.
Piperylene concentrate | 30 |  | PIC | PDE/PDN.
Polyacrylic acid solution (40% or less) | 43 |  | PYA
Polyalkenyl succinic anhydride amine | 7 |  | PSN
Polyalkyl acrylate | 14 |  | PAY
Polyalky (C18-C22) acrylate in Xylene | 14 |  | PIX
Polyalkyl alkenamine succinimide, molybdenum oxysulfide | 7 |  | PSO
Polyalkylene glycols/Polyalkylene glycol monoalkyl ether mixtures | 40 |  | PPX
Polyalkylene glycol butyl ether, see Poly(2-8)alkylene glycol monoalkyl(C1-C6) ether | 40 |  | PGB | PAG.
Poly(2-8)alkylene glycol monoalkyl(C1-C6) ether | 40 |  | PAG
Including:
Diethylene glycol butyl ether
Diethylene glycol ethyl ether
Diethylene glycol n-hexyl ether
Diethylene glycol methyl ether
Diethylene glycol propyl ether
Dipropylene glycol butyl ether
Dipropylene glycol methyl ether
Polyalkylene glycol butyl ether
Polyethylene glycol monoalkyl ether
Polypropylene glycol methyl ether
Triethylene glycol butyl ether
Triethylene glycol ethyl ether
Triethylene glycol methyl ether
Tripropylene glycol methyl ether
Poly(2-8)alkylene glycol monoalkyl(C1-C6) ether acetate | 34 |  | PAF
Including:
Diethylene glycol butyl ether acetate
Diethylene glycol ethyl ether acetate
Diethylene glycol methyl ether acetate
Polyalkylene glycols/Polyalkylene glycol monoalkyl ethers mixtures | 40 |  | PPX
Polyalkylene oxide polyol | 20 |  | PAO
Polyalkyl (C10-C20) methacrylate | 14 |  | PMT | PYY.
Polyalkyl methacrylate in mineral oil | 14 |  | PYY | PMT.
Polyalkyl(C10-C18) methacrylate/Ethylene-Propylene copolymer mixture | 14 |  | PEM
Polyalpha olefins | 31 |  | PYO
Polyaluminum chloride solution | 1 |  | PLS
Polybutadiene, hydroxyl terminated | 20 |  | PHT
Polybutene | 33 |  | PLB
Polybutenyl succinimide | 10 |  | PBS
Polycarboxylic ester (C9+), see Ditridecyl adipate | 34 |  |  | DTY.
Poly(2+)cyclic aromatics | 32 |  | PCA
Polydimethylsiloxane, see Dimethylpolysiloxane | 34 |  |  | DMP.
Polyether, borated | 41 |  | PED
Polyether (molecular weight 1350+) | 41 |  | PYR
Polyether polyols | 41 |  | PEO
Polyethylene glycol | 40 |  | PEG
Polyethylene glycol dimethyl ether | 40 |  | PEF
Poly (ethylene glycol) methylbutenyl ether (MW > 1000) | 40 |  | PBN
Polyethylene glycol monoalkyl ether, see Poly(2-8)alkylene glycol monoalkyl(C1-C6) ether | 40 |  | PEE | PAG.
Polyethylene polyamines | 7 | 2 | PEB | PEY.
Polyethylene polyamines (more than 50% C5-C20 Paraffin oil) * | 7 | 2,3 | PEY | PEB.
Polyferric sulfate solution | 34 |  | PSS
Polyglycerine/Sodium salts solution (containing less than 3% Sodium hydroxide) | 20 | 2 | PGT | PGS.
Polyglycerol | 20 |  | PGL
Poly(iminoethylene)-graft-N-poly(ethyleneoxy) solution (90% or less) * | 7 | 3 | PIG | PIM.
Polyisobutenamine in aliphatic (C10-C14) solvent | 7 |  | PIB | PIA.
Polyisobutenyl anhydride adduct | 11 |  | PBA
Polyisobutenyl succinimide | 10 |  | PIS
Poly(4+)isobutylene | 30 |  | PIL
Polyisobutylene succinic anhydride | 11 |  | PYS
Polymerized esters | 34 |  | PYM
Polymethylene polyphenyl isocyanate | 12 |  | PPI
Polyolefin (molecular weight 300+) | 31 |  | PMW | PLF.
Polyolefin amide alkeneamine (C17+) | 33 |  | POH | POD.
Polyolefin amide alkeneamine (C28+), see Polyolefin amide alkenamine (C17+) | 33 |  | POD | POH.
Polyolefin amide alkeneamine borate (C28-C250) | 34 |  | PAB
Polyolefin amide alkeneamine in mineral oil | 33 |  | PLK
Polyolefin amide alkeneamine/Molybdenum oxysulfide mixture | 7 |  | PMO
Polyolefin amide alkeneamine polyol | 20 |  | PAP
Polyolefinamine (C28-C250) | 33 |  | POM
Polyolefinamine in alkyl(C2-C4) benzenes | 32 |  | POF | POR.
Polyolefinamine in aromatic solvent * | 32 | 3 | POR | POF.
Polyolefin aminoester salts (molecular weight 2000+) | 34 |  | PAE
Polyolefin anhydride | 11 |  | PAR
Polyolefin ester (C28-C250) | 34 |  | POS
Polyolefin in mineral oil | 30 |  | PLF | PMW.
Polyolefin phenolic amine (C28-C250) | 9 |  | PPH
Polyolefin phosphorosulfide, barium derivative (C28-C250) | 34 |  | PPS
Poly (oxyalkylene) alkenyl ether (MW>1000) | 41 |  | PXY
Polyoxybutylene alcohol | 41 |  | PXA
Poly(20)oxyethylene sorbitan monooleate | 34 |  | PSM
Polyoxypropylenediamine (MW 2000) | 7 |  | PYD
Poly(5+)propylene | 30 |  | PLQ | PLP.
Polypropylene glycol | 40 |  | PGC
Polypropylene glycol methyl ether, see Poly(2-8)alkylene glycol monoalkyl (C1-C6) ether | 40 |  | PGM | PAG.
Polysiloxane | 34 |  | PSX
Polysiloxane/White spirit, low (15-20%) aromatic | 34 |  | PWS
Potassium chloride solution | 43 |  | PCU | PCD/PSD.
Potassium chloride solution (10% or more) | 43 |  | PCS | PCD/PCU.
Potassium chloride solution (less than 26%) | 43 |  | PSD | CLM/DRL/PCS/PCU.
Potassium formate solutions | 34 |  | PFR
Potassium hydroxide solution, see Caustic potash solution | 5 | 2 |  | CPS/PTH.
Potassium oleate | 34 |  | POE
Potassium polysulfide/Potassium thiosulfide solution (41% or less) | 0 | 1 | PYP | PSF/PTF.
Potassium salt of polyolefin acid | 34 |  | PSP
Potassium thiosulfate (50% or less) | 43 |  | PTF
Propane | 31 |  | PRP | LPG.
iso-Propanolamine, see Isopropanolamine | 8 |  |  | MPA (PAX/PLA).
n-Propanolamine | 8 |  | PLA | MPA/PAX.
2-Propene-1-aminium, N,N-dimethyl-N-2-propenyl-, chloride, homopolymer solution * | 0 | 1, 3 | PLN
beta-Propiolactone * | 18 | 3 | PLT
Propionaldehyde | 19 |  | PAD
Propionic acid | 4 |  | PNA
Propionic anhydride | 11 |  | PAH
Propionitrile | 37 |  | PCN
n-Propoxypropanol, see Propylene glycol monoalkyl ether | 40 |  | PXP | PGE.
n-Propyl acetate | 34 |  | PAT | IAC.
n-Propyl alcohol | 20 | 2 | PAL | IPA.
n-Propylamine | 7 |  | PRA | IPO/IPP/IPQ.
iso-Propylamine solution, see Isopropylamine (70% or less) solution | 7 |  |  | IPQ (IPO/IPP/PRA).
Propylbenzenes, see Alkyl (C3-C4) benzens | 32 |  | PBY | AKC (CUM/PBZ).
iso-Propyl cyclohexane, see Isopropylcyclohexane | 34 |  |  | IPX.
Propylene | 30 |  | PPL
Propylene-Butylene copolymer | 30 |  | PBP
Propylene carbonate | 34 |  | PLC
Propylene dimer | 30 |  | PDR
Propylene glycol | 20 | 2 | PPG
Propylene glycol n-butyl ether, see Propylene glycol monoalkyl ether | 40 |  | PGD | PGE.
Propylene glycol ethyl ether, see Propylene glycol monoalkyl ether | 40 |  | PGY | PGE.
Propylene glycol methyl ether, see Propylene glycol monoalkyl ether | 40 |  | PME | PGE.
Propylene glycol methyl ether acetate | 34 |  | PGN
Propylene glycol monoalkyl ether | 40 |  | PGE
Including:
n-Propoxypropanol
Propylene glycol n-butyl ether
Propylene glycol ethyl ether
Propylene glycol methyl ether
Propylene glycol propyl ether
Propylene glycol phenyl ether | 40 |  | PGP
Propylene glycol propyl ether, see Propylene glycol monoalkyl ether |  |  |  | PGE.
Propylene oxide | 16 |  | POX
Propylene tetramer | 30 |  | PTT
Propylene trimer | 30 |  | PTR
Pseudocumene, see Trimethylbenzene (all isomers) | 32 |  |  | TMB/TMD/TME/TRE.
Pyridine | 9 |  | PRD
Pyridine bases, see Paraldehyde-Ammonia reaction product | 9 |  |  | PRB.
Pyrolysis gasoline (containing Benzene) * | 32 | 3 | PYG | GPY.
Rapeseed oil, see Oil, edible: Rapeseed | 34 |  |  | ORO (VEO).
Rapeseed oil (low erucic acid containing less than 4% free fatty acids), see Oil, edible: Rapeseed, (low erucic acid containing less than 4% free fatty acids) * | 34 | 3 |  | ORO (VEO).
Rapeseed oil fatty acid methyl esters, see Oil, misc: Rapeseed fatty acid methyl esters * | 34 | 3 |  | RSO.
Refrigerant gases | 0 | 1 | RFG
Resin oil, distilled, see Oil, misc: Resin, distilled * | 33 | 3 |  | ORR (ORS).
Rice bran oil, see Oil, misc: Rice bran | 34 |  |  | ORB.
Rosin, see Oil, misc: Rosin | 33 |  |  | ORN.
ROUNDUP | 7 |  | RUP | GIO.
Rum, see Alcoholic beverages | 20 |  |  | ABV.
Safflower oil, see Oil, edible: Safflower | 34 |  |  | OSF (VEO)
Sewage sludge | 43 |  | SWS
Shea butter, see Oil, edible: Shea butter * | 34 | 3 |  | OSH (VEO).
Silica slurry | 43 |  | SLC
Siloxanes | 34 |  | SLX
Sludge, treated | 43 |  | SWA
Sodium acetate, Glycol, Water mixture (not containing Sodium hydroxide) | 34 | 2 | SAW | SAO/SAP/SAQ/SAY.
Sodium acetate, Glycol, Water mixture (containing Sodium hydroxide) | 5 |  | SAQ | SAO/SAP/SAW/SAY.
Sodium acetate, Glycol, Water mixture (1% or less Sodium hydroxide) (if non-flammable or non-combustible) | 5 | 2 | SAY | SAO/SAP/SAQ/SAY.
Sodium acetate solutions | 34 |  | SAN
Sodium alkyl (C14-C17) sulfonates (60-65% solution) | 34 |  | SSA | AKA/AKE/SSU.
Sodium aluminate solution | 5 |  | SAV | SAU.
Sodium aluminate solution (45% or less) | 5 |  | SAU | SAV.
Sodium aluminosilicate slurry | 34 |  | SLR
Sodium benzoate solution | 34 |  | SBN | SBM.
Sodium bicarbonate solution (less than 10%) | 34 |  | SBC
Sodium borohydride (15% or less)/Sodium hydroxide solution | 5 |  | SBX | CSS/SBH/SBI/SHD.
Sodium bromide solution (less than 50%) * | 43 | 3 | SBL | SBR.
Sodium carbonate solution | 5 |  | SCE
Sodium chlorate solution (50% or less) | 0 | 1, 2 | SDD | SDC.
Sodium cyanide solution | 5 |  | SCO | SCN/SCS.
Sodium dichromate solution (70% or less) | 0 | 1, 2 | SDL | SCR.
Sodium hydrogen sulfide (6% or less)/Sodium carbonate (3% or less) solution | 0 | 1, 2 | SSS | SCE/SHW.
Sodium hydrogen sulfite solution (45% or less) | 43 |  | SHY | SHX.
Sodium hydrosulfide/Ammonium sulfide solution | 5 | 2 | SSA | ASF/ASS.
Sodium hydrosulfide solution (45% or less) | 5 | 2 | SHR
Sodium hydroxide solution, see Caustic soda solution | 5 | 2 |  | CSS (SHD).
Sodium hypochlorite solution (15% or less) | 5 |  | SHP | SHC/SHQ.
Sodium hypochlorite solution (20% or less) | 5 |  | SHQ | SHC/SHP.
Sodium lignosulfonate solution | 43 |  | SLG | LNL.
Sodium long-chain alkyl salicylate (C13+) | 34 |  | SLS
Sodium-2-mercaptobenzothiazol solution, see Mercaptobenzothiazol, sodium salt solution | 5 |  |  | SMB.
Sodium methoxide (25% in methanol) | 5 |  | SMO
Sodium methylate 21-30% in methanol * | 20 | 3 | SMT | SMS.
Sodium naphthalene sulfonate solution, see Naphthalene sulfonic acid (40% or less), sodium salt solution (40% or less) | 34 |  | SNS | NSA (NSB).
Sodium naphthenate solution, see Naphthenic acid, sodium salt solution | 34 |  |  | NTS.
Sodium nitrite solution | 5 |  | SNI | SNT.
Sodium petroleum sulfonate | 34 |  | SPS
Sodium polyacrylate solution | 43 |  | SOO | SOP.
Sodium poly(4+)acrylate solution | 43 | 2 | SOP | SOO.
Sodium salt of Ferric hydroxyethylethylenediaminetriacetic acid solution, see Ferric hydroxyethylethylenediaminetriacetic acid, trisodium salt solution | 34 |  | STA | FHX.
Sodium silicate solution | 43 | 2 | SSN | SSC.
Sodium sulfate solution * | 34 | 3 | SST | SSO.
Sodium sulfide/Hydrosulfide solution (H2S 15 ppm or less) | 0 | 1, 2 | SSH | SDS/SHR/SSI/SSJ.
Sodium sulfide/Hydrosulfide solution (H2S greater than 15 ppm but less than 200 ppm) | 0 | 1, 2 | SSI | SDS/SHR/SSH/SSJ.
Sodium sulfide/Hydrosulfide solution (H2S greater than 200 ppm) | 0 | 1, 2 | SSJ | SDS/SHR/SSH/SSI.
Sodium sulfide solution (15% or less) | 43 |  | SDR | SDS.
Sodium sulfite solution (25% or less) | 43 |  | SUP | SSF/SUS.
Sodium thiocyanate solution (56% or less) | 0 | 1, 2 | STS | SCY.
Sorbitol solution | 20 |  | SBU | SBT.
Soyabean fatty acid methyl ester, see Oil, misc: Soyabean fatty acid methyl ester | 34 |  |  | OST.
Soyabean oil, see Oil, edible: Soyabean | 34 |  |  | OSB (VEO).
Stearic acid, see Fatty acids (saturated, C14+) | 34 |  | SRA | FAD (FAB/FAE/FDI/FDT).
Stearyl alcohol | 20 |  | SYL | ALY/ASY.
Stoddard solvent, see Naphtha: Stoddard solvent | 33 |  |  | NSS.
Styrene monomer | 30 |  | STY
Sulfohydrocarbon (C3-C88) | 33 |  | SFO
Sulfohydrocarbon, long-chain (C18+) alkylamine mixture | 7 |  | SFX
Sulfolane | 39 |  | SFL
Sulfonated polyacrylate solutions | 43 | 2 | SPA
Sulfur (molten) | 0 | 1, 2 | SXX
Sulfur dioxide | 0 | 1 | SFD
Sulfuric acid | 2 | 2 | SFA | SAC.
Sulfuric acid, spent | 2 | 2 | SAC | SFA.
Sulfurized fat (C14-C20) | 33 |  | SFT
Sulfurized polyolefinamide | 7 |  | SPY
Sulfurized polyolefinamide alkene(C28-C250) amine | 7 |  | SPO
Sunflower seed oil, see Oil, edible: Sunflower seed | 34 |  |  | OSN (VEO).
Tall oil, see Oil, misc: Tall | 34 |  |  | OTL (OTI/OTJ).
Tall oil, crude, see Oil, misc: Tall, crude * | 34 | 2, 3 |  | OTI (OTJ/OTL).
Tall oil, distilled, see Oil, misc: Tall, distilled * | 34 | 3 |  | OTJ (OTI/OTL).
Tall oil, fatty acid, see Oil, misc: Tall fatty acid | 34 |  |  | OTT.
Tall oil fatty acid (resin acids less than 20%), see Oil, misc: Tall oil fatty acid (resin less than 20%) | 34 | 2 |  | OTK (OTT).
Tall oil soap (crude) | 4 |  | TOR | TOS.
Tall oil, pitch, see Oil, misc: Tall pitch * | 34 | 3 |  | OTP (OTI/OTJ/OTL).
Tallow | 34 | 2 | TLO
Tallow alcohol, see Alcohols (C13+) | 20 | 2 | TFA | ALY (ASY).
Tallow alkyl nitrile | 37 |  | TAN
Tallow fatty acid | 34 | 2 | TFD
Tallow fatty alcohol, see Alcohols (C13+) | 20 |  | TFA | ALY.
TAME, see tert-Amyl methyl ether | 40 |  |  | AYE.
Tertiary butyl phenols | 21 |  | BLT | BTP.
1,1,2,2-Tetrachloroethane | 36 |  | TEC | TEE.
Tetradecanol, see Alcohols (C13+) | 20 |  | TTN | ALY.
Tetradecene, see the olefins or alpha-olefin entries | 30 |  |  | OAM/OFY/OFW/OFZ/TDD.
Tetradecylbenzene, see Alkyl(C9+) benzenes | 32 |  | TDB | AKB.
Tetraethylene glycol | 40 |  | TTG
Tetraethylene glycol methyl ether, see Poly(2-8)alkylene glycol monoalkyl(C1-C6) ether | 40 |  |  | PAG.
Tetraethylene pentamine | 7 | 2 | TTP
Tetraethyl silicate monomer/oligomer (20% in ethanol) * | 0 | 1, 3 | TSM
Tetrahydrofuran | 41 |  | THF
Tetrahydronaphthalene | 32 |  | THN
Tetramethylbenzene (all isomers) | 32 |  | TTC | TTB.
Tetrapropylbenzene, see Alkyl(C9+)benzenes | 32 |  |  | AKB.
Tetrasodium salt of ethylenediaminetetraacetic acid solution, see Ethylenediaminetetraacetic acid, tetrasodium salt solution | 43. |  |  | EDS.
Titanium dioxide slurry | 43 |  | TDS
Titanium tetrachloride | 2 |  | TTT
Toluene | 32 |  | TOL
Toluenediamine | 9 |  | TDA
Toluene diisocyanate | 12 |  | TDJ | TDI/TDJ.
o-Toluidine | 9 |  | TLI | TOD/TOI.
Triarylphosphate, see Triisopropylated phenyl phosphates | 34 |  | TRA | TPL.
Tributyl phosphate | 34 |  | TBP
1,2,3-Trichlorobenzene (molten) * | 36 | 3 | TBZ | TCB.
1,2,4-Trichlorobenzene | 36 |  | TCB | TBZ.
1,1,1-Trichloroethane | 36 | 2 | TCE | TCM.
1,1,2-Trichloroethane | 36 |  | TCM | TCE.
Trichloroethylene | 36 | 2 | TCL
1,2,3-Trichloropropane | 36 | 2 | TCN
1,1,2-Trichloro-1,2,2-trifluoroethane | 36 |  | TTF
Tricresyl phosphate (containing 1% or more ortho-isomer) * | 34 | 3 | TCO | TCP/TCQ.
Tricresyl phosphate (containing less than 1% ortho-isomer) * | 34 | 3 | TCP | TCO/TCQ.
Tridecane (all isomers), see Alkanes (C10+) (all isomers) | 31 |  | TRD | ALV (ALJ).
Tridecanoic acid | 34 |  | TDO
Tridecanol, see Alcohols (C13+) | 20 |  | TDN | ALY (ASK/ASY/AYK/LAL).
Tridecene, see Olefins (C13+) | 30 |  | TRD | OAM/OFY/OFW/OFZ/TDC.
Tridecyl acetate | 34 |  | TAE
Tridecylbenzene, see Alkyl(C9+) benzenes | 32 |  | TRB | AKB.
Triethanolamine | 8 | 2 | TEA
Triethylamine | 7 |  | TEN
Triethylbenzene | 32 |  | TEB
Triethylene glycol | 40 |  | TEG
Triethylene glycol butyl ether, see Poly(2-8)alkylene glycol monoalkyl (C1-C6) ether | 40 |  | TBE | PAG.
Triethylene glycol butyl ether mixture | 40 |  | TBD
Triethylene glycol di-(2-ethylbutyrate) | 34 |  | TGD
Triethylene glycol ether mixture | 40 |  | TYM
Triethylene glycol ethyl ether, see Poly(2-8)alkylene glycol monoalkyl(C1-C6) ether | 40 |  | TGE | PAG.
Triethylene glycol methyl ether, see Poly(2-8)alkylene glycol monoalkyl(C1-C6) ether | 40 |  | TGY | PAG.
Triethylenetetramine | 7 | 2 | TET
Triethyl phosphate | 34 |  | TPS
Triethyl phosphite | 34 | 2 | TPI
Triisobutylene | 30 |  | TIB
Triisooctyl trimellitate | 34 |  | TIS
Triisopropanolamine | 8 |  | TIP
Triisopropanolamine salt of 2,4-Dichlorophenoxyacetic acid solution, see 2,4-Dichlorophenoxyacetic acid, Triisopropanolamine salt solution | 43 |  |  | DTI.
Triisopropylated phenyl phosphates | 34 |  | TPL
Trimethylacetic acid | 4 |  | TAA
Trimethylamine solution (30% or less) | 7 |  | TMT | TMA.
Trimethylbenzene (all isomers) | 32 |  | TRE | TMB/TMD/TME.
Trimethyl nonanol, see Dodecanol | 20 |  |  | DDN (ASK/ASY/LAL).
Trimethylol propane polyethoxylated | 40 |  | TPR
2,2,4-Trimethyl-1,3-pentanediol diisobutyrate | 34 |  | TMQ
2,2,4-Trimethyl-1,3-pentanediol-1-isobutyrate | 34 |  | TMP
2,2,4-Trimethyl-3-pentanol-1-isobutyrate | 34 |  | TMR
1,3,5-Trioxane | 41 | 2 | TRO
Triphenylborane (10% or less)/Caustic soda solution | 5 |  | TPB
Tripropylene, see Propylene trimer | 30 |  |  | PTR.
Tripropylene glycol | 40 |  | TGC
Tripropylene glycol methyl ether, see Poly(2-8)alkylene glycol monoalkyl(C1-C6) ether | 40 |  | TGM | PAG.
Trisodium nitrilotriacetate solution, see Nitrilotriacetic acid, trisodium salt solution | 34 |  | TSO | NCA (TSN).
Trisodium phosphate solution | 5 |  | TSP
Trisodium salt of N-(Hydroxyethyl)ethylenediaminetriacetic acid solution, see N-(Hydroxyethyl)ethylenediaminetriacetic acid, trisodium salt solution | 43 |  |  | HET.
Trixylenyl phosphate, see Trixylyl phosphate | 34 |  |  | TRP.
Trixylyl phosphate | 34 |  |  | TRP.
Tung oil, see Oil, misc: Tung | 34 |  |  | OTG
Turpentine | 30 |  | TPT
Turpentine substitute, see White spirit (low (15-20%) aromatic) | 33 |  |  | WSL (WSP).
Ucarsol CR Solvent 302 SG | 8 |  | UCS
Undecane (all isomers), see Alkanes (C10+) (all isomers) | 31 |  | UDN | ALV (ALJ).
Undecanoic acid | 4 |  | UDA
Undecanol, see Undecyl alcohol | 20 |  |  | UND (ALR).
Undecene | 30 |  | UDD | UDC.
1-Undecene | 30 |  | UDC | UDD.
Undecyl alcohol | 20 |  | UND | ALR.
Undecylbenzene, see Alkyl(C9+) benzenes |  |  | UDB | AKB.
Urea, Ammonium mono- and di-hydrogen phosphate/Potassium chloride solution | 0 | 1 | UPX
Urea/Ammonium nitrate solution * | 34 | 3 | UAV | ANU/UAS/UAT/UAU.
Urea/Ammonium nitrate solution (containing less than 1% free Ammonia) | 43 |  | UAU | ANU/UAS/UAT/UAV.
Urea/Ammonium nitrate solution (containing less than 2% free Ammonia) | 6 |  | UAT | ANU/UAS/UAU/UAV.
Urea/Ammonium phosphate solution | 43 |  | UAP
Urea solution | 43 |  | USL | URE.
Valeraldehyde (all isomers) | 19 |  | VAK | IVA/VAL.
Vanillin black liquor (free alkali content 3% or more) | 5 |  | VBL
Vegetable oils, n.o.s | 34 |  | VEO
Including:
Beechnut oil
Camelina oil
Cashew nut shell
Castor oil
Cocoa butter
Coconut oil
Corn oil
Cottonseed oil
Croton oil
Groundnut oil
Hazelnut oil
Illipe oil
Jatropha oil
Linseed oil
Mango kernel oil
Nutmeg butter
Oiticica oil
Olive oil
Palm kernel oil
Palm kernel olein
Palm kernel stearin
Palm mid fraction
Palm, non-edible industrial grade
Palm oil
Palm olein
Palm stearin
Peanut oil
Peel oil (oranges and lemons)
Perilla oil
Pine oil
Poppy seed oil
Poppy oil
Raisin seed oil
Rapeseed oil
Rapeseed (low erucic acid containing less than 4% free fatty acids)
Resin, distilled
Resin oil
Rice bran oil
Rosin oil
Safflower oil
Salad oil
Sesame oil
Shea butter
Soyabean oil
Sunflower seed oil
Tall
Tall, crude
Tall, distilled
Tall, pitch
Tucum oil
Tung oil
Walnut oil
Vegetable acid oils, n.o.s. | 34 |  | VAD
Including:
Corn acid oil
Cottonseed acid oil
Dark mixed acid oil
Groundnut acid oil
Mixed acid oil
Mixed general acid oil
Mixed hard acid oil
Mixed soft acid oil
Rapeseed acid oil
Safflower acid oil
Soya acid oil
Sunflower seed acid oil
Vegetable fatty acid distillates * | 34 | 3 | VFD
Including:
Palm kernel fatty acid distillate
Palm oil fatty acid distillate
Tall fatty acid distillate
Tall oil fatty acid distillate
Vegetable protein solution (hydrolyzed) | 43 |  | VPS
Vinyl acetate | 13 | 2 | VAM
Vinyl chloride | 35 |  | VCM
Vinyl ethyl ether | 13 |  | VEE
Vinylidene chloride | 35 |  | VCI
Vinyl neodecanoate | 13 | 2 | VND
Vinyltoluene | 13 |  | VNT
Water | 43 |  | WTR
Waxes |  |  | WAX
Candelilla | 34 |  | WCD
Carnauba | 34 |  | WCA
Paraffin | 31 |  | WPF
Petroleum | 33 |  | WPT
White spirit, see White spirit (low (15-20%) aromatic) | 33 |  | WSP | WSL.
White spirit (low (15-20%) aromatic) | 33 |  | WSL | WSP.
Wine, see Alcoholic beverages | 20 |  | ABV
Wood lignin with Sodium acetate/oxalate * | 0 | 1, 3 | WOL
Xylenes | 32 |  | XLX | XLM/XLO/XLP.
Xylenes/Ethylbenzene (10% or more) mixture | 32 |  | XEB
Xylenol | 21 |  | XYL
Zinc alkaryl dithiophosphate (C7-C16) | 34 |  | ZAD
Zinc alkenyl carboxamide | 10 |  | ZAA
Zinc alkyl dithiophosphate (C3-C14) | 34 |  | ZAP
Zinc bromide/Calcium bromide solution, see Drilling brine (containing Zinc salts) | 43 |  |  | DZB.
Notes:
1. Because of very high reactivity or unusual conditions of carriage or potential compatibility problems, this commodity is not assigned to a specific group in Figure 1 to 46 CFR part 150 (Compatibility Chart).
2. See Appendix I to 46 CFR part 150 (Exceptions to the Chart).
3. “ * ” From the March 2012 Annex to the 2007 edition of the IBC Code.
4. Italicized words are not part of the cargo name but may be used in addition to the cargo name.

5. Revise Table II to Part 150 to read as follows:

Table II to Part 150—Grouping of Cargoes
Group | Cargo
0. Unassigned | Acetone cyanohydrin 1 2
| Alkenoic acid, polyhydroxy ester borated ¹
| Alkyl (C8-C10)/(C12-C14) : (60% or more/40% or less)
| Alkyl (C18-C28) toluenesulfonic acid ¹
| Alkyl (C11-C17) benzene sulfonic acid
| polyglucoside solution (55% or less) ¹
| Alkylbenzenesulfonic acid 1 2
| Alkyl benzene distillation bottoms ¹
| Aluminium chloride, Hydrochloric acid solution ¹
| Aluminum chloride/Hydrogen chloride solution ¹
| Ammonium hydrogen phosphate solution ¹
| Ammonium nitrate solution ¹
| Ammonium thiocyanate, Ammonium thiosulfate solution ¹
| Benzenesulfonyl chloride 1 2
| gamma-Butyrolactone 1 2
| Chlorine ¹
| Chlorosulfonic acid ¹
| Decyloxytetrahydro-thiophene dioxide ¹
| tert-Dodecanethiol ¹
| 2,4-Dichlorophenoxyacetic acid, Dimethylamine salt solution (70% or less) 1 2
| Dimethylamine salt of 2,4-Dichlorophenoxyacetic acid solution 1 2
| Dimethyl disulfide ¹
| Diphenylol propane-Epichlorohydrin resins ¹
| Dodecylbenzenesulfonic acid 1 2
| Dodecyl hydroxypropyl sulfide 1 2
| Ethylene oxide ¹
| Hydrogen peroxide solutions ¹
| Hydrogenated starch hydrolysate ¹
| Lactic acid 1 2
| Ligninsulfonic acid, sodium salt solution ¹
| Liquid chemical wastes ¹
| Long chain alkaryl sulfonic acid (C16-C60) 1 2
| Magnesium chloride solution 1 2
| Malitol solution ¹
| Methyl cyclopentadienyl manganese tricarbonyl ¹
| Methyl cyclopentadienyl manganese tricarbonyl (60-70%) in mineral oil ¹
| Molybdenum polysulfide long chain alkyl dithiocarbamide complex ¹
| Molasses residue ¹
| Motor fuel antiknock compounds containing Lead alkyls ¹
| Naphthalene sulfonic acid-formaldehyde copolymer, sodium salt solution ¹
| NIAX POLYOL APP 240C 1 2
| Nitrating acid ¹
| Nitric acid (greater than 70%) ¹
| o-Nitrophenol 1 2
| Noxious Liquid Substance, n.o.s. (NLS's) ¹
| Oleum 1 2
| Orange juice (concentrated) ¹
| Orange juice (not concentrated) ¹
| Oxygenated aliphatic hydrocarbon mixture ¹
| Phosphorus ¹
| Phthalate based polyester polyol 1 2
| Potassium polysulfide, Potassium thiosulfide solution (41% or less) ¹
| 2-Propene-1-aminium, N,N-dimethyl-N-2-propenyl-, chloride, homopolymer solution ¹
| SAP 7001 ¹
| Sodium chlorate solution 1 2
| Sodium dichromate solution 1 2
| Sodium hydrogen sulfide, Sodium carbonate solution 1 2
| Sodium sulfide, Hydrosulfide solution 1 2
| Sodium thiocyanate solution 1 2
| Sulfur ¹
| Tall oil fatty acid, barium salt 1 2
| Tetraethyl silicate monomer/oligomer (20% in ethanol) ¹
| Urea, Ammonium mono- and di-hydrogen phosphate, Potassium chloride solution ¹
| Wood lignin with Sodium acetate/oxalate ¹
1. Non-Oxidizing Mineral Acids | Di-(2-ethylhexyl)phosphoric acid
| Ferric chloride solution
| Fluorosilicic acid (20-30%) in water solution
| Fluorosilicic acid (30% or less)
| Hydrochloric acid
| Phosphoric acid
| Polyaluminum chloride solution
2. Sulfuric Acids | Sulfuric acid ²
| Sulfuric acid, spent
| Titanium tetrachloride
3. Nitric Acids | Ferric nitrate, Nitric acid solution
| Nitric acid (70% or less)
| Nitric acid (70% and over)
4. Organic Acids | Acetic acid ²
| Acid oil mixture from soya bean, corn (maize) and sunflower oil refining
| Acrylic acid ²
| Butyric acid
| i-Butyric acid
| Cashew nut shell oil (untreated)
| Citric acid (70% or less)
| Chloroacetic acid solution
| Chloroacetic acid (80% or less)
| Chloropropionic acid
| Decanoic acid
| 2,2-Dichloropropionic acid
| 2,2-Dimethyloctanoic acid
| 2-Ethylhexanoic acid
| Fatty acids, (C8-C10)
| Fatty acids, (C12+)
| Fatty acids, (C16+)
| Fatty acids, essentially linear (C6-C18) 2-ethylhexyl ester
| Fatty acid methyl esters
| Formic acid ²
| Formic acid (over 85%) ²
| Formic acid mixture (containing up to 18% Propionic acid and up to 25% Sodium formate) ²
| Glycolic acid
| Glyoxylic acid
| n-Heptanoic acid
| 1,6-Hexanediol distillation overheads
| Hexanoic acid
| 2-Hydroxy-4-(methylthio)butanoic acid
| Jatropha oil
| Long chain alkyl (C13+) salicylic acid
| Metal fatty acid salt
| Metal long chain alkyl salt
| Methacrylic acid
| Microsilica slurry
| Naphthenic acid
| Neodecanoic acid
| Nonanoic acid
| Nonanoic, Tridecanoic acid mixture
| Octanoic acid (all isomers)
| n-Pentanoic acid, 2-Methyl butryic acid mixture
| Pentanoic acid
| Propionic acid
| Trimethylacetic acid
| Undecanoic acid
5. Caustics | Ammonium sulfide solution (45% or less)
| Calcium hypochlorite solutions
| Calcium hypochlorite solution (15% or less)
| Calcium hypochlorite solution (more than 15%)
| Caustic potash solution ²
| Caustic soda solution ²
| Cresylate spent caustic
| Cresylic acid, sodium salt solution
| Kraft black liquor
| Kraft pulping liquors
| Mercaptobenzothiazol, sodium salt solution
| Potassium hydroxide solution ²
| Sodium acetate, Glycol, Water mixture (containing Sodium hydroxide)
| Sodium aluminate solution
| Sodium borohydride, Sodium hydroxide solution
| Sodium carbonate solutions
| Sodium cyanide solution
| Sodium hydrosulfide solution ²
| Sodium hydrosulfide, Ammonium sulfide solution ²
| Sodium hydroxide solution ²
| Sodium hypochlorite solution
| Sodium 2-mercaptobenzothiazol solution
| Sodium naphthenate solution
| Sodium nitrite solution
| Triphenylborane, Caustic soda solution
| Trisodium phosphate solution
| Vanillin black liquor
6. Ammonia | Ammonia, anhydrous
| Ammonia, aqueous
| Ammonium hydroxide (28% or less Ammonia)
| Ammonium nitrate, Urea solution (containing Ammonia)
| Urea, Ammonium nitrate solution (containing Ammonia)
7. Aliphatic Amines | Alkenylamine mixtures
| Alkyl (greater than C8) amine, Alkenyl (greater than C12) acid ester in mineral oil
| Alkyl amine (C17 or greater)
| Alkyl (C12+) dimethylamine
| N-Aminoethylpiperazine
| Butylamine (all isomers)
| Calcium long chain alkyl phenolic amine (C8-C40)
| Crude piperazine
| Cyclohexylamine
| Dibutylamine
| Diethylamine
| Diethylenetriamine ²
| Diisobutylamine
| Diisopropylamine
| Dimethylamine
| Dimethylamine solution (45% or less)
| Dimethylamine solution (greater than 45% but not greater than 55%)
| Dimethylamine solution (greater than 55% but not greater than 65%)
| N,N-Dimethylcyclohexylamine
| N,N-Dimethyldodecylamine
| Di-n-propylamine
| Diphenylamine, reaction product with 2,2,4-Trimethylpentene
| Diphenylamines, alkylated
| Dodecylamine, Tetradecylamine mixture ²
| Dodecyldimethylamine, Tetradecyldimethylamine mixture
| Ethoxylated tallow alkyl amine
| Ethoxylated tallow amine (>95%)
| Ethoxylated tallow alkyl amine, glycol mixture
| Ethylamine ²
| Ethylamine solution (72% or less)
| Ethyleneamine EA 1302 ²
| N-Ethyl-n-butylamine
| N-Ethyl cyclohexylamine
| Ethylenediamine ²
| 2-Ethyl hexylamine
| N-Ethylmethylallylamine
| Glyphosate solution (not containing surfactant)
| Hexamethylenediamine
| Hexamethylenediamine (molten)
| Hexamethylenediamine solution
| Hexamethylenetetramine
| Hexamethylenetetramine solutions
| Hexamethylenimine
| HiTec 321
| bis-(Hydrogenated tallow alkyl)methyl amines
| Isophorone diamine
| Isopropylamine
| Isopropylamine (70% or less) solution
| Long chain alkyl amine
| Long chain polyetheramine in alkyl(C2-C4)benzenes
| Metam sodium solution
| Methylamine solutions (42% or less)
| Morpholine ²
| Oleylamine
| Pentaethylenehexamine
| Pentaethylenehexamine, Tetraethylenepentamine mixture
| Phosphate esters, alkyl (C12-C14) amine
| Polyalkenyl succinic anhydride amine
| Polyalkyl alkeneamine succinimide, molybdenum oxysulfide
| Polyethylene polyamines ²
| Polyethylene polyamines (more than 50% C5-C20 paraffin oil)
| Poly(iminoethylene)-graft-N-poly (ethyleneoxy) solution (90% or less)
| Polyisobutenamine in aliphatic (C10-C14) solvent
| Polyolefin amide alkeneamine (C28+)
| Polyolefin amide alkeneamine polyol
| Poly olefin amine
| Poly (C17+) olefin amine
| Polyolefin amide alkeneamine/Molybdenum oxysulfide mixture
| Polyoxypropylenediamine (MW 2000)
| Propanil, Mesityl oxide, Isophorone mixture
| Propylamine
| iso-Propylamine solution
| Roundup
| Sulfohydrocarbon, long chain (C18+) alkylamine mixture
| Tetraethylenepentamine ²
| Triethylamine
| Triethylenetetramine ²
| Trimethylamine solution
| Trimethylhexamethylene diamine (2,2,4- and 2,4,4-)
8. Alkanolamines | Alkyl (C12-C16) propoxyamine ethoxylate
| 2-(2-Aminoethoxy)ethanol
| Aminoethyldiethanolamine, Aminoethylethanolamine solution
| Aminoethylethanolamine
| 2-Amino-2-methyl-1-propanol
| Diethanolamine
| Diethylaminoethanol
| Diethylethanolamine
| Diisopropanolamine
| Dimethylethanolamine
| Ethanolamine
| Ethoxylated alkyloxy alkyl amine
| Ethoxylated long chain (C16+) alkyloxyalkanamine
| Isopropanolamine
| Isopropanolamine solution
| N,N-bis (2-Hydroxyethyl) oleamide
| Linear alkyl (C12-C16) propoxyamine ethoxylate
| Methyl diethanolamine
| Propanolamine
| Triethanolamine ²
| Triisopropanolamine
| Ucarsol CR Solvent 302 SG
9. Aromatic Amines | Alkyl (C8-C9) phenylamine in aromatic solvents
| Amine C-6, morpholine process residue
| Aniline
| Calcium long chain alkyl phenolic amine (C8-C40)
| 4-Chloro-2-methylphenoxyacetic acid, Dimethylamine salt solution
| Dialkyl (C8-C9) diphenylamines
| 2,6-Diethylaniline
| Dimethylamine salt of 4-Chloro-2-methylphenoxyacetic acid solution
| 2,6-Dimethylaniline
| Diphenylamine
| Diphenylamine (molten)
| Diphenylamine, reaction product with 2,2,4-trimethylpentene
| Diphenylamines, alkylated
| 2-Ethyl-6-methyl-N-(1′-methyl-2-methoxyethyl)aniline
| N-Methylaniline
| 2-Methyl-6-ethyl aniline
| 2-Methyl-5-ethyl pyridine
| Methyl pyridine
| 2-Methylpyridine
| 3-Methylpyridine
| 4-Methylpyridine
| N-Methyl-2-pyrrolidone ²
| Paraldehyde-Ammonia reaction product
| Polyolefin phenolic amine (C28-C250)
| Pyridine
| Pyridine bases
| Toluenediamine
| p-Toluidine
10. Amides | Acetochlor
| Acrylamide solution (50% or less)
| Alkenyl(C11+)amide
| N,N-Dimethylacetamide
| N,N-Dimethylacetamide solution
| N,N-Dimethylacetamide solution (40% or less)
| Dimethylformamide
| Formamide
| N,N-bis(2-Hydroxyethyl) oleamide
| Octadecenoamide
| Organomolybdenum amide
| Polybutenyl succinimide
| Polyisobutenyl succinimide
| Zinc alkenyl carboxamide
11. Organic Anhydrides | Acetic anhydride
| Alkenylsuccinic anhydride
| Alkyl succinic anhydride
| Maleic anhydride
| Phthalate based polyester polyol
| Phthalic anhydride
| Polyisobutenyl anhydride adduct
| Polyisobutylene succinic anhydride
| Polyolefin anhydride
| Propionic anhydride
12. Isocyanates | Diphenylmethane diisocyanate
| Hexamethylene diisocyanate
| Isophorone diisocyanate
| Polymethylene polyphenyl isocyanate
| Toluene diisocyanate
| Trimethylhexamethylene diisocyanate (2,2,4- and 2,4,4-)
13. Vinyl Acetates | Vinyl acetate
| Vinyl ethyl ether
| Vinyl neodecanate
| Vinyl toluene
14. Acrylates | Butyl acrylate (all isomers)
| Butyl/Decyl/Cetyl/Eicosyl methacrylate mixture
| Butyl methacrylate
| i-Butyl methacrylate
| Butyl methacrylate, Decyl methacrylate, Cetyl-Eicosyl methacrylate mixture
| Cetyl-Eicosyl methacrylate mixture
| Decyl acrylate
| Dodecyl methacrylate
| Dodecyl-Octadecyl methacrylate mixture
| Dodecyl-Pentadecyl methacrylate mixture
| Ethyl acrylate
| 2-Ethylhexyl acrylate
| Ethyl methacrylate
| 2-Hydroxyethyl acrylate ²
| Isobutyl methacrylate
| Methacrylic resin in Ethylene dichloride
| Methyl acrylate
| Methyl methacrylate
| Nonyl methacrylate
| Polyalkyl acrylate
| Polyalkyl(C18-C22) acrylate in Xylene
| Polyalkyl (C10-C18) methacrylate/Ethylene
| Polyalkyl methacrylate
| Polyalkyl methacrylate in mineral oil
| Polyalkyl (C10-C20) methacrylate
| Polyalkyl methacrylate solution (containing max 40% active material)
| Propylene copolymer mixture
| Roehm monomer 6615
15. Substituted Allyls | Acrylonitrile ²
| Allyl alcohol ²
| Allyl chloride
| 1,3-Dichloropropene
| Dichloropropene
| Dichloropropene, Dichloropropane mixtures
| Methacrylonitrile
16. Alkylene Oxides | Butylene oxide
| Ethylene oxide, Propylene oxide mixtures
| Ethylene oxide/Propylene oxide mixture with an Ethylene oxide content not more than 30% by mass)
| Propylene oxide
17. Epichlorohydrins | Chlorohydrins (crude)
| Epichlorohydrin
18. Ketones | Acetone ²
| Acetophenone
| Amyl methyl ketone
| Butyl heptyl ketone
| Camphor oil
| 1-(4-Chlorophenyl)-4,4-dimethyl pentan-3-one ²
| Cyclohexanone
| Cyclohexanone, Cyclohexanol mixtures ²
| Diisobutyl ketone
| Ethyl amyl ketone
| Epoxy resin
| Ketone residue
| Isophorone ²
| Mesityl oxide ²
| Methyl amyl ketone
| Methyl butyl ketone
| Methyl ethyl ketone ²
| Methyl heptyl ketone
| Methyl isoamyl ketone
| Methyl isobutyl ketone ²
| Methyl propyl ketone
| beta-Propriolactone
| Trifluralin in Xylene
19. Aldehydes | Acetaldehyde
| Acrolein ²
| Butyraldehyde (all isomers)
| Crotonaldehyde ²
| Decaldehyde
| Ethylhexaldehyde
| 2-Ethyl-3-propylacrolein ²
| Formaldehyde, Methanol mixtures ²
| Formaldehyde solutions ²
| Furfural
| Glutaraldehyde solution
| Glyoxal solutions
| 3-Methyl butyraldehyde
| Methylolureas
| 3-(Methylthio)propionaldehyde
| Octyl aldehyde
| Paraldehyde
| Pentyl aldehyde
| Propionaldehyde
| Valeraldehyde
20. Alcohols, Glycols | Acrylonitrile-Styrene copolymer dispersion in Polyether polyol
| Alcoholic beverages
| Alcohol polyethoxylates
| Alcohol polyethoxylates, secondary
| Alcohols (C13+)
| Alcohols (C12+), primary, linear
| Alcohols (C12-C13), primary, linear and essentially linear
| Alcohols (C14-C18), primary, linear and essentially linearAlkyl (C4-C9) phenols
| n-Amyl alcohol
| Amyl alcohol, primary
| sec—Amyl alcohol
| tert- Amyl alcohol
| Behenyl alcohol
| Bio-fuel blends of Gasoline and Ethyl alcohol (>25% but <99% by volume)
| Brake fluid base mixtures
| Brake fluid base mix: Poly(2-8)alkylene (C2-C3) glycols/Polyalkylene (C2-C10) glycols monoalkyl (C1-C4) ethers and their borate esters1,4-Butanediol
| Butyl alcohol ² (all isomers)
| n-Butyl alcohol
| iso-Butyl alcohol
| t-Butyl alcohols
| Butylene glycol ²
| Cetyl-Stearyl alcohol
| Choline chloride solutions
| Cyclohexanol
| Cyclopentanol
| Decyl alcohol (all isomers) ²
| Decyl/Dodecyl/Tetradecyl alcohol mixture
| Diacetone alcohol ²
| Diethyl hexanol
| Diethylene glycol
| Diethylene glycol dibenzoate
| Diisobutyl carbinol
| 2,2-Dimethylpropane-1,3-diol
| Dodecanol
| Dodecyl alcohol
| Dodecyl hydroxypropyl sulfide
| Ethoxylated alcohols, C11-C15
| 2-Ethoxyethanol
| Ethyl alcohol ²
| Ethyl butanol
| Ethylene chlorohydrin
| Ethylene cyanohydrin
| Ethylene glycol ²
| 2-Ethylhexanol
| Furfuryl alcohol ²
| Glycerine ²
| Glycerine, Dioxanedimethanol mixture
| Glycerol monooleate
| Glycol
| Glycol mixture, crude
| Heptanol
| Hexamethylene glycol
| Hexanol
| Hexylene glycol
| Hydroxy terminated polybutadiene
| Icosa(oxypropane-2,3-diyl)s
| Isoamyl alcohol
| Isobutyl alcohol
| Isopropyl alcohol
| Lauryl polyglucose (50% or less)
| Methacrylic acid-alkyloxypoly (alkylene oxide) methacrylate copolymer sodium salt aqueous solution (45% or less)
| 3-Methoxy-1-butanol
| Methyl alcohol ²
| Methyl amyl alcohol
| alpha-Methylbenzyl alcohol with acetophenone (15% or less)
| Methyl butenol
| Methylbutynol
| 2-Methyl-2-hydroxy-3-butyne
| Methyl isobutyl carbinol
| 3-Methyl-3-methoxybutanol
| 2-Methyl-1,3-propanediol
| Molasses
| Nonyl alcohol ²
| Octanol (all isomers) ²
| Octyl alcohol ²
| Penacosa(oxypropane-2,3-diyl)s
| Pentadecanol
| Polyalkylene oxide polyol
| Polybutadiene, hydroxy terminated
| Polyglycerol
| Polyglycerine, Sodium salts solution (containing less than 3% Sodium hydroxide) ²
| Polyolefin amide alkeneamine polyol
| Propyl alcohol ²
| Propylene glycol ²
| Rum
| Sodium methylate solution (21-30% in Methanol)
| Sorbitol solutions
| Stearyl alcohol
| Tallow fatty alcohol
| Tetradecanol
| Tridecanol
| Trimethyl nonanol
| Trimethylol propane polyethoxylate
| Undecanol
| Undecyl alcohol
21. Phenols, Cresols | Alkylated (C4-C9) hindered phenols
| Benzyl alcohol
| Carbolic oil
| Creosote ²
| Creosote (coal tar) ²
| Creosote (wood tar) ²
| Cresols (all isomers)
| Cresylic acid
| Cresylic acid dephenolized
| Cresylic acid, tar
| Dibutylphenols
| 2,4-Dichlorophenol
| Di-tert-butyl phenols
| 2,4-Di-tert-butyl phenols
| 2,6-Di-tert-butyl phenols
| Dodecyl phenol
| o-Ethylphenol
| Long chain alkylphenate/phenol sulfide mixture
| Methylene bridged isobutylenated phanols
| Nonyl phenol
| Nonyl phenol (48-62%)/Phenol (42-48%)/Dinonyl phenol (1-10%) mixture
| Octyl phenol
| Phenol
| Xylenols
22. Caprolactam Solutions | Caprolactam solution
| epsilon-Caprolactam (molten or aqueous solutions)
23-29. Unassigned
30. Olefins | Acrylic acid/ethenesulfonic acid copolymer with phosphonate groups, sodium salt solution
| Amylene
| Aryl polyolefin (C11-C50)
| Butadiene
| Butadiene, Butylene mixtures (cont. Acetylenes)
| Butadiene Feedstock [Kirby]
| Butene
| Butene oligomer
| Butylene
| 1,5,9-Cyclododecatriene
| 1,3-Cyclopentadiene dimer (molten)
| Cyclopentadiene, Styrene, Benzene mixture
| Cyclopentene
| Decene
| Dichloropropene
| Dicyclopentadiene
| Dicyclopentadiene, Resin Grade, 81-89%
| Diisobutylene
| Dipentene
| Dodecene
| Ethylene
| Ethylene-Propylene copolymer
| Ethylidene norbornene ²
| 1-Heptene
| Hexene (all isomers)
| Isoprene
| Isoprene concentrate (Shell)
| Latex (ammonia (1% or less) inhibited
| Methyl acetylene, Propadiene mixture
| Methyl butene
| Methylcyclopentadiene dimer
| 2-Methyl-1-pentene
| 4-Methyl-1-pentene
| alpha-Methyl styrene
| Myrcene
| Nonene
| 1-Octadecene
| Octene
| Olefin mixtures
| Olefin mixture (C7-C9) C8 rich, stabilized
| Olefin mixtures (C5-C7)
| Olefin mixtures (C5-C15)
| alpha-Olefins (C6-C18) mixtures
| alpha-Olefins (C13+)
| 1,3-Pentadiene
| 1,3-Pentadiene (greater than 50%), Cyclopentene and isomers, mixtures
| Pentene
| alpha-Pinene
| beta-Pinene
| Polybutene
| Poly(4+)isobutylene
| Polyolefin in mineral oil
| Polyolefin (molecular weight 300+)
| Polypropylene
| Poly(5+)propylene
| Propylene
| Propylene-butylene copolymer
| Propylene dimer
| Propylene, Propane, MAPP gas mixture
| Propylene tetramer
| Propylene trimer
| Styrene monomer
| Tetradecene
| Tridecene
| Triisobutylene
| Tripropylene
| Turpentine
| Undecene
31. Paraffins | Alkanes (C6-C9)
| Alkanes (C10-C26) linear and branched
| Alkanes (C10-C26) linear and branched (flash point > 60 °C)n-Alkanes (C10+)
| iso- & cyclo-Alkanes (C10-C11)
| iso- & cyclo-Alkanes (C12+)
| Aviation alkylates (C8 paraffins and iso-paraffins BPT 95-120 °C)
| Butane
| Cycloheptane
| Cyclohexane
| Cyclopentane
| Decane
| Dodecane
| Ethane
| Ethyl cyclohexane
| Heptane
| Hexane ²
| Isopropylcyclohexane
| Methane
| Methylcyclohexane
| 2-Methyl pentane
| Mineral oil
| Nonane
| Octane
| Paraffin wax
| Pentane
| Polyalpha olefins
| Polyolefin (molecular weight 300+)
| Propane
| iso-Propylcyclohexane
| Tridecane
| Waxes:
| Paraffin
32. Aromatic Hydrocarbons | Alkyl(C3-C4)benzenes
| Alkyl(C5-C8)benzenes
| Alkyl(C9+)benzenes
| Alkyl acrylate-Vinyl pyridine copolymer in Toluene
| Alkylbenzene, Alkylindane, Alkylindene mixture (each C12-C17)
| Alkylbenzene mixtures (containing at least 50% of Toluene)
| Alkyl toluene
| Alkyl (C18+) toluene
| Aryl polyolefin (C11-C50)
| Benzene
| Benzene hydrocarbon mixtures (having 10% Benzene or more)
| Benzene, Toluene, Xylene mixtures
| Butylbenzene (all isomers)
| Butyl phenol, Formaldehyde resin in Xylene
| Butyl toluene
| Cumene
| Cymene
| Decylbenzene
| Dialkyl(C10-C14) benzenes
| Diethylbenzene
| Diisopropylbenzene (all isomers)
| Diisopropyl naphthalene
| Diphenyl
| Dodecylbenzene
| Dodecyl xylene
| Ethylbenzene
| Ethyl toluene
| 1-Hexadecylnaphthalene, 1, 4-bis(Hexadecyl)
| 1,1-Hexadecylnaphthalene/1,4-bis (hexadecyl) naphthalene mixture
| 1,n-Hexadecylnaphthalene (90%), 1,4-Di-n-(hexadecyl-naphthalene (10%)
| Isopropylbenzene
| Methyl naphthalene (molten)
| Naphthalene (molten)
| Naphthalene mixture
| Naphthalene still residue
| 1-Phenyl-1-xylyl ethane
| Parachlorobenzotrifluoride
| Poly(2+)cyclic aromatics
| Polyolefin amine in alkylbenzenes (C2-C4)
| Polyolefin amine in aromatic solvent
| Propylbenzene
| Pseudocumene
| Pyrolysis gasoline (containing Benzene)
| C9 Resinfeed (DSM) ²
| Tetradecylbenzene
| Tetrahydronaphthalene
| 1,2,3,5-Tetramethylbenzene
| Toluene
| Tridecylbenzene
| Triethylbenzene
| Trimethylbenzene
| Undecylbenzene
| Xylene
| Xylenes, Ethylbenzene mixture
33. Miscellaneous Hydrocarbon Mixtures | Alachlor Alachlor technical (90% or more) Alkylbenzenesulfonic acid, sodium salt solutions
| Alkyl dithiothiadiazole (C6-C24)
| Alkyl toluene sulfonic acid, calcium salts
| Alkyl (C18-C28) toluene sulfonic acid, Calcium salts, high overbase
| Alkyl (C18-C28) toluene sulfonic acid, Calcium salts, low overbaseAsphalt blending stocks, roofers flux
| Asphalt blending stocks, straight run residue
| Asphalt emulsion
| Asphalt, kerosene, and other components
| Bio-fuel blends of Diesel/gas oil and Alkanes (C10-C26), linear and branched with a flash point > 60 °C (>25% but <99% by volume)
| Bio-fuel blends of Diesel/gas oil and Alkanes (C10-C26), linear and branched with a flash point < 60 °C (>25% but <99% by volume)
| Calcuim sulfonate, Calcium carbonate, Hydrocarbon solvent mixture
| Coal tar
| Coal tar distillate
| Coal tar, high temperature
| Coal tar pitch (molten)
| Decahydronaphthalene
| Degummed C9 (DOW)
| Diphenyl, Diphenyl ether
| Distillates
| Distillates, flashed feed stocks
| Distillates, straight run
| Drilling mud (low toxicity) (if flammable or combustible)
| Gas oil, cracked
| Gasoline blending stock, alkylates
| Gasoline blending stock, reformates
| Gasolines:
| Automotive (not over 4.23 grams lead per gal.)
| Aviation (not over 4.86 grams lead per gal.)
| Casinghead (natural)
| Polymer
| Straight run
| Jet Fuels:
| JP-4
| JP-5
| JP-8
| Kerosene
| Maleated ethylene-propylene copolymer reaction product [synthetic rubber]
| Mineral spirits
| Naphtha:
| Coal tar solvent
| Petroleum
| Solvent
| Stoddard solvent
| Varnish Makers' and Painters'
| Oil, fuel:
| No. 1
| No. 1-D
| No. 2
| No. 2-D
| No. 4
| No. 5
| No. 6
| Oil, misc:
| Aliphatic
| Aromatic
| Clarified
| Coal
| Crude
| Diesel
| Gas, high pour
| Heartcut distillate
| Linseed
| Lubricating
| Mineral
| Mineral seal
| Motor
| Neatsfoot
| Penetrating
| Pine
| Rosin
| Sperm
| Spindle
| Turbine
| Residual
| Road
| Transformer
| Oxyalkylated alkyl phenol formaldehyde
| Petrolatum
| Pine oil
| Polybutene
| Polyolefin amine (C28-C250)
| Polyolefin amide alkeneamine (C17+)
| Polyolefin amide alkeneamine (C28+)
| Polyolefin amide alkeneamine borate (C28-C250)
| Polyolefin amide alkeneamine in mineral oil
| Resin oil, distilled
| Sodium petroleum sulfonate
| Sulfohydrocarbon (C3-C88)
| Waxes:
| Petroleum
| Sulfurized fat (C14-C20)
| Sulfurized polyolefinamide alkeneamines (C28-C250)
| White spirit (low (15-20%) aromatic)
34. Esters | Acid oil mixture from soybean, corn (maize) and sunflower oil refining
| Alkane (C14-C17) sulfonic acid, sodium salt solution
| Alkyl(C8+)amine, Alkenyl (C12+) acid ester mixture
| Alkylaryl phosphate mixtures, (more than 40% Diphenyl tolyl phosphate. Less than 0.02% ortho-isomer)
| Alkyl dithiocarbamate (C19-C35)
| Alkyl ester copolymer (C4-C20)
| Alkyl ester copolymer (C6-C18)
| Alkyl ester copolymer in mineral oil
| Alkyl(C7-C9) nitrates ²
| Alkyl (C8-C40) phenol sulfide
| Alkyl (C10-C20, saturated and unsaturated) phosphite
| Alkyl sulfonic acid ester of phenol
| Alkyl (C18-C28) toluene sulfonic acid, Calcium salts, borated
| Alkylaryl phosphate mixtures (more than 40%)
| Amyl acetate (all isomers)
| Amyl acid phosphate
| t-Amyl formate
| Animal and Fish oils, n.o.s.
| Animal and Fish acid oils and distillates, n.o.s.
| Barium long chain alkaryl (C11-C50) sulfonate
| Barium long chain alkyl(C8-C14)phenate sulfide
| Benzene tricarboxylic acid trioctyl ester
| Benzyl acetate
| Bio-fuel blends of Diesel/gas oil and FAME (>25% but <99% by volume)
| Bio-fuel blends of Diesel/gas oil and vegetable oil (>25% but <99% by volume) Boronated calcium sulfonate
| Butyl acetate (all isomers)
| Butyl benzyl phthalate
| Butyl butyrate (all isomers)
| Butyl formate
| iso-Butyl isobutyrate
| n-Butyl propionate
| Butyl stearate
| Calcium alkaryl sulfonate (C11-C50) Calcium alkyl(C9)phenol sulfide, polyolefin phosphorosulfide mixture
| Calcium alkyl (C10-C28) salicylateCalcium carbonate slurry
| Calcium long chain alkaryl sulfonate (C11-C50)
| Calcium long chain alkyl (C5-C10) phenate
| Calcium long chain alkyl (C5-C20) phenate
| Calcium long chain alkyl (C11-C40) phenate
| Calcium long chain alkyl phenate sulfide (C8-C40)
| Calcium long chain alkyl phenates
| Calcium long chain alkyl salicylate (C13+)
| Calcium long chain alkyl (C18-C28) salicylate
| Calcium nitrate, Magnesium nitrate, Potassium chloride solution
| Calcium nitrate
| Calcium nitrate solutions (50% or less)
| Calcium salts of fatty acids
| Calcium stearate
| Camelina oil
| Cesium formate solution
| Cobalt naphthenate in solvent naphtha
| Coconut oil, fatty acid
| Coconut oil, fatty acid methyl ester
| Copper salt of long chain (C3-C16) fatty acid
| Copper salt of long chain (C17+) fatty acid
| Copper salt of long chain alkanoic acids
| Cottonseed oil, fatty acid
| Cyclohexyl acetate
| Decyl acetate
| Dialkyl(C7-C13) phthalates
| Dialkyl(C7-C17) phthalates
| Dialkyl thiophosphates sodium salts solution
| Dibutyl hydrogen phosphonate
| Dibutyl phthalate
| Dibutyl terephthalate
| Diethylene glycol butyl ether acetate
| Diethylene glycol dibenzoate
| Diethylene glycol ethyl ether acetate
| Diethylene glycol methyl ether acetate
| Diethylene glycol phthalate
| Di-(2-ethylhexyl)adipate
| Di-(2-ethylhexyl)phthalate
| Diethyl phthalate
| Diethyl sulfate
| Diheptyl phthalate
| Dihexyl phthalate
| Di-n-hexyl adipate
| Diisobutyl phthalate
| Diisodecyl phthalate
| Diisononyl adipate
| Diisononyl phthalate
| Diisooctyl phthalate
| Dimethyl adipate
| Dimethylcyclicsiloxane hydrolyzate
| Dimethyl glutarate
| Dimethyl hydrogen phosphite ²
| Dimethyl naphthalene sulfonic acid, sodium salt solution ²
| Dimethyl phthalate
| Dimethyl polysiloxane
| Dimethyl succinate
| Dinonyl phthalate
| Dioctyl phthalate
| Diphenyl tolyl phosphate, less than 0.02% ortho-isomer)
| Dipropylene glycol dibenzoate
| Dithiocarbamate ester (C7-C35)
| Ditridecyl adipate
| Ditridecyl phthalate
| 2-Dodecenylsuccinic acid, dipotassium salt solution
| Diundecyl phthalate
| 2-Ethoxyethyl acetate
| Ethyl acetate
| Ethyl acetoacetate
| Ethyl butyrate
| 2-Ethyl-2-(2,4-dichlorophenoxy) acetate
| 2-Ethyl-2-(2,4-dichlorophenoxy) propionate
| s-Ethyl dipropylthiocarbamate
| Ethylene carbonate
| Ethylene glycol
| Ethylene glycol acetate
| Ethylene glycol butyl ether acetate
| Ethylene glycol diacetate
| Ethylene glycol ethyl ether acetate
| Ethylene glycol methyl ether acetate
| Ethyl-3-ethoxypropionate
| Ethyl hexyl phthalate
| 2-Ethyl-2-(hydroxymethyl) propane-1,3-diol, C8-C10 ester
| Ethyl propionate
| Ethyl propionate
| Fatty acids (saturated, C14+)
| Glycerol polyalkoxylate
| Glyceryl triacetate
| Glycidyl ester of C10 trialkyl acetic acid
| Gylcidyl ester of tridecylacetic acid
| Heptyl acetate
| Hexyl acetate
| Isobutyl formate
| Isopropyl acetate
| Lard
| Lauric acid
| Lecithin
| Magnesium long chain alkaryl sulfonate (C11-C50)
| Magnesium long chain alkyl phenate sulfide (C8-C20)
| Magnesium long chain alkyl phenate sulfide (C8-C40)
| Magnesium long chain alkyl salicylate (C11+)
| Magnesium long chain alkyl salicylate (C13+)
| Mango kernel
| 3-Methoxybutyl acetate
| 1-Methoxy-2-propyl acetate
| Methyl acetate
| Methyl acetoacetate
| Methyl amyl acetate
| Methyl butyrate
| Methyl formate
| 3-Methyl-3-methoxybutyl acetate
| Methyl salicylate
| Metolachlor
| Naphthalene sulfonic acid, sodium salt solution (40% or less)
| Nitrilotriacetic acid, trisodium salt solution
| Nonyl acetate
| Octamethylcyclotetrasiloxane
| n-Octyl acetate
| Octyl decyl adipate
| Oil, edible:
| Beechnut
| Castor
| Cocoa butter
| Coconut ²
| Cod liver
| Corn
| Cotton seed
| Fish ²
| Groundnut
| Hazelnut
| Lard
| Lanolin
| Nutmeg butter
| Olive
| Palm ²
| Palm kernel
| Peanut
| Poppy
| Poppy seed
| Raisin seed
| Rapeseed
| Rice bran
| Safflower
| Salad
| Sesame
| Soya bean
| Sunflower
| Sunflower seed
| Tucum
| Vegetable
| Walnut
| Oil, misc:
| Animal
| Coconut oil, fatty actid methyl ester
| Cotton seed oil, fatty acid
| Lanolin
| Palm kernel oil, fatty acid methyl ester
| Palm oil, methyl ester
| Pilchard
| Perilla
| Soapstock
| Soyabean (epoxidized)
| Tall
| Tall, fatty acid ²
| Tung
| Olefin/Alkyl ester copolymer (molecular weight 2000+)
| Oleic acid
| Palm acid oil
| Palm fatty acid distillate
| Palm kernel acid oil
| Palm kernel acid oil, methyl esterPalm kernel oil fatty acid
| Palm mid fraction
| Palm oil
| Palm oil fatty acid
| Palm oil fatty acid methyl ester
| Palm kernel olein
| Palm kernel stearin
| Palm olein
| Palm stearin
| n-Pentyl propionate
| Phosphate esters
| Poly(2-8)alkylene glycol monoalkyl(C1-C6) ether acetate
| Polydimethylsiloxane
| Polyferric sulfate solution
| Polymethylsiloxane
| Polyolefin amide alkeneamine borate (C28-C250)
| Poly(20)oxyethylene sorbitan monooleate
| Polysiloxane
| Polysiloxane/White spirit, low (15-20%) aromatic
| Polyolefin aminoester salt
| Polyolefin ester (C28-C250)
| Polyolefin phosphorosulfide, barium derivative (C28-C250)
| Potassium formate solution
| Potassium formate solution (75% or more)
| Potassium oleate
| Potassium salt of polyolefin acid
| Propyl acetate
| Propylene carbonate
| Propylene glycol methyl ether acetate
| Rapeseed oil fatty acid methyl esters
| Rapeseed oil (low erucic acid containing less than 4% free fatty acids)
| Shea butter
| Siloxanes
| Sodium acetate, Glycol, Water mixture (not containing Sodium hydroxide) ²
| Sodium acetate solution
| Sodium alkyl (C14-C17) sulfonates 60-65% solution
| Sodium benzoate solution
| Sodium bicarbonate solution (less than 10%)
| Sodium bromide solution (less than 50%)
| Sodium dimethyl naphthalene sulfonate solution ²
| Sodium long chain alkyl salicylate (C13+)
| Sodium naphthalene sulfonate solution
| Sodium petroleum sulfonate
| Sodium sulfate solutions
| Soyabean oil (epoxidized)
| Stearic acid
| Tall oil
| Tall oil, crude
| Tall oil, distilled
| Tall oil fatty acid (Resin acids less than 20%) ²
| Tall oil, pitch
| Tall oil soap, crude
| Tallow ²
| Tallow fatty acid ²
| Tributyl phosphate
| Tricresyl phosphate
| Tricresyl phosphate (containing 1% or more ortho-isomer)
| Tricresyl phosphate (containing less than 1% ortho-isomer)
| Tridecanoic acid
| Tridecyl acetate
| Triethylene glycol dibenzoate
| Triethylene glycol di-(2-ethylbutyrate)
| Triethyl phosphate
| Triethyl phosphite ²
| Triisooctyl trimellitate
| Triisopropylated phenyl phosphates
| 2,2,4-Trimethyl-1,3-pentanediol diisobutyrate
| 2,2,4-Trimethyl-1,3-pentanediol-1-isobutyrate
| 2,2,4-Trimethyl-3-pentanol-1-isobutyrate
| Trimethyl phosphite ²
| Trisodium nitrilotriacetate
| Trixylyl phosphate
| Trixylenyl phosphate
| Urea/Ammonium nitrate solution
| Vegetable acid oils and distillates, n.o.s.
| Vegetable fatty acid distillates
| Vegetable oils, n.o.s.
| Waxes:
| Carnauba
| Zinc alkaryl dithiophosphate (C7-C16)
| Zinc alkyl dithiophosphate (C3-C14)
35. Vinyl Halides | Vinyl chloride
| Vinylidene chloride
36. Halogenated Hydrocarbons | Benzyl chloride
| Bromochloromethane
| Carbon tetrachloride ²
| Catoxid feedstock ²
| Chlorinated paraffins (C10-C13)
| Chlorinated paraffins (C14-C17) (with 50% Chlorine or more, and less than 1% C13 or shorter chains)
| Chlorinated paraffins (C14-C17) (with 52% chlorine)
| Chlorinated paraffins (C18+) with any level of chlorine
| Chlorobenzene
| Chlorodifluoromethane
| Chloroform
| Chlorotoluene
| m-Chlorotoluene
| o-Chlorotoluene
| p-Chlorotoluene
| Chlorotoluenes (mixed isomers)
| Dibromomethane
| Dibutylphenols
| 3,4-Dichloro-1-butene
| Dichlorobenzene (all isomers)
| Dichlorodifluoromethane
| 1,1-Dichloroethane
| 1,6-Dichlorohexane
| Dichloromethane
| Dichloropropane
| Ethyl chloride
| Ethylene dibromide
| Ethylene dichloride ²
| Methyl bromide
| Methyl chloride
| Monochlorodifluoromethane
| n-Propyl chloride
| Pentachloroethane
| Perchloroethylene
| 1,1,2,2-Tetrachloroethane
| 1,2,3-Trichlorobenzene
| 1,2,3-Trichlorobenzene (molten)
| 1,2,4-Trichlorobenzene
| 1,1,1-Trichloroethane ²
| 1,1,2-Trichloroethane
| Trichloroethylene ²
| 1,2,3-Trichloropropane
| 1,1,2-Trichloro-1,2,2-trifluoroethane
37. Nitriles | Acetonitrile
| Acetonitrile (low purity grade)
| Adiponitrile
| Lactonitrile solution (80% or less)
| 2-Methylglutaronitrile
| 2-Methylglutaronitrile with 2-Ethylsuccinonitrile (12% or less)
| Propionitrile
| Tallow nitrile
38. Carbon Disulfide | Carbon disulfide
39. Sulfolane | Sulfolane
40. Glycol Ethers | Alcohol (C9-C11) poly (2.5-9) ethoxylates
| Alcohol (C6-C17) (secondary) poly (3-6) ethoxylates
| Alcohol (C6-C17) (secondary) poly (7-12) ethoxylates
| Alcohol (C12-C16) poly (1-6) ethoxylates
| Alcohol (C12-C16) poly (7-19) ethoxylates
| Alcohol (C12-C16) poly (20+) ethoxylates
| Alkyl (C7-C11) phenol poly(4-12)ethoxylate
| Alkyl (C9-C15) phenyl propoxylate
| Diethylene glycol ²
| Diethylene glycol butyl ether
| Diethylene glycol dibutyl ether
| Diethylene glycol diethyl ether
| Diethylene glycol ethyl ether
| Diethylene glycol methyl ether
| Diethylene glycol n-hexyl ether
| Diethylene glycol phenyl ether
| Diethylene glycol propyl ether
| Dipropylene glycol
| Dipropylene glycol butyl ether
| Dipropylene glycol methyl ether
| Ethoxy triglycol
| Ethylene glycol hexyl ether
| Ethylene glycol methyl butyl ether
| Ethylene glycol monoalkyl ethers
| Ethylene glycol tert-butyl ether
| Ethylene glycol butyl ether
| Ethylene glycol dibutyl ether
| Ethylene glycol ethyl ether
| Ethylene glycol isopropyl ether
| Ethylene glycol methyl ether
| Ethylene glycol phenyl ether
| Ethylene glycol phenyl ether, Diethylene glycol phenyl ether mixture
| Ethylene glycol propyl ether
| Glucitol/glycerol blend propoxylated (containing less than 10% amines)
| Glycerol, ethoxylated
| Glycerol, propoxylated
| Glycerol, propoxylated and ethoxylated
| Glycerol/Sucrose blend propoxylated and ethoxylated
| Hexaethylene glycol
| alpha-Hydro-omega-hydroxytetradeca (oxytetramethylene)
| Methoxy triglycol
| Nonyl phenol poly(4+)ethoxylates
| Pentaethylene glycol methyl ether
| Polyalkylene glycol butyl ether
| Polyalkylene glycols, Polyalkylene glycol monoalkyl ethers mixtures
| Polyether glycol (MW 600-700) (TETRAETHANE 650)
| Polyether glycol (MW 950-1050) (TETRAETHANE 1000)
| Polyether glycol (MW 1350-1450) (TETRAETHANE 1400)
| Polyether glycol (MW 1900-2100) (TETRAETHANE 2000)
| Polyether glycol (MW 2825-2975) (TETRAETHANE 2900)
| Polyethylene glycols
| Polyethylene glycol dimethyl ether
| Poly(ethylene glycol) methylbutenyl ether (MW>1000)
| Poly(2-8)alkylene glycol monoalkyl(C1-C6) ether
| Poly(2-8)alkylene glycol monoalkyl(C1-C6) ether acetate
| Polyethylene glycol monoalkyl ether
| Polypropylene glycol methyl ether
| Polypropylene glycols
| Poly(tetramethylene ether) glycols (MW 950-1050)
| Polytetramethylene ether glycol
| n-Propoxypropanol
| Propylene glycol monoalkyl ether
| Propylene glycol ethyl ether
| Propylene glycol methyl ether
| Propylene glycol n-butyl ether
| Propylene glycol phenyl ether
| Propylene glycol propyl ether
| Tetraethylene glycol
| Tetraethylene glycol methyl ether
| Triethylene glycol
| Triethylene glycol butyl ether
| Triethylene glycol butyl ether mixture
| Triethylene glycol ether mixture
| Triethylene glycol ethyl ether
| Triethylene glycol methyl ether
| Tripropylene glycol
| Tripropylene glycol methyl ether
41. Ethers | Alcohol (C12-C13, branched and linear) poly (4-8) propoxy sulfates, sodium salt 25-30% solution
| Alkaryl polyether (C9-C20)
| tert-Amyl methyl ether
| Brominated Epoxy Resin in Acetone
| Butyl ether
| n-Butyl ether-Dichloroethyl ether
| 2,2′-Dichloroisopropyl etherDiethyl ether
| Diethylene glycol propyl ether
| Diglycidyl ether of Bisphenol A
| Diglycidyl ether of Bisphenol F
| Dimethyl furan
| 1,4-Dioxane
| Diphenyl ether
| Diphenyl ether, Diphenyl phenyl ether mixture
| Ethyl tert-butyl ether
| Ethyl ether
| Isopropyl ether
| Long chain alkaryl polyether (C11-C20)
| Methyl-tert-butyl ether ²
| Methyl tert-pentyl ether
| Polyether (molecular weight 2000+)
| Polyether, borated
| Polyether polyols
| Poly(oxyalkylene)alkenyl ether (MW>1000)
| Polyoxybutylene alcohol
| Propyl ether
| Tetrahydrofuran
| 1,3, 5-Trioxane
42. Nitrocompounds | o-Chloronitrobenzene
| Dinitrotoluene
| Nitrobenzene
| Nitroethane
| Nitroethane (80%)/Nitropropane (20%)
| Nitroethane, 1-Nitropropane mixture
| Nitropropane
| Nitropropane, Nitroethane mixtures
| Nitrophenol (mixed isomers)
| o- or p-Nitrotoluenes
43. Miscellaneous Water Solutions | Alkyl (C8-C10)/(C12-C14):(40% or less/60% or more) polyglucoside solution (55% or less)
| Alkyl (C8-C10)/(C12-C14):(50%/50%) polyglucoside solution (55% or less)
| Alkyl (C8-C10)/(C12-C14):(60% or more/40% or less) polyglucoside solution (55% or less)
| Alkyl (C8-C10) polyglucoside solution (65% or less)
| Alkyl (C12-C14) polyglucoside solution (55% or less)
| Alkyl polyglucoside solutions
| Aluminum hydroxide, sodium hydroxide, sodium carbonate solution (40% or less)
| Aluminum sulfate solution ²
| 2-Amino-2-hydroxymethyl-1,3-propanediol solution
| Ammonium bisulfite solution ²
| Ammonium chloride solution (less than 25%) drilling brines
| Ammonium chloride solution (less than 25%)
| Ammonium lignosulfonate solution
| Ammonium nitrate, Urea solution (not containing Ammonia)
| Ammonium polyphosphate solution
| Ammonium sulfate solution
| Ammonium thiosulfate solution (60% or less)
| Barium sulfate slurry
| Calcium bromide solution
| Calcium chloride solution
| Calcium formate solution
| Calcium lignosulfonate solution
| Calcium lignosulfonate solution (free alkali content 1% or less)
| Caramel solutions
| Clay slurry
| Coal slurry
| Corn syrup
| Dextrose solution
| 2,4-Dichlorophenoxyacetic acid, Diethanolamine salt solution
| 2,4-Dichlorophenoxyacetic acid, Triisopropanolamine salt solution ²
| Diethanolamine salt of 2,4-Dichlorophenoxyacetic acid solution
| Diethylenetriamine pentaacetic acid, pentasodium salt solution
| Dodecyl diphenyl ether disulfonate solution
| Drilling brine (containing Calcium, Potassium, or Sodium salts)
| Drilling brine (containing Zinc salts)
| Drilling brines, including: Calcium bromide solution, Calcium chloride solution and Sodium chloride solution
| Drilling mud (low toxicity) (if non-flammable or non-combustible)
| Ethylenediaminetetracetic acid, tetrasodium salt solution
| Ethylene-Vinyl acetate copolymer emulsion
| Ferric hydroxyethylethylenediamine triacetic acid, trisodium salt solution ²
| Ferrous chloride solution (less than 40%, containing less than 10% Manganese and Aluminum chlorides)
| Fish solubles (water based fish meal extracts)
| Fructose solution
| Fumaric adduct of Rosin, water dispersion
| Hexamethylenediamine adipate solution
| N-(Hydroxyethyl)ethylene diamine triacetic acid, trisodium salt solution
| Kaolin clay slurry
| Latex: Carboxylated Styrene-Butadiene copolymer; Styrene-butadiene rubber
| Latex, liquid synthetic
| Lignin liquor
| Ligninsulfonic acid, magnesium salt solution
| Liquid Streptomyces solubles
| L-Lysine solution (60% or less)
| Magnesium nitrate solution (66.7%)
| N-Methylglucamine solution
| N-Methylglucamine solution (70% or less)
| Naphthenic acid, sodium salt solution
| Polyacrylic acid solution (40% or less)
| Potassium chloride solution
| Potassium chloride solution (less than 26%)
| Potassium thiosulfate solution
| Potassium thiosulfate solution (50% or less)
| Rosin soap (disproportionated) solution
| Sewage sludge, treated
| Sodium alkyl sulfonate solution
| Sodium bromide solution (less than 50%)
| Sodium hydrogen sulfite solution
| Sodium lignosulfonate solution
| Sodium polyacrylate solution ²
| Sodium salt of Ferric hydroxyethylethylenediamine triacetic acid solution
| Sodium silicate solution ²
| Sodium sulfide solution
| Sodium sulfite solution
| Sodium sulfite solution (25% or less)
| Sodium tartrates, Sodium succinates solution
| Sulfonated polyacrylate solutions ²
| Tall oil soap (disproportionated) solution
| Tetrasodium salt of EDTA solution
| Titanium dioxide slurry
| Triisopropanolamine salt of 2,4-Dichlorophenoxyacetic acid solution
| Urea, Ammonium nitrate solution (not containing Ammonia)
| Urea, Ammonium phosphate solution
| Urea solution
| Vegetable protein solution (hydrolysed)
| Water
Notes:
¹ Because of very high reactivity or unusual conditions of carriage or potential compatibility problems, this commodity is not assigned to a specific group in Figure 1 to 46 CFR part 150 (Compatibility Chart).
² See Appendix I to 46 CFR part 150 (Exceptions to the Chart).

6. Revise Appendix I to part 150 to read as follows:

Appendix I to Part 150—Exceptions to the Chart

(a) The binary combinations listed below have been tested as prescribed in Appendix III to part 150 and found not to be dangerously reactive. These combinations are exceptions to Figure 1 of part 150 (Compatibility Chart) and may be stowed in adjacent tanks.

Member of reactive group | Compatible with
Acetone (18) | Diethylenetriamine (7).
Acetone cyanohydrin (0) | Acetic acid (4).
Acrylonitrile (15) | Triethanolamine (8).
n-Butyl alcohol (20) | Caustic Potash (50% or less).
1,3-Butylene glycol (20) | Morpholine (7).
1,4-Butylene glycol (20) | Ethylamine (7). Triethanolamine (8).
gamma-Butyrolactone (0) | N-Methyl-2-pyrrolidone (9).
Caustic potash, 50% or less (5) | Isobutyl alcohol (20). Ethyl alcohol (20). n-Butyl alcohol (20).
| Ethylene glycol (20).
| Isopropyl alcohol (20).
| Methyl alcohol (20).
| iso-Octyl alcohol (20).
| Propylene glycol (20).
Caustic soda, 50% or less (5) | Acrylonitrile/Styrene copolymer dispersion in Polyether polyol (20). iso-Butyl alcohol (20).
| Butyl alcohol (20). tert-Butyl alcohol, Methanol mixtures. Decyl alcohol (20).
| Cetyl alcohol (20).
| Alcohol (C12-C16) poly(1-6)ethoxylates) (20).
| iso-Decyl alcohol (20).
| Diacetone alcohol (20).
| Diethylene glycol (40).
| Dodecyl alcohol (20).
| Ethyl alcohol (20).
| Ethyl alcohol (40%, whiskey) (20).
| Ethylene glycol (20).
| Ethylene glycol, Diethylene glycol mixture (20).
| Ethyl hexanol (Octyl alcohol) (20).
| Methyl alcohol (20).
| Nonyl alcohol (20).
| iso-Decyl alcohol (20).
| iso-Nonyl alcohol (20).
| Propyl alcohol (20).
| iso-Propyl alcohol (20).
| Propylene glycol (20).
| Sodium chlorate solution (0).
| iso-Tridecanol (20).
1,1-Dichloroethane (36) | Dimethyl disulfide (0).
Dimethyl disulfide (0) | Acetic acid (4).
| Acetic anhydride (11).
| Acetone (18).
| Acrylates (14).
| Acrylic acid (4).
| Alcohols, Glycols (20).
| Aromatic hydrocarbons (32).
| Benzene (32).
| Cyclohexanone (18).
| Diisononyl phthalate (34).
| Esters (34).
| Ethyl acetate (34).
| Ethyl acrylate (14).
| Ethyl dichloride (36) [1,1-Dichloroethane].
| Ethylene cyanohydrin (20).
| Ethylene glycol ethyl ether acetate (34) [2-Ethoxyethyl acetate].
| Formic acid (4).
| Halogenated hydrocarbons (36).
| Ketones (18).
| Mesityl oxide, Methyl ethyl ketone (18).
| Octene, Olefins (30).
| Organic acids (4).
| Organic anhydrides (11).
| Paraffins (31).
| Phenol (21).
| Phenols, Cresols (21).
| Trichloroethylene (36).
Diphenylmethane diisocyanate (12) | Perchloroethylene (36).
| Dichloromethane (36).
| 2,2-Dimethylpropane-1,3-diol (20).
| Polypropylene glycol (40).
| Trichloroethylene (36).
tert-Dodecanethiol (0) | Acetone (18).
| Acrylonitrile (15).
| 2-Butoxyethanol (20).
| n-Butyl acrylate (14).
| Caustic soda solution (50%) (5).
| Chloroform (36).
| iso-Decyl alcohol (20).
| Dichloromethane (36).
| Diglycidyl ether of Bisphenol A (41).
| Diisodecyl phthalate (34).
| Diglycidyl ether of Bisphenol A (41).
| Dichloromethane (36).
| Diisodecyl phthalate (DIDP) (34).
| Dipropylene glycol (40).
| Epichlorohydrin (17).
| Ethyl acrylate (14).
| Methanol (20).
| Methyl ethyl ketone (18).
| Naphtha, Solvent (33).
| iso-Nonyl alcohol (20).
| Perchloroethylene (36).
| iso-Propyl alcohol (20).
| iso-Propylamine solution (70%) (7).
| Propylene glycol methyl ether (40).
| Propylene glycol methyl ether acetate (34).
| Tall oil, crude (34).
| Toluene (32).
| Toluene diisocyanate (TDI) (12).
| White mineral oil (Carnation oil) (33).
Dodecyl and Tetradecylamine mixture (7) | Tall oil, fatty acid (34).
Ethylenediamine (7) | Butyl alcohol (20).
| tert-Butyl alcohol (20).
| Butylene glycol (20).
| Creosote (21).
| Diethylene glycol (40).
| Ethyl alcohol (20).
| Ethylene glycol (20).
| Ethyl hexanol (20).
| Fatty alcohols (C12-C14).
| Glycerine (20).
| Isononyl alcohol (20).
| Isophorone (18).
| Methyl butyl ketone (18).
| Methyl iso-butyl ketone (18).
| Methyl ethyl ketone (18).
| Propyl alcohol (20).
| Propylene glycol (20).
Lactic acid (0) | Acetic acid (4).
| Benzene (32).
| Ethanol (20).
| Polypropylene glycol (40).
| Vinyl acetate (13).
Oleum (0) | Hexane (31).
| Dichloromethane (36).
| Perchloroethylene (36).
1,2-Propylene glycol (20) | Diethylenetriamine (7).
| Polyethylene polyamines (7).
| Triethylenetetramine (7).
Sodium cresylate as Cresylate spent caustic (5) | Methyl alcohol (20).
Sodium dichromate, 70% (0) | Methyl alcohol (20).
Sodium dichromate, 69% (0) | 1-Hexene (30).
Sodium hydrogen sulfide solution (5) | iso-Propyl alcohol (20).
Sodium hydrosulfide solution (5) | Methyl alcohol (20).
| Iso-Propyl alcohol (20).
Sulfuric acid (2) | Coconut oil (34).
| Coconut oil acid (34).
| Palm oil (34).
| Tallow (34).
Sulfuric acid, 98% or less (2) | Choice white grease tallow (34).

(b) The binary combinations listed below have been determined to be dangerously reactive, based on either data obtained in the literature or on laboratory testing which has been carried out in accordance with procedures prescribed in Appendix III. These combinations are exceptions to the Compatibility Chart (Figure 1) and may not be stowed in adjacent tanks.

Acetone cyanohydrin (0) is not compatible with Groups 1-12, 16, 17 and 22.

Acrolein (19) is not compatible with Group 1, Non-Oxidizing Mineral Acids.

Acrylic acid (4) is not compatible with Group 9, Aromatic Amines.

Acrylonitrile (15) is not compatible with Group 5 (Caustics).

Alkylbenzenesulfonic acid (0) is not compatible with Groups 1-3, 5-9, 15, 16, 18, 19, 30, 34, 37, and strong oxidizers.

Allyl alcohol (15) is not compatible with Group 12, Isocyanates.

Alkyl (C7-C9) nitrates (34) is not compatible with Group 1, Non-oxidizing Mineral Acids.

Aluminum sulfate solution (43) is not compatible with Groups 5-11.

Ammonium bisulfite solution (43) is not compatible with Groups 1, 3, 4, and 5.

Benzenesulfonyl chloride (0) is not compatible with Groups 5-7, and 43.

1,4-Butylene glycol (20) is not compatible with Caustic soda solution, 50% or less (5).

gamma-Butyrolactone (0) is not compatible with Groups 1-9.

C9 Resinfeed (DSM) (32) is not compatible with Group 2, Sulfuric acid.

Carbon tetrachloride (36) is not compatible with Tetraethylenepentamine or Triethylenetetramine, both Group 7, Aliphatic amines.

Catoxid feedstock (36) is not compatible with Group 1, 2, 3, 4, 5, or 12.

Caustic soda solution, 50% or less (5) is not compatible with 1,4-Butylene glycol (20).

1-(4-Chlorophenyl)-4,4-dimethyl pentan-3-one (18) is not compatible with Group 5 (Caustics) or 10 (Amides).

Crotonaldehyde (19) is not compatible with Group 1, Non-Oxidizing Mineral Acids.

Cyclohexanone, Cyclohexanol mixture (18) is not compatible with Group 12, Isocyanates.

2,4-Dichlorophenoxyacetic acid, Triisopropanolamine salt solution (43) is not compatible with Group 3, Nitric Acid.

2,4-Dichlorophenoxyacetic acid, Dimethylamine salt solution (0) is not compatible with Groups 1-5, 11, 12, and 16.

Diethylenetriamine (7) is not compatible with 1,2,3-Trichloropropane, Group 36, Halogenated hydrocarbons.

Dimethyl hydrogen phosphite (34) is not compatible with Groups 1 and 4.

Dimethyl naphthalene sulfonic acid, sodium salt solution (34) is not compatible with Group 12, Formaldehyde, and strong oxidizing agents.

Dodecylbenzenesulfonic acid (0) is not compatible with oxidizing agents and Groups 1, 2, 3, 5, 6, 7, 8, 9, 15, 16, 18, 19, 30, 34, and 37.

Ethylenediamine (7) and Ethyleneamine EA 1302 (7) are not compatible with either Ethylene dichloride (36) or 1,2,3-Trichloropropane (36).

Ethylene dichloride (36) is not compatible with Ethylenediamine (7) or Ethyleneamine EA 1302 (7).

Ethylidene norbornene (30) is not compatible with Groups 1-3 and 5-8.

2-Ethyl-3-propylacrolein (19) is not compatible with Group 1, Non-Oxidizing Mineral Acids.

Ethyl tert-butyl ether (41) is not compatible with Group 1, Non-oxidizing mineral acids.

Fatty acids, essentially linear, C6-C18, 2-ethylhexyl ester (4) is not compatible with Group 3, Nitric acid.

Ferric hydroxyethylethylenediamine triacetic acid, Sodium salt solution (43) is not compatible with Group 3, Nitric acid.

Fish oil (34) is not compatible with Sulfuric acid (2).

Formaldehyde (over 50%) in Methyl alcohol (over 30%) (19) is not compatible with Group 12, Isocyanates.

Formic acid (4) is not compatible with Furfural alcohol (20).

Furfuryl alcohol (20) is not compatible with Group 1, Non-Oxidizing Mineral Acids and Formic acid (4).

1,6-Hexanediol distillation overheads (4) is not compatible with Group 3, Nitric acid, and Group 9, Aromatic amines.

2-Hydroxyethyl acrylate (14) is not compatible with Group 5, 6, or 12.

Isophorone (18) is not compatible with Group 8, Alkanolamines.

Lactic acid (0) is not compatible with Caustic soda solution.

Magnesium chloride solution (0) is not compatible with Groups 2, 3, 5, 6 and 12.

Mesityl oxide (18) is not compatible with Group 8, Alkanolamines.

Methacrylonitrile (15) is not compatible with Group 5 (Caustics).

Methyl tert-butyl ether (41) is not compatible with Group 1, Non-oxidizing Mineral Acids.

Nitroethane, 1-Nitropropane (each 15% or more) mixture (42) is not compatible with Group 7, Aliphatic amines, Group 8, Alkanol amines, and Group 9, Aromatic amines.

Nitropropane (20%), nitroethane (80%) mixture (42) is not compatible with Group 7 (Aliphatic amines), Group 8 (Alkanol amines), and Group 9 (Aromatic amines).

NIAX POLYOL APP 240C (0) is not compatible with Groups 2, 3, 5, 7, or 12.

o-Nitrophenol (0) is not compatible with Groups 2, 3, and 5-10.

Octyl nitrates (all isomers), see Alkyl(C7-C9) nitrates.

Oleum (0) is not compatible with Sulfuric acid (2) and 1,1,1-Trichloroethane (36).

Phthalate based polyester polyol (0) is not compatible with Groups 2, 3, 5, 7 and 12.

Polyglycerine, Sodium salts solution (20) is not compatible with Groups 1, 4, 11, 16, 17, 19, 21 and 22.

Propylene, Propane, MAPP gas mixture (containing 12% or less MAPP gas) (30) is not compatible with Group 1 (Non-oxidizing mineral acids), Group 36 (Halogenated hydrocarbons), nitrogen dioxide, oxidizing materials, or molten sulfur.

Sodium acetate, Glycol, Water mixture (1% or less Sodium hydroxide) (34) is not compatible with Group 12 (Isocyanates).

Sodium chlorate solution (50% or less) (0) is not compatible with Groups 1-3, 5, 7, 8, 10, 12, 13, 17 and 20.

Sodium dichromate solution (70% or less) (0) is not compatible with Groups 1-3, 5, 7, 8, 10, 12, 13, 17 and 20.

Sodium dimethyl naphthalene sulfonate solution (34) is not compatible with Group 12, Formaldehyde and strong oxidizing agents.

Sodium hydrogen sulfide, Sodium carbonate solution (0) is not compatible with Groups 6 (Ammonia) and 7 (Aliphatic amines).

Sodium hydrosulfide (5) is not compatible with Groups 6 (Ammonia) and 7 (Aliphatic amines).

Sodium hydrosulfide, Ammonium sulfide solution (5) is not compatible with Groups 6 (Ammonia) and 7 (Aliphatic amines).

Sodium polyacrylate solution (43) is not compatible with Group 3, Nitric Acid.

Sodium silicate solution (43) is not compatible with Group 3, Nitric Acid.

Sodium sulfide, hydrosulfide solution (0) is not compatible with Groups 6 (Ammonia) and 7 (Aliphatic amines).

Sodium thiocyanate (56% or less) (0) is not compatible with Groups 1-4.

Sulfonated polyacrylate solution (43) is not compatible with Group 5 (Caustics).

Sulfuric acid (2) is not compatible with Fish oil (34), or Oleum (0).

Tall oil fatty acid (Resin acids less than 20%) (34) is not compatible with Group 5, Caustics.

Tallow fatty acid (34) is not compatible with Group 5, Caustics.

Tetraethylenepentamine (7) is not compatible with Carbon tetrachloride, Group 36, Halogenated hydrocarbons.

1,2,3-Trichloropropane (36) is not compatible with Diethylenetriamine, Ethylenediamine, Ethyleaneamine EA 1302, or Triethylenetetramine, all Group 7, Aliphatic amines.

1,1,1-Trichloroethane (36) is not compatible with Oleum (0).

Trichloroethylene (36) is not compatible with Group 5, Caustics.

Triethylenetetramine (7) is not compatible with Carbon tetrachloride, or 1,2,3-Trichloropropane, both Group 36, Halogenated hydrocarbons.

Triethyl phosphite (34) is not compatible with Groups 1, and 4.

Trimethyl phosphite (34) is not compatible with Groups 1 and 4.

1,3,5-Trioxane (41) is not compatible with Group 1 (non-oxidizing mineral acids) and Group 4 (Organic acids).

Vinyl neodecanoate (13) is not compatible with Group 5, Caustics.

PART 153—SHIPS CARRYING BULK LIQUID, LIQUEFIED GAS, OR COMPRESSED GAS HAZARDOUS MATERIALS

7. The authority citation for part 153 continues to read as follows:

Authority: 46 U.S.C. 3703; Department of Homeland Security Delegation No. 0170.1. Section 153.40 issued under 49 U.S.C. 5103. Sections 153.470 through 153.491, 153.1100 through 153.1132, and 153.1600 through 153.1608 also issued under 33 U.S.C. 1903(b).

8. Revise Table 2 to part 153 to read as follows:

Table 2 to Part 153—Cargoes Not Regulated Under Subchapters D or O of This Chapter When Carried in Bulk on Non-Oceangoing Barges
[The cargoes listed in this table are not regulated under subchapter D or O of this title when carried in bulk on non-oceangoing barges. Category X, Y, or Z noxious liquid substance (NLS) cargo, as defined in Annex II of MARPOL 73/78, listed in this table, or any mixture containing one or more of these cargoes, must be carried under this subchapter if carried in bulk on an oceangoing ship.]
Cargoes | Pollution category
Acrylic acid/ethenesulfonic acid copolymer with phosphonate groups, sodium salt solution * | Z
Aluminum sulfate solution * | Y
2-Amino-2-hydroxymethyl-1,3-propanediol solution | #
Ammonium hydrogen phosphate solution | Z
Ammonium lignosulfonate solutions, see also Lignin liquor | Z
Ammonium nitrate solution (45% or less) | #
Ammonium phosphate, urea solution, see also Urea, Ammonium phosphate solution | #
Ammonium polyphosphate solution | Z
Ammonium sulfate solution | Z
Ammonium thiosulfate solution (60% or less) | Z
Apple juice | OS
Calcium bromide solution | Z
Calcium carbonate slurry | OS
Calcium chloride solution | Z
Calcium hydroxide slurry | Z
Calcium lignosulfonate solution, see also Lignin liquor | Z
Calcium nitrate solutions (50% or less) * | Z
Calcium nitrate/Magnesium nitrate/Potassium chloride solution | Z
Caramel solutions | #
Chlorinated paraffins (C14-C17) (with 50% Chlorine or more, and less than 1% C13 or shorter chains) * | X
Chlorinated paraffins (C14-C17) (with 52% Chlorine) | #
2-Chloro-4-ethylamino-6-isopropylamino-5-triazine solution | #
4-Chloro-2-methylphenoxyacetic acid, dimethylamine salt solution * | Y
Choline chloride solutions | Z
Clay slurry | OS
Coal slurry | OS
Dextrose solution, see Glucose solution |
Diethylenetriamine pentaacetic acid, pentasodium salt solution | Z
1,4-Dihydro-9,10-dihydroxy anthracene, disodium salt solution | #
Dodecenylsuccinic acid, dipotassium salt solution | #
Drilling brine (containing Calcium, Potassium, or Sodium salts) (see also Potassium chloride solution (10% or more)) | #
Drilling brines, including: Calcium bromide solution, Calcium chloride solution and Sodium chloride solution (if non-flammable and non-combustible) | Z
Drilling brines (containing Zinc salts) | X
Drilling mud (low toxicity) (if non-flammable and non-combustible) | #
Ethylene-Vinyl acetate copolymer (emulsion) | Y
Ferric hydroxyethylethylenediamine triacetic acid, trisodium salt solution | #
Fish solubles (water based fish meal extracts) | #
Fructose solution | #
Glucose solution | OS
Glycine, Sodium salt solution | Z
Glyphosate solution (not containing surfactant) * | Y
Hexamethylenediamine adipate solution | #
Hexamethylenediamine adipate (50% in water) | Z
N-(Hydroxyethyl)ethylenediamine triacetic acid, trisodium salt solution | Y
Kaolin clay solution | #
Kaolin slurry | OS
Kraft pulping liquor (free alkali content, 1% or less) including: Black, Green, or White liquor | #
Lignin liquor (free alkali content, 1% or less) | Z
including:
Ammonium lignosulfonate solutions | Z
Calcium lignosulfonate solutions | Z
Sodium lignosulfonate solution | Z
Ligninsulfonic acid, Sodium salt solution | Z
Magnesium chloride solution | Z
Magnesium hydroxide slurry | Z
Magnesium sulfonate solution | #
Maltitol solution * | OS
Microsillica slurry * | OS
Milk | #
Molasses | OS
Molasses residue (from fermentation) | #
Naphthalenesulfonic acid-Formaldehyde copolymer, sodium salt solution | Z
Naphthenic acid, sodium salt solution | #
Nitrilotriacetic acid, trisodium salt solution * | Y
Noxious liquid, NF, (1) n.o.s. (“trade name” contains “principle components”) ST 1, Cat X (if non-flammable and non-combustible) | X
Noxious liquid, NF, (3) n.o.s. (“trade name” contains “principle components”) ST 2, Cat X (if non-flammable and non-combustible) | X
Noxious liquid, NF, (5) n.o.s. (“trade name” contains “principle components”) ST 2, Cat Y (if non-flammable and non-combustible) | Y
Noxious liquid, NF, (7) n.o.s. (“trade name” contains “principle components”) ST 3, Cat Y (if non-flammable and non-combustible) | Y
Noxious liquid, NF, (9) n.o.s. (“trade name” contains “principle components”) ST 3, Cat Z (if non-flammable and non-combustible) | Z
Noxious liquid, NF, (11) n.o.s. (“trade name” contains “principle components”) Cat Z (if non-flammable and non-combustible) | Z
Noxious liquid, NF, (12) n.o.s. (“trade name” contains “principle components”) Cat OS (if non-flammable and non-combustible) | OS
Orange juice (concentrated) * | OS
Orange juice (not concentrated) * | OS
Pentasodium salt of Diethylenetriamine pentaacetic acid solution, see Diethylenetriamine pentaacetic acid, pentasodium salt solution |
Polyaluminum chloride solution | Z
Potassium chloride solution (26% or more), see Drilling brines, including: Calcium bromide solution, Calcium chloride solution and Sodium chloride solution |
Potassium chloride solution (less than 26%) * | OS
Potassium formate solutions * | Z
Potassium thiosulfate (50% or less) * | Y
Sewage sludge, treated (treated so as to pose no additional decompositional and fire hazard; stable, non-corrosive, non-toxic, non-flammable) | #
Silica slurry | #
Sludge, treated (treated so as to pose no additional decompositional and fire hazard; stable, non-corrosive, non-toxic, non-flammable) | #
Sodium acetate, Glycol, Water mixture (containing 1% or less Sodium hydroxide) (if non-flammable or non-combustible) | #
Sodium acetate solutions | Z
Sodium alkyl (C14-C17) sulfonates (60-65% solution) * | Y
Sodium aluminosilicate slurry | Z
Sodium bicarbonate solution (less than 10%) * | OS
Sodium carbonate solution | Z
Sodium hydrogen sulfide (6% or less)/Sodium carbonate (3% or less) solution * | Z
Sodium lignosulfonate solution, see also Lignin liquor | Z
Sodium naphthenate solution (free alkali content, 3% or less), see Naphthenic acid, sodium salt solution |
Sodium poly(4+)acrylate solutions | Z
Sodium silicate solution | Y
Sodium sulfate solutions | Z
Sodium sulfite solution (25% or less) * | Y
Sodium thiocyanate solution (56% or less) * | Y
Sorbitol solution | OS
Sulfonated polyacrylate solution | Z
Tetrasodium salt of Ethylenediaminetetraaacetic acid solution, see Ethylenediaminetetraacetic acid, tetrasodium salt solution |
Titanium dioxide slurry | Z
1,1,1-Trichloroethane | Y
1,1,2-Trichloro-1,2,2-trifluoroethane | Y
Trisodium salt of N-(Hydroxyethyl)ethylenediamine triacetic acid solution, see N-(Hydroxyethyl)ethylenediamine triacetic acid, trisodium salt solution. |
Urea, Ammonium mono- and di-hydrogen phosphate, Potassium chloride solution | #
Urea/Ammonium nitrate solution * | Z
Urea/Ammonium phosphate solution | Y
Urea solution | Z
Vanillan black liquor (free alkali content, 1% or less) | #
Vegetable protein solution (hydrolyzed) (if non-flammable and non-combustible) | OS
Water | OS
Zinc bromide, Calcium bromide solution, see Drilling brines (containing Zinc salts) |
Explanation of Symbols Used in this Table:
X, Y, Z—NLS Category of Annex II of MARPOL 73/78.
#—No determination of NLS status. For shipping on an oceangoing vessel, see 46 CFR 153.900(c).
OS—Other substances, at present considered to present no harm to marine resources, human health, amenities or other legitimate uses of the sea when discharged into the sea from tank cleaning or deballasting operations.
Abbreviations for Noxious Liquid Cargoes Used In This Table:
Cat—Pollution category.
NF—Non-flammable (flash point greater than 60 degrees C (140 degrees F) cc).
n.o.s.—Not otherwise specified.
ST—Ship type.
*—From the March 2012 Annex to the 2007 IBC Code.

Dated: August 6, 2013.
J. G. Lantz,
Director of Commercial Regulations and Standards, U.S. Coast Guard.

[FR Doc. 2013-19422 Filed 8-15-13; 8:45 am]

BILLING CODE 9110-04-P